OFFICE OF PERSONNEL MANAGEMENT

5 CFR Part 532

[Docket ID: OPM-2024-0016]

RIN 3206-AO69

Prevailing Rate Systems; Change in Criteria for Defining Appropriated Fund Federal Wage System Wage Areas

AGENCY: Office of Personnel Management.

ACTION: Proposed rule.

SUMMARY: The Office of Personnel Management (OPM) is proposing a rule to change the regulatory criteria used to define Federal Wage System (FWS) wage area boundaries and make changes in certain wage areas. The purpose of this change, which would affect around ten percent of the FWS workforce, is to make the FWS wage area criteria more similar to the General Schedule (GS) locality pay area criteria. This change is based on a December 2023 majority recommendation of the Federal Prevailing Rate Advisory Committee (FPRAC), the statutory national level labor-management committee that advises OPM on the administration of the FWS. A summary of this proposed rule may be found in the docket for this rulemaking at www.regulations.gov.

DATES: Send comments on or before December 10, 2024.

ADDRESSES: You may submit comments, identified by docket number and/or Regulatory Information Number (RIN) and title, by the following method:

• Federal Rulemaking Portal: http://www.regulations.gov. Follow the instructions for submitting comments.

All submissions received must include the agency name and docket number or RIN for this Federal Register document. Please arrange and identify your comments on the regulatory text by subpart and section number. All comments must be received by the end of the comment period for them to be considered. All comments and other submissions received generally will be posted at https://regulations.gov, without change, including any personal information provided. However, OPM retains discretion to redact personal or sensitive information, including but not limited to, personal or sensitive information pertaining to third parties.

FOR FURTHER INFORMATION CONTACT: Ana Paunoiu, by telephone at (202) 606-2858 or by email at paypolicy@opm.gov.

SUPPLEMENTARY INFORMATION:

Executive Summary

The prevailing rate system under 5 U.S.C. chapter 53, subchapter IV, is a uniform pay-setting system that covers FWS appropriated fund and nonappropriated fund employees.¹ OPM proposes to amend 5 CFR 532.211 to make the criteria OPM uses to define the geographic boundaries of FWS wage areas more similar to the GS locality pay area criteria and to define revised wage area boundaries in accordance with those revised criteria. These proposed changes would affect around 17,000 FWS employees, or around ten percent of the appropriated fund FWS workforce, by moving them to different wage areas and existing wage schedules.

¹ The Nonappropriated Fund (NAF) employment system is partially within the FWS and managed separately from the appropriated fund system. NAF activities primarily employ food service workers and housekeepers on military bases. Under 5 U.S.C. 5343(a)(1)(B), NAF areas are not defined the same way as appropriated fund so FPRAC has not focused on NAF wage areas. NAF areas are only defined where employees are located. Under 5 CFR 532.219, each NAF wage area “shall consist of one or more survey areas along with nonsurvey areas, if any, having nonappropriated fund employees.”

Following several months of analysis and discussion of these proposed modifications to regulatory criteria, FPRAC ² identified that around 15,000 FWS employees would be placed on higher wage schedules and around 2,000 employees would be placed on lower wage schedules as a result of these changes in policy. Employees who would be placed on a lower wage schedule would, in most cases, be able to retain their current rate of pay under current 5 CFR 536.301(a)(4) pay retention rules.³ Employees under temporary or term appointments and employees appointed after the changes would go into effect are not eligible for pay retention. Under this approach, counties that would be moved from one wage area to another would first be added to the gaining wage area's area of application and then be added to the gaining wage area's survey area for the next suitable full-scale wage survey cycle. The specific timing of survey area changes is contained in the revised appendices to subpart B of 5 CFR part 532 of this proposed rule. Most FWS employees would experience no change in wage rates through these proposed changes.

² The Federal Prevailing Rate Advisory Committee is composed of a Chair, five representatives from labor unions holding exclusive bargaining rights for Federal prevailing rate employees, and five representatives from Federal agencies. Entitlement to membership on the Committee is provided for in 5 U.S.C. 5347. The Committee's primary responsibility is to review the Prevailing Rate System and other matters pertinent to establishing prevailing rates under subchapter IV, chapter 53, 5 U.S.C., as amended, and from time to time advise the Director of OPM on the Governmentwide administration of the pay system for blue-collar Federal employees. Transcripts of FPRAC meetings can be found under the Federal Wage System section of OPM's website (https://www.opm.gov/policy-data-oversight/pay-leave/pay-systems/federal-wage-system/#url=FPRAC).

³ An employee receiving pay retention gets 50 percent of any general increases in pay in the maximum rate of the employee's grade at the time of the increase.

History and Differences Between FWS Wage Areas and GS Locality Pay Areas

There are two major job classification and pay systems in use by the Federal government. The GS covers around 1.5 million employees, and the FWS covers around 200,000 employees with around 170,000 in the appropriated fund system and around 30,000 in the nonappropriated fund system. Note that the nonappropriated fund system is not the subject of this proposed rule, which is limited to the appropriated fund system's wage area definition criteria and conforming geographic area definitions. Craft, trade, and laboring workers are covered by the FWS and are employed directly by the Federal government with wage levels set according to prevailing private sector rates. Although there are now only around 200,000 such employees in appropriated and nonappropriated fund activities, there were around 700,000 during the Vietnam War era when the FWS was established as a single job grading and pay system. Until 1965, each Federal agency had authority to determine local prevailing rates and establish wage area boundaries for its prevailing rate employees. Consequently, prevailing rate employees at the same grade level in the same city working for different agencies received different wage rates. In 1965, President Lyndon B. Johnson addressed these inequities by ordering Federal agencies to coordinate their wage-setting activities under the leadership of the Civil Service Commission. The Commission established the National Wage Policy Committee (NWPC), which was composed of the heads of the major employing agencies and the heads of the major Federal employee unions, to seek advice on how to administratively combine separate agency pay systems into a Coordinated Federal Wage System (CFWS). The NWPC worked diligently and collaboratively to develop and recommend policies for the new CFWS.

In 1972, President Richard M. Nixon signed Public Law 92-392, the Prevailing Rate Systems Act, which established the current FWS. The FWS incorporated most of the existing administrative policies of the CFWS. Since 1972, the Commission and its successor agency, OPM, have been responsible for overseeing the policies for administering the FWS after receiving advice from FPRAC. The FWS now covers about 170,000 appropriated fund craft, trade, and laboring employees. These employees are located in 130 separate wage areas throughout the country and in overseas locations. The geographic definitions of wage areas have remained largely the same since the late 1960s with changes occurring primarily as a result either of military base closures and realignments that left a wage area without enough FWS employees to participate in local wage surveys or of Metropolitan Statistical Area redefinitions.

Each FWS wage area consists of a survey area and area of application. A survey area includes the counties, cities, and towns where DOD, the lead agency for appropriated fund wage areas, collects and analyzes private sector wage data to produce annual wage schedules for each of the 130 wage areas. An area of application includes the survey area and nearby counties, cities, and towns where the wage schedules for a wage area also apply.

One of the key statutory principles underlying the FWS is that pay rates are to be maintained in line with prevailing levels of pay for comparable levels of work in the private sector within a local wage area. Because the FWS is a prevailing rate system, its wage schedules are market sensitive in the sense that the schedules are based on annual local wage surveys. However, all FWS wage schedules have been subject to appropriations legislation each year since FY 1979 to control maximum allowable adjustment amounts (“pay cap provision”) and since FY 2004 to provide for guaranteed minimum adjustment amounts based on the annual pay adjustments received by GS employees where they work (“floor increase provision”). The difference in rates of pay among wage areas reflects that the prevailing cost of labor varies by wage area as measured by annual local wage surveys carried out collaboratively by management and labor as required by law; however, the difference in rates also reflects the differential effects the appropriations provisions have had on the payable wage rates each year. This proposed rule assumes that the pay cap ⁴ provision and floor increase provision will continue in future years through appropriations legislation.

⁴ At the October 20th, 2022, FPRAC public meeting, the Committee recommended by consensus that OPM should seek elimination of an annual provision placed in the Financial Services and General Government Appropriations Act that establishes a statutory limitation each year on the maximum allowable FWS wage schedule adjustment (i.e., the “pay cap provision”).

The geographic definitions of wage areas for FWS employees covered by the 5 CFR 532.211 wage area criteria are different than the pay areas for the 1.5 million employees under the GS. This is because the two pay systems evolved separately and have followed different criteria for defining pay area boundaries for the last 30 years. When the Federal Employees Pay Comparability Act of 1990 (FEPCA) was enacted to implement locality pay for the GS beginning in 1994, the legislation did not require that GS locality pay areas and FWS wage areas have the same geographic coverage. FEPCA did not specify the method for defining geographic pay area boundaries for GS locality pay areas. Instead, FEPCA established the Federal Salary Council (FSC), comprised of experts in pay and labor relations and representatives of employee organizations, to provide advice on how to best administer the GS locality pay system and close gaps between GS and non-Federal pay levels. The FSC meets annually.

FWS wage areas consist of a survey area containing a number of counties surrounding a major military installation or Department of Veterans Affairs (VA) Medical Center where the Department of Defense (DOD) measures prevailing private sector wage levels and an area of application containing additional counties where DOD does not collect wage data but wage schedules apply.

GS locality pay areas consist of a core set of counties generally mirroring the definition of a Combined Statistical Area (CSA) or Metropolitan Statistical Area (MSA), and in some cases, additional area of application counties that are added to the locality pay area based on analyses of regional commuting pattern data. The Bureau of Labor Statistics measures non-Federal labor costs in the locality pay areas and OPM determines overall pay disparities between GS and comparable non-Federal employment in the whole of each locality pay area on behalf of the President's Pay Agent.⁵ As of 2024, there are 58 GS locality pay areas including a Rest of United States (RUS) area that covers the counties in the country that are not defined to individual locality pay areas. The FWS does not have this RUS concept for wage area definitions but instead has every county defined to an individual wage area's area of application or survey area. We note that future changes to GS locality pay areas would not automatically apply to FWS wage areas. OPM, on advice from FPRAC, would review FWS wage areas when updates to CSA and/or MSA definitions are published by OMB or when there are significant changes to employment interchange measures. This policy is consistent with longstanding protocols OPM has followed to administer the FWS.

⁵ Section 5304(d)(1) of title 5, United States Code, authorizes the President to designate a Pay Agent. In Executive Order 12748, the President designated the Secretary of Labor and the Directors of the Office of Management and Budget and the Office of Personnel Management to serve as the President's Pay Agent. Under section 5304 of title 5, the Pay Agent provides for Federal Salary Council meetings, considers the recommendations of the Federal Salary Council, defines locality pay areas, and submits an annual report to the President on the locality pay program. The report compares rates of pay under the General Schedule to non-Federal pay, identifies areas in which a pay disparity exists and specifies the size of the disparity, makes recommendations for locality rates, and includes the views of the Federal Salary Council.

FPRAC Review and Recommendations

During the same period GS locality pay was being introduced in the early 1990s, FPRAC examined the differences in criteria between the GS and FWS, and by consensus, recommended that OPM not change the FWS criteria just for the sake of changing the criteria to make the systems look more similar. Locality pay for GS employees was a new and unproven concept at that time. Since that time, however, the differences in geographic pay area boundaries for the GS and FWS have increasingly raised concerns among employees, their unions, local management officials, and consequently members of Congress. For example, FPRAC heard testimony at its January 21, 2016, meeting from Congressional staff and local employees in support of a proposal introduced by an American Federation of Government Employees (AFGE) representative to review the geographic definitions of Monroe County, PA, including testimony that a high rate of commuting interchange—which triggered Monroe County's reassignment to the New York-Newark GS locality pay area in 2005—also applies to the county's blue-collar employees. 609th FPRAC Meeting transcript (available at https://www.opm.gov/policy-data-oversight/pay-leave/pay-systems/federal-wage-system/federal-prevailing-rate-advisory-committee/meetingtranscript609.pdf). More recently, FPRAC heard testimony from a military command representative of the Naval Support Activity, Monterey, California. The representative testified at the FPRAC 644th Meeting, during an extensive presentation, that the geographical pay differences between GS and FWS employees at Naval Support Activity Monterey impacted negatively the retention and recruitment of qualified employees. 644th FPRAC Meeting transcript (available at https://www.opm.gov/policy-data-oversight/pay-leave/pay-systems/federal-wage-system/federal-prevailing-rate-advisory-committee/meeting-transcript-644.pdf). In February 2024, the president of AFGE Local 1647 at Tobyhanna Army Depot, provided testimony at the FPRAC 650th Meeting regarding “long-standing inequity” between FWS and GS employees in Monroe County, PA. 650th FPRAC Meeting transcript (available at https://www.opm.gov/policy-data-oversight/pay-leave/pay-systems/federal-wage-system/federal-prevailing-rate-advisory-committee/meetingtranscript650.pdf).

The difference in GS and FWS pay area boundaries is most noticeable on the East Coast from Maine to Virginia and on the West Coast in California. In some cases, there are as many as six different FWS wage areas coinciding with a single non-RUS locality pay area for GS employees. For example, the Washington-Baltimore-Arlington, DC-MD-VA-WV-PA GS locality pay area coincides with six different FWS wage areas—the Washington, District of Columbia, FWS wage area; the Baltimore, MD, FWS wage area; the Hagerstown-Martinsburg-Chambersburg, MD, FWS wage area; the Harrisburg, PA, FWS wage area; the Richmond, VA, FWS wage area; and the West Virginia FWS wage area. Conversely, a single wage area may coincide with multiple GS locality pay areas, which, due to the appropriations pay cap and floor increase provisions, can result in multiple, different wage schedules within the wage area. For example, the Central and Western Massachusetts wage area coincides with four different GS locality pay areas—the Albany-Schenectady, NY, GS locality pay area; the Boston-Worcester-Providence, MA-RI-NH-CT-ME, GS locality pay area; the Hartford-West Hartford, CT-MA, GS locality pay area; and RUS. As a result, FWS employees in the Central and Western Massachusetts wage area are paid from four separate wage schedules: (069R)—Central and Western Massachusetts (GS Locality—Boston-Worcester-Providence, MA-RI-NH-CT-ME (BOS)); (269R)—Central and Western Massachusetts (GS Locality—Rest of United States (RUS)); (469R)—Central and Western Massachusetts (GS Locality—Hartford-West Hartford, CT-MA (HAR)); and (669R)—Central and Western Massachusetts (GS Locality—Albany-Schenectady, NY (AL)). Overall, there are 52 appropriated fund wage areas that only coincide with the GS RUS locality pay area. There are 10 wage areas that coincide with only one GS locality pay area other than RUS (e.g., the Alaska wage area coincides with the Alaska GS locality pay area; the Salinas-Monterey wage area coincides only with San Jose-San Francisco-Oakland, CA GS locality pay area; Baltimore wage area coincides only with the Washington-Baltimore-Arlington, DC-MD-VA-WV-PA locality pay area). There are 68 FWS wage areas that coincide with multiple GS locality pay areas, including non-RUS and RUS. Therefore, not only are there differences in pay between FWS and GS employees working at the same location but also among FWS employees within the same wage area. The changes in this proposed rule would reduce the number of wage schedules that apply within a wage area as well as reduce inequities caused by maintaining different criteria for defining GS and FWS pay area boundaries.

In House Report 117-79 ⁶ accompanying the National Defense Authorization Act for Fiscal Year 2022, Congress encouraged OPM “to explore limiting the number of local wage areas defined within a GS Pay Locality to a single wage area.” Even before that, since around 2006, the labor and employing agency representative members of FPRAC discussed different methods for making FWS wage areas more similar to GS locality pay areas, though they have struggled to reach consensus on whether or how to effect changes that would be necessary to make pay area boundaries more similar. The labor organization members of the committee have expressed views that the differences in geographic treatment between the GS and FWS systems are inequitable and unsustainable when GS and FWS employees are working at the same Federal installation.

⁶ House Report 117-79 can be found at https://www.govinfo.gov/content/pkg/CRPT-117hrpt79/pdf/CRPT-117hrpt79.pdf.

Given the scope and complexity of the recommended change in policy that would be required to limit the number of local wage areas defined within a GS locality pay area to a single wage area, as requested in the House Report language, FPRAC established a working group to study the technical and policy obstacles involved in positively addressing the issue. Over the course of 15 meetings, at which there was extensive discussion, the working group analyzed potential methods of using GS locality pay areas as a factor in defining FWS wage areas. The differences in regulatory criteria used to define FWS wage areas versus criteria used to establish and define GS locality pay areas were among the challenges to aligning FWS wage areas with GS locality pay areas the working group encountered. The working group noted that CSAs were initially used as the basis for creating GS locality pay areas, but the FWS never used the CSAs to define wage areas. Extensive analyses by the working group of various FWS wage areas that split GS locality pay areas showed that, if the CSAs were used to define wage areas, most wage areas studied would be more like the GS locality pay areas. However, some FWS wage areas would still not coincide with GS locality pay areas by switching to using CSAs alone. As such, the working group then considered another criterion used in defining GS locality pay areas, employment interchange, and studied the effects of using such criterion in defining FWS wage areas, as well. The working group concluded that considering employment interchange between metropolitan areas or individual counties, as applicable, and using CSA definitions would make wage areas more similar to GS locality pay areas.

The FPRAC recommendation is limited to appropriated fund FWS wage area regulatory criteria and does not apply to nonappropriated fund regulatory criteria for defining wage area boundaries found in 5 CFR 532.219. The transcript of the December 21, 2023, meeting, expressing the views and concerns of the committee members expressed at that meeting, can be found on the OPM website at https://www.opm.gov/policy-data-oversight/pay-leave/pay-systems/federal-wage-system/federal-prevailing-rate-advisory-committee/meetingtranscript649.pdf.

After reviewing the FPRAC recommendation, including the minority views, OPM has concluded that the views of the majority of the committee's members regarding the proposed amendments to 5 CFR 532.211 constitute a beneficial and equitable modernization of the FWS. OPM agrees with the committee that the primary differences in the criteria used to define GS and FWS pay area boundaries result from different ways of considering commuting patterns and metropolitan area definitions and how those relate to regional labor market integration. OPM's existing regulatory criteria for defining wage area boundaries in 5 CFR 532.211 have remained the same since the early 1990s, except for a minor amendment in 2016 to keep newly defined military Joint Bases defined to a single wage area and wage schedule. While the differences in geographic pay treatment made sense in the context of the development of the original pay systems, the interactions of GS and FWS statutory pay provisions have worked to create inequitable, unintended discrepancies in pay between similarly situated employees. Therefore, amending the wage area definition criteria following the FPRAC recommended method will address some of those differences in geographic pay treatment between the FWS and GS systems.

Historically, the FWS and GS pay systems have both considered commuting patterns data published by the Census Bureau but have done so differently. While the FWS has looked at commuting from a county to nearby local wage survey areas (out-commuting) to associate counties with major military installations or VA Medical Centers, the GS has looked at employment interchange (in-commuting and out-commuting) within a large metropolitan area. Use of out-commuting alone was based on a traditional tendency of people to live in areas outside a centralized metropolitan area and commute to the metropolitan area for work. Adopting employment interchange as a criterion for defining wage areas would better reflect contemporary commuting patterns within an economic region. The methods and criteria for defining CSAs and MSAs have also evolved over time to now be focused on regional employment interchange measures as identified through analysis of commuting patterns gathered by the Census Bureau. Today, a person working in a skilled trades occupation under the FWS such as Electronics Mechanic or Aircraft Mechanic likely works in a competitive labor market with commuting and recruitment patterns that are similar in geographic scope to those of an Accountant or Human Resources Manager, for example, under the GS system.⁷

⁷ The goal of the FWS is to maintain Federal trade, craft, and laboring employee pay rates in line with prevailing private sector pay levels for comparable work within a local wage area. To accomplish this goal, DoD conducts annual surveys to collect wage data from private sector establishments in each FWS wage area. By law, the cost of labor within a wage area, rather than the cost of living, determines FWS pay rates. If the wage area does not reflect commuting and recruitment patterns, then the full-scale wage survey within that area will also not capture prevailing private sector pay levels within the economically integrated area.

The other primary difference between the current FWS and GS geographic pay area criteria is that the FWS has historically defined wage area boundaries based in part on consideration of OMB-defined MSAs while not allowing for consideration of the larger CSAs. The concept of a CSA did not exist when the methods for creating FWS wage areas were established in the late 1960s. The legislative history for the Prevailing Rate Systems Act shows that Congress believed it would be inappropriate for there to be more than one wage area within the boundaries of an MSA. Although the Prevailing Rate Systems Act did not explicitly specify this, OPM's regulations have long indicated that wage areas should not split MSA boundaries.

CSAs also reflect economic relationships between communities within a region but do so on a broader geographic basis than for MSAs. A CSA is usually the combination of two or more MSAs within a region when they are sufficiently economically integrated. The GS locality pay system has defined locality pay areas based on these larger geographic areas since locality pay began. The proposed new wage area definitions in this rulemaking use the CSA and MSA definitions contained in OMB Bulletin No. 23-01, published July 21, 2023. Current FWS wage area definitions split the boundaries of many CSAs, but the changes in wage area criteria and revised wage area definitions based on the criteria in this proposed rule would address this.

Changes Proposed in This Rulemaking

Based on the December 2023 FPRAC recommendation, OPM is proposing the following changes to § 532.211, including changing the title of the section to “Criteria for appropriated fund wage areas.” As discussed previously in the section discussing the differences between FWS and GS, OPM proposes to revise paragraph (a)(1) to require OPM to include in survey areas all counties with 100 or more FWS employees and to consider CSAs and MSAs in the designation of survey areas. OPM also proposes to revise paragraph (a)(2) to include employment interchange measures as a criterion in determining whether to combine nonsurvey areas with survey areas.

OPM proposes to revise paragraph (b) to include, wherever possible, a recognized economic community such as a CSA, MSA, or a political unit such as a county or similar geographic entity. OPM would continue to be permitted to combine two or more economic communities or political units, or both, to constitute a single wage area.

OPM proposes to revise paragraph (c) to address not only when wage areas must be established, but also the conditions under which wage areas must be maintained after being established. Because the original criteria for defining FWS wage areas were written decades ago when the FWS was first established, they focused on the initial development of a single system of wage areas out of several separate agency systems and did not define circumstances under which the newly established wage area boundaries would remain in place. This proposed language recognizes that wage area boundaries will be reexamined at times by FPRAC and OPM in consideration of the factors listed. This proposed rule would therefore revise paragraph (c) to include the word “maintained.”

OPM proposes to amend paragraph (c)(1) to provide for greater flexibility in the ability to establish or maintain wage areas where there is a sufficient number of employees and resources available to host local wage surveys, but the employees do not necessarily work in the same agency. Currently, this section requires a minimum of 100 employees of one agency subject to the regular schedule for a wage area to be established. Since the proposed language for paragraph (c) will now include conditions precedent to continuation of an existing wage area, removing the requirement that the minimum 100 wage grade employees be within the same agency will allow OPM to consider factors such as intermittent fluctuations in the number of wage employees and prevailing rate principles when determining whether a wage area should be maintained. This proposed rule would therefore revise paragraph (c)(1) to specify that one of the criteria for a wage area to be maintained is if there are a minimum of 100 wage employees subject to the regular schedule and the agency involved indicates that a local installation has the capacity to do the survey.

OPM proposes to amend paragraph (d)(1) to list the factors that will be considered when determining whether or not adjacent wage areas should be combined. FPRAC would continue to provide OPM with recommendations on application of these factors. This proposed rule would therefore revise paragraph (d)(1) to allow adjacent economic communities or political units meeting the separate wage area criteria described previously in paragraphs (b) and (c) to be combined through consideration of “local commuting patterns such as employment interchange measures, distance, transportation facilities, geographic features; similarities in overall population, employment, and the kinds and sizes of private industrial establishments; and other factors relevant to the process of determining and establishing rates of pay for wage employees at prevailing wage levels.”

OPM proposes to delete paragraphs (d)(1)(i)-(iii) and (d)(2) as they are no longer necessary and to redesignate paragraph (d)(3) as paragraph (d)(2).

Based on the proposed changes to the regulatory criteria for establishing and maintaining wage areas, OPM is proposing conforming amendments to Appendix C to subpart B of part 532—Appropriated Fund Wage and Survey Areas. This appendix serves to list wage areas and their geographic coverage including the portion of each wage area where a lead agency gathers wage data (the survey area) and the rest of the wage area (the area of application) where the lead agency does not gather wage data but where the wage area's wage schedules apply. Paragraphs (1), (2), and (3) would be revised to include “a similar geographic entity” as an all-encompassing phrase for recognized geographic units other than county units or independent cities. Paragraphs (1) and (2) would be revised to include Combined Statistical Area or Metropolitan Statistical Area as examples of broader geographic areas used to establish wage area titles.

DOD has requested certain changes in wage survey order months to allow balancing of the wage survey workload throughout the year. As such, in Appendix A to subpart B of part 532, OPM is proposing to revise, under the State of Arkansas, the listing of the beginning month of survey from “August” to “July” for the Little Rock wage area; revise under the State of California the listings of the beginning month of survey from “September” to “November” and “even year” to “odd year” for the Los Angeles wage area; revise under the State of California the listings of the beginning month of survey from “September” to “October” and “odd year” to “even year” for the San Francisco wage area; revise under the District of Columbia, the listing of the beginning month of survey from “August” to “July” for the Washington, DC, wage area; revise under the State of Florida the listing of the beginning month of survey from “January” to “May” for the Miami-Dade wage area; revise under the State of Louisiana the listings of the beginning month of survey from “November” to “June” and “odd year” to “even year” for the New Orleans wage area; revise under the State of Minnesota the listing of the beginning month of survey from “March” to “April” for the Minneapolis-St. Paul wage area; revise under the State of New York the listing of the beginning month of survey from “February” to “April” for the Rochester wage area; revise under the State of Oregon the listing of the beginning month of survey from “August” to “July” for the Portland wage area; revise under the State of Pennsylvania the listing of the beginning month of survey from “January” to “May” for the Harrisburg wage area; and revise under the State of Texas the listing of the beginning month of survey from “August” to “July” for the Wichita Falls, Texas-Southwestern Oklahoma wage area.

As a result of the proposed changes to the regulatory criteria for defining and maintaining wage areas, the geographic boundaries of numerous wage areas would change. This proposed rule would result in OPM abolishing 12 of the 130 current appropriated fund FWS wage areas, 89 wage areas would be affected, and there would be no changes in the wage area definitions of 41 wage areas. Certain cities, counties, or portions of counties that coincide with GS locality pay areas would move to expanded wage areas based on the application of the new criteria. Because 12 wage areas would be abolished, certain additional cities, counties, or portions of counties that coincide with the RUS locality pay area would also be redefined to existing wage areas.

FPRAC has recommended that OPM use counties to define survey and nonsurvey areas in FWS wage areas in New England instead of cities and/or townships. FPRAC has also recommended that OPM use legacy county boundaries to define FWS survey and nonsurvey areas in the State of Connecticut instead of Connecticut Planning Regions to maintain consistency with the geographic entities used for GS locality pay areas. Defining FWS wage areas by using county or county-equivalent boundaries in New England, rather than New England cities and towns, would be more consistent with how most FWS wage areas are defined and may improve the statistical accuracy of wage survey analyses.

The proposed changes in specific appropriated fund FWS wage area definitions are described below in the section on Redefined FWS Wage Areas.

In certain instances, OPM is proposing delayed implementation dates for adding counties to the survey areas of wage areas that are gaining counties. This is necessary because it takes DOD, the lead agency for FWS wage surveys, a number of months to develop the statistical and logistical specifications for local wage surveys. The changes in wage area names, areas of application, and survey areas are detailed below in the section on Redefined FWS Wage Areas.

Based on longstanding practice when abolishing wage areas and moving counties from one wage area to another, FWS employees in locations that would be defined to different wage areas would be placed on the existing wage schedules for those wage areas on the first day of the first applicable pay period beginning on or after the effective date of the final rule that would be published after this proposed rule. The movements of counties from an existing wage area to a different wage area are noted in detail below in the section on Redefined FWS Wage Areas.

The implementation dates for new local wage surveys in expanded wage areas would vary by wage area accounting for, in certain cases, factors including the wage survey workload for the DOD wage survey staff. In particular, a survey area county that is removed from a current wage area that is being eliminated, and defined to a different wage area that is being continued but revised in the existing regulation, would initially be added to the area of application of the gaining wage area rather than being defined directly to the survey area. The county would subsequently be incorporated into the relevant wage area's survey area based on the timing of full-scale local wage surveys. This would allow DOD sufficient time to plan for conducting full-scale wage surveys in survey areas that would expand significantly, in some cases doubling, in geographic size. It is anticipated that future wage schedule adjustments will continue to follow longstanding appropriations law provisions providing for annual adjustments that are both capped at the average GS increase amount (the “pay cap provision”) while providing for the same percentage adjustment received by GS employees in each employment location (“the floor increase provision”). The statutory floor increase provision would continue to prevent any decreases in wage schedules as has been the case for prevailing rate system employees since FY 2004. The statutory pay cap provision would also continue to prevent existing wage schedules from increasing above the amount established as the cap each year, except in cases where the floor increase would provide for a greater increase.

OPM believes that its proposed approach—in which the proposed changes to the wage areas could be implemented soon after publication of the final rule—is operationally feasible. Payroll providers typically are able to implement changes to wage area designations quickly and do not require a great deal of lead time. In fact, changes to wage area designations are typically effective on the first day of the first applicable pay period beginning on or after 30 days following publication of the final rule adjusting a wage area. Further, and importantly, a short implementation timeframe would allow employees to immediately benefit from the updated wage area definitions.

OPM's proposed approach is also consistent with past practice. Currently OPM defines wage areas through a routine, consistent, and mechanical process to comply with the area definition criteria OPM establishes in 5 CFR 532.211 and based on FPRAC recommendations. For example, when OPM abolished the Newburgh, NY wage area in 2016 to comply with an existing MSA criterion and expanded the New York wage area to encompass most of the Newburgh wage area, the movement of counties into the New York area of application was not delayed beyond the effective date of the final regulations. OPM did not establish a new policy where the merging of the Newburgh wage area into the New York wage area would be delayed until an entirely new wage survey could be conducted in the slightly enlarged New York survey area. The statutory pay cap and floor increase provisions continued to be applied to the wage schedules for the New York wage area. Likewise, when OPM abolished the Portland, ME, wage area in 2015 and added its counties to the Portsmouth, NH, wage area, OPM did not delay the merging of the Portland wage area into the Portsmouth wage area until an entirely new wage survey could be conducted in the enlarged wage area. In this case, the Portland survey area was carried over in its entirety to the Portsmouth survey area for the next full scale wage survey. The statutory pay cap and floor increase provisions continued to be applied to wage schedule adjustments in the enlarged Portsmouth wage area.

OPM recognizes, however, that, even though the overall budgetary impact of this rule is relatively small (i.e., 1% of FWS payroll—see the Expected Impact of this Rulemaking section of this rule), the budgetary impact at the local level in some cases would be considerable and any unplanned increase in payroll can be challenging to manage.

OPM therefore requests comment on the appropriate implementation timeframe. An alternative implementation option could provide for a delayed effective date of the final regulation, such that OPM's regulatory amendments—including the new boundary criteria, and, therefore, the new wage schedules—would not go into effect until after a set period of time. The other aspects of OPM's proposal would remain unchanged.

Another alternative implementation plan, which a minority of FPRAC committee members suggested but which is inconsistent with past practice when revising wage areas, would defer the implementation of the revised criteria until DOD had the opportunity to conduct new wage surveys for the impacted areas based on the new criteria. For example, amendments to the Boston wage area might not go into effect until October 2026 while amendments would not go into effect in the Birmingham, AL, wage area until April 2028. Under this approach, the existing wage areas would be abolished and new wage areas established using the revised criteria as new surveys are completed, on a rolling basis.

OPM invites comments on the implementation timeline and any alternative implementation plans and encourages commenters to address any implementation concerns with any alternative plans.

The following wage area changes would be necessary, based on extensive FPRAC review and subsequent recommendations, to best fit the newly revised wage area definition criteria. As noted earlier, these changes are primarily driven by the adoption of the proposed regulatory criteria changing to follow CSA definitions, by not allowing a CSA to be divided between two or more wage areas, rather than just MSA definitions, and by allowing consideration of employment interchange data when analyzing and applying regional commuting information. These proposed changes do not merely adopt GS locality pay area definitions into the FWS but instead rely on FWS criteria being more similar to GS criteria. Indeed, because the GS and FWS continue to be separate statutory pay systems, there will continue to be differences in certain wage area definitions and the FWS will not use a catch-all RUS concept as is used for the GS locality pay system.

The proposed changes in regulatory criteria would have no impact on the following FWS wage areas: Dothan, AL; Alaska, AK; Phoenix, AZ; Tucson, AZ; Little Rock, AR; Pensacola, FL; Hawaii, HI; Boise, ID; Cedar Rapids-Iowa City, IA; Des Moines, IA; Wichita, KS; Lake Charles-Alexandria, LA; New Orleans, LA; Augusta, ME; Central and Northern Maine; Biloxi, MS; Jackson, MS; Meridian, MS; Northern Mississippi; Montana; Omaha, NE; Las Vegas, NV; Central North Carolina; North Dakota; Tulsa, OK; Puerto Rico; Columbia, SC; Eastern South Dakota; Eastern Tennessee; Memphis, TN; Austin, TX; El Paso, TX; Houston-Galveston-Texas City, TX; Texarkana, TX; Western Texas; Wichita Falls, Texas-Southwestern Oklahoma; Utah; Southwestern Washington-Eastern Oregon; Spokane, WA; and Wyoming.

Redefined FWS Wage Areas

Anniston-Gadsden, AL, Wage Area

With the redefinition of Calhoun, Etowah, and Talladega, AL, to the Birmingham-Cullman-Talladega, AL, area of application, the Anniston-Gadsden, AL, wage area would lose all of its survey area counties. This proposed rule would abolish the Anniston-Gadsden wage area and redefine its remaining counties to the Birmingham-Cullman-Talladega, AL, wage area, Huntsville, AL, wage area, and Atlanta, GA, wage area.

Birmingham, AL, Wage Area

This proposed rule would change the name of the Birmingham, AL, wage area to the Birmingham-Cullman-Talladega, AL, wage area. This proposed rule would redefine the following counties to the Birmingham-Cullman-Talladega, AL, wage area based on the application of the new criteria:

• Calhoun, Etowah, and Talladega Counties, AL, from the Anniston-Gadsden, AL, survey area to the Birmingham-Cullman-Talladega, AL, area of application. These counties would subsequently be moved to the Birmingham-Cullman-Talladega, AL, survey area effective for local wage surveys beginning in January 2028;

• Clay County, AL, from the Anniston-Gadsden, AL, area of application to the Birmingham-Cullman-Talladega, AL, area of application based on employment interchange measures favoring the Birmingham-Cullman-Talladega, AL, wage area;

• Coosa County, AL, from the Columbus, GA, area of application to the Birmingham-Cullman-Talladega, AL, area of application because Coosa County is part of the Birmingham-Cullman-Talladega, AL, CSA;

• Winston County, AL, from the Huntsville, AL, area of application to the Birmingham-Cullman-Talladega, AL, area of application based on employment interchange measures favoring the Birmingham-Cullman-Talladega, AL, wage area over the Huntsville wage area.

Huntsville, AL, Wage Area

This proposed rule would redefine the following counties to and away from the Huntsville, AL, wage area based on the application of the new criteria:

• DeKalb County, AL, from the Anniston-Gadsden, AL, area of application to the Huntsville, AL, area of application because DeKalb County, AL, is part of the Huntsville-Decatur-Albertville, AL-TN, CSA;

• Winston County, AL, from the Huntsville, AL, area of application to the Birmingham-Cullman-Talladega, AL, area of application based on employment interchange measures favoring the Birmingham-Cullman-Talladega, AL, wage area over the Huntsville, AL, wage area;

• Jackson County, AL, from the Huntsville, AL, area of application to the Nashville, TN, area of application. Jackson County is part of the Chattanooga-Cleveland-Dalton, TN-GA-AL, CSA. Most of this CSA is currently defined to the Nashville wage area.

• Franklin, Lawrence, and Moore Counties, TN, from the Huntsville, AL, area of application to the Nashville, TN, area of application because these counties are part of the Nashville-Davidson-Murfreesboro, TN, CSA.

Northeastern Arizona, AZ, Wage Area

This proposed rule would also redefine the following county away from the Northeastern Arizona wage area based on the application of the new criteria:

• McKinley County, NM, from the Northeastern Arizona survey area to the Albuquerque-Santa Fe-Los Alamos, NM, area of application based on employment interchange measures being more favorable to the Albuquerque-Santa Fe-Los Alamos, NM, than to the Northeastern Arizona wage area. This county would subsequently be moved to the Albuquerque-Santa Fe-Los Alamos, NM, survey area effective for local wage surveys beginning in April 2027.

Fresno, CA, Wage Area

This proposed rule would redefine the following counties to and away from the Fresno, CA, wage area based on the application of the new criteria:

• Madera County, CA, (Devils Postpile National Monument portion) from the Reno, NV, area of application to the Fresno, CA, area of application because Madera County is part of the Fresno-Hanford-Corcoran, CA, CSA;

• Madera County, CA, (Yosemite National Park portion) from the Stockton, CA, area of application to the Fresno, CA, area of application because Madera County is part of the Fresno-Hanford-Corcoran, CA, CSA;

• Mariposa County, CA, from the Stockton, CA, area of application to the Fresno, CA, area of application based on employment interchange measures favoring the Fresno, CA, wage area more than the San Jose-San Francisco-Oakland, CA, wage area;

• Tuolumne County, CA, (Yosemite National Park portion only) from the Stockton, CA, area of application to the Fresno, CA, area of application so that Yosemite National Park is not split across multiple wage areas;

• Kern County, CA, (does not include China Lake Naval Weapons Center, Edwards Air Force Base, and portions occupied by Federal activities in Boron (City)) from the Fresno, CA, area of application to the Los Angeles, CA, area of application based on employment interchange measures favoring the Los Angeles, CA, wage area more than the Fresno, CA, wage area.

Los Angeles, CA, Wage Area

This proposed rule would redefine the following counties to and within the Los Angeles, CA, wage area based on application of the new criteria:

• Kern County, CA, (does not include China Lake Naval Weapons Center, Edwards Air Force Base, and portions occupied by Federal activities in Boron (City)) from the Fresno, CA, area of application to the Los Angeles, CA, area of application because Kern County is part of the Los Angeles-Long Beach, CA, CSA;

• Riverside County, CA, (does not include the Joshua Tree National Monument portion) from the San Bernardino-Riverside-Ontario, CA, survey area to Los Angeles, CA, area of application because Riverside County is part of the Los Angeles-Long Beach, CA, CSA;

• Riverside County, CA, to the Los Angeles, CA, survey area effective for local wage surveys beginning in November 2026 because more than 100 FWS employees work in Riverside County;

• San Bernardino County, CA, (only that portion occupied by, and south and west of, the Angeles and San Bernardino National Forests) from the San Bernardino-Riverside-Ontario, CA, survey area to Los Angeles, CA, area of application;

• San Bernardino County, CA, to the Los Angeles, CA, survey area effective for local wage surveys beginning in November 2026 because more than 100 FWS employees work in San Bernardino County;

• Kern County, CA, to the Los Angeles, CA, survey area effective for local wage surveys beginning in November 2026 because more than 100 FWS employees work in Kern County;

• Santa Barbara County, CA, from the Santa Barbara, CA, survey area to the Los Angeles, CA, area of application based on employment interchange measures being most favorable to the Los Angeles, CA, wage area. This county would subsequently be moved to the Los Angeles, CA, survey area effective for local wage surveys beginning in November 2026;

• San Luis Obispo County, CA, from the Santa Barbara, CA, area of application to the Los Angeles, CA, area of application based on employment interchange measures favoring the Los Angeles, CA, wage area;

• Orange and Ventura Counties, CA, to the Los Angeles, CA, survey area effective for local wage surveys beginning in November 2026 because more than 100 FWS employees work in each county.

Sacramento, CA, Wage Area

This proposed rule would change the name of the Sacramento, CA, wage area to the Sacramento-Roseville, CA, wage area. This proposed rule would redefine the following counties away from the Sacramento, CA, wage area based on the application of the new criteria:

• Alpine County, CA, from the Sacramento, CA, area of application to the Reno, NV, area of application. Alpine County is part of the Reno-Carson City-Gardnerville Ranchos, NV-CA, CSA;

• Del Norte County, CA, from the Sacramento, CA, area of application to the Southwestern Oregon area of application. Del Norte County is part of the Brookings-Crescent City, OR-CA, CSA, and employment interchange measures for this CSA favor the Southwestern Oregon wage area over the Sacramento-Roseville, CA, wage area.

Salinas-Monterey, CA, Wage Area

With the redefinition of Monterey County, CA, to the San Jose-San Francisco-Oakland, CA, wage area, the Salinas-Monterey, CA, wage area would lose the entirety of its survey area. This proposed rule would abolish the Salinas-Monterey wage area, which contains no additional counties.

San Bernardino-Riverside-Ontario, CA, Wage Area

With the redefinition of Riverside County (does not include the Joshua Tree National Monument portion) and San Bernardino County (only that portion occupied by, and south and west of, the Angeles and San Bernardino National Forests), CA, the San Bernardino-Riverside-Ontario, CA, wage area would lose the entirety of its survey area. This proposed rule would abolish the San Bernardino-Riverside-Ontario, CA, wage area, which contains no additional counties.

San Diego, CA, Wage Area

This proposed rule would redefine the following county within the San Diego, CA, wage area based on application of the new criteria:

• Yuma County, AZ, to the San Diego, CA, survey area effective for local wage surveys beginning in September 2027 because more than 100 FWS employees work in Yuma County.

San Francisco, CA, Wage Area

This proposed rule would change the name of the San Francisco, CA, wage area to the San Jose-San Francisco-Oakland, CA, wage area. This proposed rule would redefine the following counties to the San Jose-San Francisco-Oakland, CA, wage area based on the application of the new criteria:

• Monterey County, CA, from the Salinas-Monterey, CA, survey area to the San Jose-San Francisco-Oakland, CA, area of application based on employment interchange measures favoring the San Jose-San Francisco-Oakland, CA, wage area. This county would subsequently be moved to the San Jose-San Francisco-Oakland, CA, survey area effective for local wage surveys beginning in October 2027;

• San Joaquin County, CA, from the Stockton, CA, survey area to the San Jose-San Francisco-Oakland area of application because San Joaquin County is part of the San Jose-San Francisco-Oakland, CA, CSA. This county would subsequently be moved to the San Jose-San Francisco-Oakland, CA, survey area effective for local wage surveys beginning in October 2027;

• Merced and Stanislaus Counties, CA, from the Stockton, CA, area of application to the San Jose-San Francisco-Oakland, CA, area of application because these counties are part of the San Jose-San Francisco-Oakland, CA, CSA;

• Tuolumne (not including Yosemite National Park portion) and Calaveras Counties, CA, from the Stockton, CA, area of application to the San Jose-San Francisco-Oakland, CA, area of application based on employment interchange measures favoring the San Jose-San Francisco-Oakland, CA, wage area over the Fresno, CA, wage area.

Santa Barbara, CA, Wage Area

With the redefinition of Santa Barbara County, CA, to the Los Angeles, CA, wage area, the Santa Barbara, CA, wage area would lose the entirety of its survey area. This proposed rule would abolish the Santa Barbara wage area and redefine Santa Barbara and San Luis Obispo Counties, CA, to the Los Angeles, CA, wage area.

Stockton, CA, Wage Area

With the redefinition of San Joaquin County, CA, to the San Jose-San Francisco-Oakland, CA, wage area, the Stockton, CA, wage area would lose the entirety of its survey area. This proposed rule would abolish the Stockton, CA, wage area and redefine its remaining counties to either the Fresno or San Jose-San Francisco-Oakland, CA, wage areas.

Denver, CO, Wage Area

This proposed rule would redefine the following county to the Denver, CO, wage area based on application of the new criteria:

• Lincoln County, CO, from the Southern Colorado area of application to the Denver, CO, area of application based on employment interchange measures favoring the Denver, CO, wage area.

Southern Colorado, CO, Wage Area

This proposed rule would redefine the following county away from the Southern Colorado wage area based on application of the new criteria:

• Lincoln County, CO, from the Southern Colorado area of application to the Denver, CO, area of application based on employment interchange measures favoring the Denver, CO, wage area over the Southern Colorado wage area.

New Haven-Hartford, CT, Wage Area

This proposed rule would move the following counties to and away from the New Haven-Hartford, CT, wage area based on application of the new criteria:

• The entirety of the Springfield-Amherst Town-Northampton, MA, CSA, would be defined to the New Haven-Hartford, CT, wage area based on employment interchange measures favoring the New Haven-Hartford, CT, wage area. To effectuate this change, the following towns, cities, and counties that are part of the Springfield-Amherst Town-Northampton CSA would be redefined in the following manner:

○ Hampden County, MA (the portion that contains the cities and towns of Agawam, Chicopee, East Longmeadow, Feeding Hills, Hampden, Holyoke, Longmeadow, Ludlow, Monson, Palmer, Southwick, Springfield, Three Rivers, Westfield, West Springfield, and Wilbraham, MA), from the Central and Western Massachusetts survey area to the New Haven-Hartford, CT, area of application;

○ Hampden County, MA (the portion that contains the cities and towns of Blandford, Brimfield, Chester, Granville, Holland, Montgomery, Russell, Tolland, and Wales, MA), from the Central and Western Massachusetts area of application to the New Haven-Hartford, CT, area of application;

○ Hampden County, MA (entire county), to the New Haven-Hartford, CT, survey area effective for local wage surveys beginning in April 2027;

○ Hampshire County, MA (the portion that contains the cities and towns of Easthampton, Granby, Hadley, Northampton, and South Hadley, MA), from the Central and Western Massachusetts survey area to the New Haven-Hartford, CT, area of application;

○ Hampshire County, MA (the portion that contains the cities and towns of Amherst, Belchertown, Chesterfield, Cummington, Goshen, Hatfield, Huntington, Middlefield, Pelham, Plainfield, Southampton, Ware, Westhampton, Williamsburg, and Worthington, MA), from the Central and Western Massachusetts area of application to the New Haven-Hartford, CT, area of application;

○ Hampshire County, MA (entire county), to the New Haven-Hartford survey area effective for local wage surveys beginning in April 2027;

○ Franklin County, MA, from the Central and Western Massachusetts area of application to the New Haven-Hartford, CT, area of application;

• Fairfield County, CT, from the New Haven-Hartford, CT, area of application to the New York-Newark, NY, area of application because all FWS employees who work in Fairfield County are located in the New York-Newark, NY-NJ-CT-PA, CSA;

• New London County, CT, from the New London, CT, survey area to the New Haven-Hartford, CT, area of application because New London County is part of the New Haven-Hartford-Waterbury, CT, CSA. This county would subsequently be moved to the New Haven-Hartford, CT, survey area effective for local wage surveys beginning in April 2027.

• Windham County, CT, from the Central and Western Massachusetts area of application to the New Haven-Hartford, CT, area of application.

New London, CT, Wage Area

With the redefinition of New London County, CT, to the New Haven-Hartford, CT, survey area, the New London, CT, wage area would lose the entirety of its survey area. This proposed rule would abolish the New London, CT, wage area, which contains no additional counties.

Washington, DC, Wage Area

This proposed rule would change the name of the Washington, DC, wage area to the Washington-Baltimore-Arlington wage area listed under the District of Columbia. This proposed rule would redefine the following cities and counties to the Washington-Baltimore-Arlington wage area based on application of the new criteria:

• The entirety of the Washington-Baltimore-Arlington, DC-MD-VA-WV-PA, CSA, would be defined to the Washington-Baltimore-Arlington wage area. To effectuate this change, the following cities and counties that are part of the Washington-Baltimore-Arlington CSA would be redefined in the following manner:

○ Baltimore (city), MD, and Anne Arundel, Baltimore, Carroll, Harford, and Howard Counties, MD, from the Baltimore, MD, survey area to the Washington-Baltimore-Arlington area of application. This city and these counties would subsequently be moved to the Washington-Baltimore-Arlington survey area effective for local wage surveys beginning in July 2027;

○ Queen Anne's County, MD, from the Baltimore, MD, area of application to the Washington-Baltimore-Arlington area of application;

○ Washington County, MD, from the Hagerstown-Martinsburg-Chambersburg, MD, survey area to the Washington-Baltimore-Arlington area of application. This county would subsequently be moved to the Washington-Baltimore-Arlington survey area effective for local wage surveys beginning in July 2027;

○ Franklin County, PA, from the Hagerstown-Martinsburg-Chambersburg, MD, survey area to the Washington-Baltimore-Arlington area of application. This county would subsequently be moved to the Washington-Baltimore-Arlington survey area effective for local wage surveys beginning in July 2027;

○ Berkeley County, WV, from the Hagerstown-Martinsburg-Chambersburg, MD, survey area to the Washington-Baltimore-Arlington area of application. This county would subsequently be moved to the Washington-Baltimore-Arlington survey area effective for local wage surveys beginning in July 2027;

○ Winchester (city), VA, and Frederick County, VA, from the Hagerstown-Martinsburg-Chambersburg, MD, area of application to the Washington-Baltimore-Arlington area of application;

○ Hampshire and Morgan Counties, WV, from the Hagerstown-Martinsburg-Chambersburg, MD, area of application to the Washington-Baltimore-Arlington area of application;

○ Orange County, VA, from the Richmond, VA, area of application to the Washington-Baltimore-Arlington area of application;

○ Dorchester and Talbot Counties, MD, from the Wilmington, DE, area of application to the Washington-Baltimore-Arlington area of application;

• The entirety of the Harrisonburg-Staunton-Stuarts Draft, VA, CSA, would be defined to the Washington-Baltimore-Arlington wage area based on employment interchange measures favoring the Washington-Baltimore-Arlington wage area. To effectuate this change, the following cities and counties that are part of the Harrisonburg-Staunton-Stuarts Draft CSA would be redefined in the following manner:

○ Harrisonburg (city) and Rockingham (does not include the Shenandoah National Park portion) County, VA, from the Hagerstown-Martinsburg-Chambersburg, MD, area of application to the Washington-Baltimore-Arlington area of application;

○ Staunton and Waynesboro (cities), VA, and Augusta (does not include the Shenandoah National Park portion) County, VA, from the Roanoke, VA, area of application to the Washington-Baltimore-Arlington area of application;

• Allegany and Garrett Counties, MD, would be defined from the Hagerstown-Martinsburg-Chambersburg, MD, area of application to the Washington-Baltimore-Arlington area of application based on employment interchange rates favoring the Washington-Baltimore-Arlington wage area;

• Fulton County, PA, would be defined from the Hagerstown-Martinsburg-Chambersburg, MD, area of application to the Washington-Baltimore-Arlington area of application based on employment interchange measures favoring the Washington-Baltimore-Arlington wage area;

• Page (does not include the Shenandoah National Park portion) and Shenandoah Counties, VA, would be defined from the Hagerstown-Martinsburg-Chambersburg, MD, area of application to the Washington-Baltimore-Arlington area of application based on employment interchange measures favoring the Washington-Baltimore-Arlington wage area;

• Hardy and Mineral Counties, WV, would be defined from the Hagerstown-Martinsburg-Chambersburg, MD, area of application to the Washington-Baltimore-Arlington area of application based on employment interchange measures favoring the Washington-Baltimore-Arlington wage area;

• Caroline and Westmoreland Counties, VA, would be defined from the Richmond, VA, area of application to the Washington-Baltimore-Arlington area of application based on employment interchange measures favoring the Washington-Baltimore-Arlington wage area over the Richmond wage area;

• Caroline and Kent Counties, MD, would be defined from the Wilmington, DE, area of application to the Washington-Baltimore-Arlington area of application based on employment interchange measures favoring the Washington-Baltimore-Arlington wage area;

• King George County, VA, would be defined to the Washington-Baltimore-Arlington survey area because more than 100 FWS employees work in King George County, effective for local wage surveys beginning in July 2027.

Cocoa Beach-Melbourne, FL, Wage Area

This proposed rule would redefine Indian River County, FL, from the Cocoa Beach area of application to the Miami-Port St. Lucie-Fort Lauderdale area of application because Indian River County is part of the Miami-Port St. Lucie-Fort Lauderdale, FL, CSA.

Jacksonville, FL, Wage Area

This proposed rule would redefine the following counties to and within the Jacksonville, FL, wage area based on the application of the new criteria:

• Polk County, FL, from the Tampa-St. Petersburg, FL, area of application to the Jacksonville, FL, area of application;

• Columbia, Orange, and Sumter Counties, FL, to the Jacksonville, FL, survey area because more than 100 FWS employees work in each of these counties, effective for local wage surveys beginning in January 2027;

• Camden County, GA, to the Jacksonville, FL, survey area because more than 100 FWS employees work in Camden County, effective for local wage surveys beginning in January 2027.

Miami, FL, Wage Area

This proposed rule would change the name of the Miami, FL, wage area to the Miami-Port St. Lucie-Fort Lauderdale, FL, wage area. This proposed rule would redefine the following counties to and within the Miami, FL, wage area based on the application of the new criteria:

• Indian River County, FL, from the Cocoa Beach-Melbourne, FL, area of application to the Miami-Port St. Lucie-Fort Lauderdale, FL, area of application because Indian River County is part of the Miami-Port St. Lucie-Fort Lauderdale, FL, CSA;

• Lee County, FL, from the Tampa-St. Petersburg, FL, area of application to the Miami-Port St. Lucie-Fort Lauderdale, FL, area of application. Lee County is part of the Cape Coral-Fort Myers-Naples, FL, CSA, and employment interchange measures for this CSA favor the Miami-Port St. Lucie-Fort Lauderdale, FL, wage area over the Tampa-St. Petersburg, FL, wage area;

• Palm Beach County, FL,to the Miami-Port St. Lucie-Fort Lauderdale, FL, survey area because it has over 100 FWS employees, effective for local wage surveys beginning in January 2027.

Panama City, FL, Wage Area

This proposed rule would redefine the following county to the Panama City, FL, wage area based on the application of the new criteria:

• Decatur County, GA, from the Albany, GA, area of application to the Panama City, FL, area of application.

Tampa-St. Petersburg, FL, Wage Area

This proposed rule would redefine the following counties away from the Tampa-St. Petersburg, FL, wage area based on the application of the new criteria:

• Lee County, FL, from the Tampa-St. Petersburg, FL, area of application to the Miami-Port St. Lucie-Fort Lauderdale, FL, area of application. Lee County is part of the Cape Coral-Fort Myers-Naples, FL, CSA, and employment interchange measures for this CSA favor the Miami-Port St. Lucie-Fort Lauderdale, FL, wage area over the Tampa-St. Petersburg, FL, wage area;

• Polk County, FL, from the Tampa-St. Petersburg, FL, area of application to the Jacksonville, FL, area of application.

Albany, GA, Wage Area

This proposed rule would redefine the following counties to and away from the Albany, GA, wage area based on the application of the new criteria:

• Quitman, Schley, and Webster Counties, GA, from the Columbus, GA, area of application to the Albany, GA, wage area based on employment interchange measures being most favorable to the Albany, GA, wage area;

• Decatur County, GA, from the Albany, GA, area of application to the Panama City, FL, area of application.

Atlanta, GA, Wage Area

The proposed rule would redefine the following counties to and away from the Atlanta, GA, wage area based on the application of the new criteria:

• Cherokee, Cleburne, and Randolph Counties, AL, from the Anniston-Gadsden, AL, area of application to the Atlanta, GA, area of application based on employment interchange measures favoring the Atlanta wage area;

• Elbert, Hart, and Taliaferro Counties, GA, from the Augusta, GA, area of application to the Atlanta, GA, area of application based on employment interchange measures favoring the Atlanta, GA, wage area over the Augusta, GA, wage area;

• Putnam County, GA, from the Macon, GA, area of application to the Atlanta, GA, area of application based on employment interchange measures favoring the Atlanta, GA, wage area over the Macon, GA, wage area;

• Upson County, GA, from the Macon, GA, area of application to the Atlanta, GA, area of application because Upson County is part of the Atlanta-Athens-Clarke County-Sandy Springs, GA-AL, CSA;

• Chambers County, AL, from the Columbus, GA, area of application to the Atlanta, GA, area of application because Chambers County is part of the Atlanta-Athens-Clarke County-Sandy Springs, GA-AL, CSA;

• Troup County, GA, from the Columbus, GA, area of application to the Atlanta, GA, area of application because Troup County is part of the Atlanta-Athens-Clarke County-Sandy Springs, GA-AL, CSA;

• The entirety of the Columbus-Auburn-Opelika, GA-AL, CSA, from the Columbus, GA, wage area to the Atlanta, GA, wage area based on employment interchange measures favoring the Atlanta, GA, wage area over the Montgomery-Selma, AL, wage area. To effectuate this change, the following counties, which comprise the Columbus-Auburn-Opelika CSA, would be redefined in the following manner:

○ Lee, Macon, and Russell Counties, AL, from the Columbus, GA, survey area to the Atlanta, GA, area of application. These counties would subsequently be moved to the Atlanta, GA, survey area effective for local wage surveys beginning in May 2027;

○ Chattahoochee and Muscogee Counties, GA, from the Columbus, GA, survey area to the Atlanta, GA, area of application. (Muscogee County, GA, includes the area referred to as Columbus County, GA, in previous wage area definitions.) These counties would subsequently be moved to the Atlanta, GA, survey area effective for local wage surveys beginning in May 2027;

○ Tallapoosa County, AL, from the Columbus, GA, area of application to the Atlanta, GA, area of application;

○ Harris, Marion, Stewart, and Talbot Counties, GA, from the Columbus, GA, area of application to the Atlanta, GA, area of application;

• Chattooga, Murray, and Whitfield Counties, GA, from the Atlanta, GA, area of application to the Nashville, TN, area of application.

Augusta, GA, Wage Area

The proposed rule would redefine the following counties to and away from the Augusta GA, wage area based on application of the new criteria:

• Elbert, Hart, and Taliaferro Counties, GA, from the Augusta, GA, area of application to the Atlanta, GA, area of application based on employment interchange measures favoring the Atlanta, GA, wage area over the Augusta, GA, wage area.

Columbus, GA, Wage Area

This wage area is being decreased in size under this proposed rule and would be renamed the Montgomery-Selma, AL, wage area and move the wage area listing alphabetically under the State of Alabama. This proposed rule would redefine the following counties away from the Columbus, GA, wage area based on the application of the new criteria:

• Quitman, Schley, and Webster Counties, GA, from the Columbus, GA, area of application to the Albany, GA, wage area based on employment interchange measures favoring the Albany wage area;

• Chambers County, AL, from the Columbus, GA, area of application to the Atlanta, GA, area of application because Chambers County is part of the Atlanta-Athens-Clarke County-Sandy Springs, GA-AL, CSA;

• Troup County, GA, from the Columbus, GA, area of application to the Atlanta, GA, area of application because Troup County is part of the Atlanta-Athens-Clarke County-Sandy Springs, GA-AL, CSA;

• The entirety of the Columbus-Auburn-Opelika, GA-AL, CSA, from the Columbus, GA, wage area to the Atlanta, GA, wage area based on employment interchange measures favoring the Atlanta wage area over the Montgomery-Selma, AL, wage area. To effectuate this change, the following counties, which comprise the Columbus-Auburn-Opelika CSA, would be redefined in the following manner:

○ Lee, Macon, and Russell Counties, AL, from the Columbus, GA, survey area to the Atlanta, GA, area of application. These counties would subsequently be moved to the Atlanta, GA, survey area effective for local wage surveys beginning in May 2027;

○ Chattahoochee and Muscogee Counties, GA, from the Columbus, GA, survey area to the Atlanta, GA, area of application. (Muscogee County, GA, includes the area referred to as Columbus County, GA, in previous wage area definitions.) These counties would subsequently be moved to the Atlanta, GA, survey area effective for local wage surveys beginning in May 2027;

○ Tallapoosa County, AL, from the Columbus, GA, area of application to the Atlanta, GA, area of application;

○ Harris, Marion, Stewart, and Talbot Counties, GA, from the Columbus, GA, area of application to the Atlanta, GA, area of application;

• Coosa County, AL, from the Columbus, GA, area of application to the Birmingham-Cullman-Talladega, AL, area of application because Coosa County is part of the Birmingham-Cullman-Talladega, AL, CSA;

• Taylor County, GA, from the Columbus, GA, area of application to the Macon, GA, area of application based on employment interchange measures favoring the Macon, GA, wage area.

Macon, GA, Wage Area

The proposed rule would redefine the following county to the Macon, GA, wage area based on application of the new criteria:

• Taylor County, GA, from the Columbus, GA, area of application to the Macon, GA, area of application based on employment interchange measures favoring the Macon, GA, wage area.

Savannah, GA, Wage Area

The proposed rule would redefine the following counties to and within the Savannah, GA, wage area based on application of the new criteria:

• Beaufort County, SC (the portion north of Broad River), from the Charleston, SC, area of application to the Savannah, GA, area of application. Beaufort County is part of the Hilton Head Island-Bluffton-Port Royal, SC, MSA, and employment interchange measures for this MSA favor the Savannah, GA, wage area over the Charleston, SC, wage area;

• Beaufort County, SC, to the Savannah, GA, survey area effective for local wage surveys beginning in May 2027 because more than 100 FWS employees work in Beaufort County.

Bloomington-Bedford-Washington, IN, Wage Area

This proposed rule would change the name of the Bloomington-Bedford-Washington, IN, wage area to the Evansville-Henderson, IN, wage area. This proposed rule would redefine the following counties away from the Bloomington-Bedford-Washington, IN wage area based on application of the new criteria:

• Jackson County, IN, from the Bloomington-Bedford-Washington, IN, area of application to the Indianapolis-Carmel-Muncie, IN, area of application because Jackson County is part of the Indianapolis-Carmel-Muncie, IN, CSA;

• Lawrence and Monroe Counties, IN, from the Bloomington-Bedford-Washington, IN, survey area to the Indianapolis-Carmel-Muncie, IN, area of application. Lawrence and Monroe Counties are in the Bloomington-Bedford, IN, CSA, and employment interchange measures for this CSA favor the Indianapolis-Carmel-Muncie, IN, wage area over the Evansville-Henderson, IN, wage area. These counties would subsequently be moved from tto the Indianapolis-Carmel-Muncie, IN, survey area effective for local wage surveys beginning in October 2026;

• Owen County, IN, from the Bloomington-Bedford-Washington, IN, area of application to the Indianapolis-Carmel-Muncie, IN, area of application. Owen County is in the Bloomington-Bedford, IN, CSA, and employment interchange measures for this CSA favor the Indianapolis-Carmel-Muncie, IN, wage area over the Evansville-Henderson, IN, wage area;

• Livingston County, KY, from the Bloomington-Bedford-Washington, IN, area of application to the Nashville, TN, area of application. Livingston County is part of the Paducah-Mayfield, KY-IL, CSA, and employment interchange measures for this CSA favor the Nashville, TN, wage area over the Evansville-Henderson, IN, wage area.

Central Illinois, IL, Wage Area

This proposed rule would change the name of the Central Illinois wage area to the Bloomington-Pontiac, IL, wage area. This proposed rule would redefine the following counties to and away from the Central Illinois wage area based on application of the new criteria:

• Livingston County, IL, from the Chicago, IL, area of application to the Bloomington-Pontiac, IL, area of application because Livingston County is part of the Bloomington-Pontiac, IL, CSA;

• Morgan and Scott Counties, IL, from the St. Louis, MO, area of application to the Bloomington-Pontiac, IL, area of application. Morgan and Scott Counties area part of the Springfield-Jacksonville-Lincoln, IL, CSA, and employment interchange measures for this CSA favor the Bloomington-Pontiac, IL, wage area over the St. Louis, MO, wage area.

Chicago, IL, Wage Area

This proposed rule would change the name of the Chicago, IL, wage area to the Chicago-Naperville, IL, wage area. This proposed rule would redefine the following counties to and away from the Chicago, IL, wage area based on the application of the new criteria:

• Bureau and Putnam Counties, IL, from the Davenport-Rock Island-Moline, IA, area of application to the Chicago-Naperville, IL, area of application because these counties are part of the Chicago-Naperville, IL-IN-WI, CSA;

• Livingston County, IL, from the Chicago area of application to the Bloomington-Pontiac, IL, area of application because Livingston County is part of the Bloomington-Pontiac CSA;

• Lee County, IL from the Chicago area of application to the Davenport-Moline, IA, area of application. Lee County is part of the Dixon-Sterling, IL, CSA, and employment interchange measures for this CSA favor the Davenport-Moline wage area over the Chicago-Naperville wage area.

Ft. Wayne-Marion, IN, Wage Area

This proposed rule would define the following counties away from the Ft. Wayne-Marion, IN, wage area based on application of the new criteria:

• Allen, Mercer, and Van Wert Counties, OH, from the Ft. Wayne-Marion, IN, area of application to the Dayton, OH, area of application. Allen, Mercer, and Van Wert Counties are part of the Lima-Van Wert-Celina, OH, CSA, and employment interchange measures for this CSA favor the Dayton, OH, wage area over the Ft. Wayne-Marion, IN, wage area;

• Grant County, IN, from the Ft. Wayne-Marion, IN, survey area to the Indianapolis-Carmel-Muncie, IN, area of application based on employment interchange measures favoring the Indianapolis-Carmel-Muncie, IN, wage area over the Ft. Wayne-Marion, IN, wage area. The county would subsequently be moved to the Indianapolis-Carmel-Muncie, IN, survey area effective for local wage surveys beginning in October 2026;

• Miami County, IN, from the Ft. Wayne-Marion, IN, area of application to the Indianapolis-Carmel-Muncie, IN, area of application because Miami county is part of the Indianapolis-Carmel-Muncie, IN, CSA. Over 100 FWS employees work in Miami County, and the county would subsequently be moved to the Indianapolis-Carmel-Muncie, IN, survey area effective for local wage surveys beginning in October 2026;

• White County, IN, from the Ft. Wayne-Marion, IN, area of application to the Indianapolis-Carmel-Muncie, IN, area of application. White County is part of the Lafayette-West Lafayette-Frankfort, IN, CSA, and employment interchange measures for this CSA favor the Indianapolis-Carmel-Muncie, IN, wage area over the Ft. Wayne-Marion, IN, wage area;

• Blackford County, IN, from the Ft. Wayne-Marion, IN, area of application to the Indianapolis-Carmel-Muncie, IN, area of application based on employment interchange measures favoring the Indianapolis-Carmel-Muncie, IN, wage area over the Ft. Wayne-Marion, IN, wage area.

Indianapolis, IN, Wage Area

This proposed rule would change the name of the Indianapolis, IN, wage area to the Indianapolis-Carmel-Muncie, IN, wage area. This proposed rule would define the following counties to and within the Indianapolis, IN, wage area based on application of the new criteria:

• Randolph County, IN, from the Dayton, OH, area of application to the Indianapolis-Carmel-Muncie, IN, area of application based on employment interchange measures favoring the Indianapolis-Carmel-Muncie, IN, wage area over the Dayton, OH, wage area;

• Wayne County, IN, from the Dayton, OH, area of application to the Indianapolis-Carmel-Muncie, IN, area of application. Wayne County is part of the Richmond-Connersville, IN, CSA, and employment interchange measures for this CSA favor the Indianapolis-Carmel-Muncie, IN, wage area over the Dayton, OH, wage area;

• Lawrence and Monroe Counties, IN, from the Bloomington-Bedford-Washington, IN, survey area to the Indianapolis-Carmel-Muncie, IN, area of application. Lawrence and Monroe Counties are in the Bloomington-Bedford, IN, CSA, and employment interchange measures for this CSA favor the Indianapolis-Carmel-Muncie, IN, wage area over the Evansville-Henderson, IN, wage area. These counties would subsequently be moved fto the Indianapolis-Carmel-Muncie, IN, survey area effective for local wage surveys beginning in October 2026;

• Owen County, IN, from the Bloomington-Bedford-Washington, IN, area of application to the Indianapolis-Carmel-Muncie, IN, area of application. Owen County is in the Bloomington-Bedford, IN, CSA, and employment interchange measures for this CSA favor the Indianapolis-Carmel-Muncie, IN, wage area over the Evansville-Henderson, IN, wage area;

• Jackson County, IN, from the Bloomington-Bedford-Washington, IN, area of application to the Indianapolis-Carmel-Muncie, IN, area of application because Jackson County is part of the Indianapolis-Carmel-Muncie, IN, CSA;

• Grant County, IN, from the Ft. Wayne-Marion, IN, survey area to the Indianapolis-Carmel-Muncie, IN, area of application based on employment interchange measures favoring the Indianapolis-Carmel-Muncie, IN, wage area over the Ft. Wayne-Marion, IN, wage area. Grant County would subsequently be moved to the Indianapolis-Carmel-Muncie, IN, survey area effective for local wage surveys beginning in October 2026;

• Miami County, IN, from the Ft. Wayne-Marion, IN, area of application to the Indianapolis-Carmel-Muncie, IN, area of application because Miami County is part of the Indianapolis-Carmel-Muncie, IN, CSA. Because more than 100 FWS employees work in Miami County, the county would subsequently be moved to the Indianapolis-Carmel-Muncie, IN, survey area effective for local wage surveys beginning in October 2026;

• White County, IN, from the Ft. Wayne-Marion, IN, area of application to the Indianapolis-Carmel-Muncie, IN, area of application. White County is part of the Lafayette-West Lafayette-Frankfort, IN, CSA, and employment interchange measures for this CSA favor the Indianapolis-Carmel-Muncie, IN, wage area over the Ft. Wayne-Marion, IN, wage area;

• Blackford County, IN, from the Ft. Wayne-Marion, IN, area of application to the Indianapolis-Carmel-Muncie, IN, area of application based on employment interchange measures favoring the Indianapolis-Carmel-Muncie, IN, wage area over the Ft. Wayne-Marion, IN, wage area;

• Jennings County, IN, from the Louisville, KY, area of application to the Indianapolis-Carmel-Muncie, IN, area of application based on employment interchange measures favoring the Indianapolis-Carmel-Muncie, IN, wage area over the Louisville, KY, wage area.

• Vigo County, IN, to the Indianapolis-Carmel-Muncie, IN, survey area because the county has over 100 FWS employees effective for local wage surveys beginning in October 2026.

Davenport-Rock Island-Moline, IA, Wage Area

This proposed rule would change the name of the Davenport-Rock Island-Moline, IA, wage area to the Davenport-Moline, IA, wage area. This proposed rule would define the following counties to and away from the Davenport-Rock Island-Moline, IA, wage area based on application of the new criteria:

• Lee County, IL from the Chicago, IL, area of application to the Davenport-Moline, IA, area of application. Lee County is part of the Dixon-Sterling, IL, CSA, and employment interchange measures for this CSA favor the Davenport-Moline, IA, wage area over the Chicago-Naperville, IL, wage area;

• Bureau and Putnam Counties, IL, from the Davenport-Rock Island-Moline, IA, area of application to the Chicago-Naperville, IL, area of application because these counties are part of the Chicago-Naperville, IL-IN-WI, CSA;

• Adams County, IL, from the Davenport-Rock Island-Moline, IA, area of application to the St. Louis, MO, area of application. Adams County is part of the Quincy-Hannibal, IL-MO, CSA, and employment interchange measures for this CSA favor the St. Louis, MO, wage area over the Davenport-Moline, IA, wage area.

Topeka, KS, Wage Area

The current Topeka, KS, wage area would become smaller under this proposed rule and would be renamed as the Manhattan, KS, wage area. This proposed rule would redefine the following counties away from and within the Topeka, KS, wage area based on application of the new criteria:

• Jefferson, Osage, and Shawnee Counties, KS, from the Topeka, KS, survey area to the Kansas City, MO, area of application. Jefferson, Osage, and Shawnee Counties are part of the Topeka, KS, MSA, and employment interchange measures for this MSA favor the Kansas City wage area. These counties would subsequently be moved to the Kansas City, MO, survey area effective for local wage surveys beginning in October 2026;

• Jackson and Wabaunsee Counties, KS, from the Topeka, KS, area of application to the Kansas City, MO, area of application. Jackson and Wabaunsee Counties are part of the Topeka, KS, MSA, and employment interchange measures for this MSA favor the Kansas City, MO, wage area;

• Riley County, KS, to the Manhattan, KS, survey area effective for local wage surveys beginning in November 2027 because the county has over 100 FWS employees.

Lexington, KY, Wage Area

This proposed rule would redefine the following counties away from the Lexington, KY, wage area based on application of the new criteria:

• Owen and Robertson Counties, KY, from the Lexington area of application to the Cincinnati-Wilmington, OH, area of application based on employment interchange measures favoring the Cincinnati-Wilmington, OH, wage area over the Lexington, KY, wage area.

Louisville, KY, Wage Area

This proposed rule would define the following county away from the Louisville, KY, wage area based on application of the new criteria:

• Jennings County, IN, from the Louisville, KY, area of application to the Indianapolis-Carmel-Muncie, IN, area of application based on employment interchange measures favoring the Indianapolis-Carmel-Muncie, IN, wage area over the Louisville, KY, wage area.

Shreveport, LA, Wage Area

This proposed rule would redefine the following county away from the Shreveport, LA, wage area based on application of the new criteria:

• Cherokee County, TX, from the Shreveport, LA, area of application to the Dallas-Fort Worth, TX, area of application. Cherokee County is part of the Tyler-Jacksonville, TX, CSA, and employment interchange measures for this CSA favor the Dallas-Fort Worth, TX, wage area over the Shreveport, LA, wage area.

Baltimore, MD, Wage Area

With the redefinition of Baltimore (city) and Anne Arundel, Baltimore, Carroll, Harford, and Howard Counties, MD, to the Washington-Baltimore-Arlington survey area, the Baltimore wage area would lose the entirety of its survey area. This proposed rule would abolish the Baltimore wage area and redefine its remaining counties to the Washington-Baltimore-Arlington wage area.

Hagerstown-Martinsburg-Chambersburg, MD, Wage Area

With the redefinition of Washington County, MD; Franklin County, PA; and Berkeley County, WV, to the Washington-Baltimore-Arlington survey area, the Hagerstown-Martinsburg-Chambersburg, MD, wage area would lose the entirety of its survey area. This proposed rule would abolish the Hagerstown-Martinsburg-Chambersburg, MD, wage area and redefine its remaining counties to the Washington-Baltimore-Arlington wage area.

Boston, MA, Wage Area

This proposed rule would change the name of the Boston, MA, wage area to the Boston-Worcester-Providence, MA, wage area. The Boston wage area is currently defined primarily by New England cities and towns rather than by counties with some counties divided between wage areas. This proposed rule would redefine the following counties to and within the Boston, MA, wage area based on the application of the new criteria:

• Coos County, NH, from the Portsmouth, NH, area of application to the Boston-Worcester-Providence, MA, area of application due to employment interchange measures favoring the Boston-Worcester-Providence, MA, wage area;

• Rockingham County, NH, would be part of the Boston-Worcester-Providence, MA, wage area because Rockingham County is part of the Boston-Worcester-Providence, MA-RI-NH, CSA. To effectuate this change, the cities and towns that comprise Rockingham County, NH, would be redefined in the following manner:

○ Rockingham County, NH (all cities and towns except Newton, Plaistow, Salem, and Westville, NH), would be redefined from the Portsmouth, NH, survey area to the Boston-Worcester-Providence, MA, area of application;

○ Rockingham County, NH (the portion that contains the cities and towns of Newton, Plaistow, Salem, and Westville, NH), would be redefined from the Portsmouth, NH, area of application to the Boston-Worcester-Providence, MA, area of application;

○ Rockingham County, NH, in its entirety would subsequently be moved to the Boston-Worcester-Providence, MA, survey area effective for local wage surveys beginning in August 2026;

• Strafford County, NH, would be redefined from the Portsmouth, NH, survey area to the Boston-Worcester-Providence, MA, area of application because Strafford County is part of the Boston-Worcester-Providence, MA-RI-NH, CSA. Strafford County would subsequently be moved to the Boston-Worcester-Providence survey area effective for local wage surveys beginning in August 2026;

• Belknap, Hillsborough, and Merrimack Counties, NH, would be redefined from the Central and Western Massachusetts area of application to the Boston-Worcester-Providence, MA, area of application because these counties are part of the Boston-Worcester-Providence, MA-RI-NH, CSA;

• Cheshire County, NH, would be redefined from the Central and Western Massachusetts area of application to the Boston-Worcester-Providence, MA, area of application. Cheshire County is part of the Keene-Brattleboro, NH-VT, CSA, and employment interchange measures for this CSA favor the Boston-Worcester-Providence, MA, wage area;

• Carroll, Grafton, and Sullivan Counties, NH, would be redefined from the Central and Western Massachusetts area of application to the Boston-Worcester-Providence, MA, area of application based on employment interchange measures favoring the Boston-Worcester-Providence, MA, wage area;

• Androscoggin, Cumberland, Sagadahoc, and York Counties, ME, would be redefined from the Portsmouth, NH, survey area to the Boston-Worcester-Providence, MA, area of application area. Androscoggin, Cumberland, Sagadahoc, and York Counties, ME, are part of the Portland-Lewiston-South Portland, ME, CSA, and employment interchange measures for this CSA favors defining it to the Boston-Worcester-Providence, MA, wage area. These counties would subsequently be moved to the Boston-Worcester-Providence, MA, survey area effective for local wage surveys beginning in August 2026;

• Franklin and Oxford Counties, ME, would be redefined from the Portsmouth, NH, area of application to the Boston-Worcester-Providence, MA, area of application based on employment interchange measures favoring the Boston-Worcester-Providence, MA, wage area;

• Barnstable County, MA, would be defined to the Boston-Worcester-Providence, MA, survey area effective for local wage surveys beginning in August 2026 because the county has over 100 FWS employees;

• Bristol County, MA, would be defined in its entirety to the Boston-Worcester-Providence, MA, wage area because it is part of the Boston-Worcester-Providence, MA-RI-NH, CSA. To effectuate this change, the following cities and towns in Bristol County would be redefined in the following manner:

○ Bristol County, MA (the portion that contains the town the cities and towns of Attleboro, Fall River, North Attleboro, Rehoboth, Seekonk, Somerset, Swansea, and Westport, MA), would be redefined from the Narragansett Bay, RI, survey area to the Boston-Worcester-Providence, MA, area of application;

○ Bristol County, MA (the portion that contains the cities and towns of Acushnet, Berkley, Dartmouth, Dighton, Fairhaven, Freetown, Mansfield, New Bedford, Norton, Raynham, and Taunton, MA), from the Narragansett Bay, RI, area of application to the Boston-Worcester-Providence, MA, area of application;

○ Bristol County, MA, would subsequently be moved to the Boston-Worcester-Providence, MA, survey area effective for local wage surveys beginning in August 2026.

• Essex County, MA, in its entirety would be part of the Boston-Worcester-Providence, MA, survey area because the county is part of the Boston-Worcester-Providence, MA-RI-NH, CSA, and portions of the county are currently included the Boston and Portsmouth survey areas. To effectuate this change, the following cities and towns in Essex County would be redefined:

○ Essex County, MA (the portion that contains the cities and towns of Andover, Essex, Gloucester, Ipswich, Lawrence, Methuen, Rockport, and Rowley, MA), would be moved to the Boston-Worcester-Providence, MA, survey area effective for local wage surveys beginning in August 2026;

○ Essex County, MA (the portion that contains the cities and towns of Amesbury, Georgetown, Groveland, Haverhill, Merrimac, Newbury, Newburyport, North Andover, Salisbury, South Byfield, and West Newbury, MA), would be redefined from the Portsmouth, NH, survey area to the Boston-Worcester-Providence, MA, area of application. Essex County, MA (the portion that contains the cities and towns of Amesbury, Georgetown, Groveland, Haverhill, Merrimac, Newbury, Newburyport, North Andover, Salisbury, South Byfield, and West Newbury, MA), would subsequently be moved to the Boston-Worcester-Providence, MA, survey area effective for local wage surveys beginning in August 2026.

• Middlesex County, MA, in its entirety would be part of the Boston-Worcester-Providence, MA, survey area because the county is part of the Boston-Worcester-Providence, MA-RI-NH, CSA, and portions of the county are included in a survey area. To effectuate this change, the following cities and towns in Middlesex County would be redefined:

○ Middlesex County, MA (the portion that contains the cities and towns of Ayer, Billerica, Chelmsford, Dracut, Dunstable, Groton, Hopkinton, Hudson, Littleton, Lowell, Marlborough, Maynard, Pepperell, Stow, Tewksbury, Tyngsborough, and Westford, MA), would subsequently be moved to the Boston-Worcester-Providence, MA, survey area effective for local wage surveys beginning in August 2026;

○ Middlesex County, MA (the portion that contains the cities and towns of Ashby, Shirley, and Townsend, MA), would be redefined from the Central and Western Massachusetts area of application to the Boston-Worcester-Providence, MA, area of application. Middlesex County, MA (the portion that contains the cities and towns of Ashby, Shirley, and Townsend, MA), would be subsequently moved to the Boston-Worcester-Providence, MA, survey area effective for local wage surveys beginning in August 2026.

• Norfolk County, MA, in its entirety would be part of the Boston-Worcester-Providence, MA, survey area because the county is part of the Boston-Worcester-Providence, MA-RI-NH, CSA, and portions of the county are included in a survey area. To effectuate this change, the following cities and towns in Norfolk County would be redefined:

○ Norfolk County, MA (the portion that contains the town of Avon, MA) would be defined to the Boston-Worcester-Providence, MA, survey area effective for local wage surveys beginning in August 2026;

○ Norfolk County, MA (the portion that contains the cities and towns of Caryville, Plainville, and South Bellingham, MA) from the Narragansett Bay, RI, survey area to the Boston-Worcester-Providence, MA, area of application. Norfolk County, MA (the portion that contains the cities and towns of Caryville, Plainville, and South Bellingham, MA) would subsequently be defined to the Boston-Worcester-Providence, MA, survey area effective for local wage surveys beginning in August 2026.

• Plymouth County, MA (nonsurvey area part), would be moved to the Boston-Worcester-Providence, MA, survey area effective for local wage surveys beginning in August 2026 because the county has more than 100 FWS workers;

• Worcester County, MA, in its entirety would be part of the Boston-Worcester-Providence, MA, survey area because the county is part of the Boston-Worcester-Providence, MA-RI-NH, CSA, and portions of the county are included in a survey area. To effectuate this change, the following cities and towns in Worcester County would be redefined:

○ Worcester County, MA (the portion that contains the cities and towns of Blackstone and Millville, MA) would be redefined from the Narragansett Bay, RI, survey area to the Boston-Worcester-Providence, MA, area of application. Worcester County, MA (the portion that contains the cities and towns of Blackstone and Millville, MA) would subsequently be moved to the Boston-Worcester-Providence, MA, survey area effective for local wage surveys beginning in August 2026;

○ Worcester County, MA (the portion that contains the cities and towns of Warren and West Warren, MA) would be redefined from the Central and Western Massachusetts survey area to the Boston-Worcester-Providence, MA, area of application. Worcester County, MA (the portion that contains the cities and towns of Warren and West Warren, MA) would subsequently be moved to the Boston-Worcester-Providence, MA, survey area effective for local wage surveys beginning in August 2026;

○ Worcester County, MA (all cities and towns except Blackstone, Millville, Warren, and West Warren, MA) would be redefined from the Central and Western Massachusetts area of application to the Boston-Worcester-Providence, MA, area of application. Worcester County, MA (all cities and towns except Blackstone, Millville, Warren, and West Warren, MA) would subsequently be moved to the Boston-Worcester-Providence, MA, survey area effective for local wage surveys beginning in August 2026.

• Bristol County, RI, from the Narragansett Bay, RI, survey area to the Boston-Worcester-Providence, MA, area of application because Bristol County, RI, is part of the Boston-Worcester-Providence, MA-RI-NH, CSA. Bristol County, RI, would subsequently be moved to the Boston-Worcester-Providence, MA, survey area effective for local wage surveys beginning in August 2026.

• Kent County, RI, would be part of the Boston-Worcester-Providence, MA, wage area because the county is part of the Boston-Worcester-Providence, MA-RI-NH, CSA. To effectuate this change, the cities and towns that comprise Kent County, RI, would be redefined in the following manner:

○ Kent County, RI (the portion that contains the cities and towns of Anthony, Coventry, East Greenwich, Greene, Warwick, and West Warwick, RI), would be redefined from the Narragansett Bay, RI, survey area to the Boston-Worcester-Providence, MA, area of application;

○ Kent County, RI (the portion that contains the town of West Greenwich, RI), would be redefined from the Narragansett Bay, RI, area of application to the Boston-Worcester-Providence, MA, area of application;

○ Kent County, RI, would subsequently be moved to the Boston-Worcester-Providence, MA, survey area effective for local wage surveys beginning in August 2026.

• Newport County, RI, would be redefined from the Narragansett Bay, RI, survey area to the Boston-Worcester-Providence, MA, area of application because the county is part of the Boston-Worcester-Providence, MA-RI-NH, CSA. Newport County, RI, would subsequently be moved to the Boston-Worcester-Providence, MA, survey area effective for local wage surveys beginning in August 2026;

• Providence County, RI, would be part of the Boston-Worcester-Providence, MA, wage area because the county is part of the Boston-Worcester-Providence, MA-RI-NH, CSA. To effectuate this change, the cities and towns that comprise Providence County would be redefined in the following manner:

○ Providence County, RI (the portion that contains the cities and towns of Ashton, Burrillville, Central Falls, Cranston, Cumberland, Cumberland Hill, East Providence, Esmond, Forestdale, Greenville, Harrisville, Johnston, Lincoln, Manville, Mapleville, North Providence, North Smithfield, Oakland, Pascoag, Pawtucket, Providence, Saylesville, Slatersville, Smithfield, Valley Falls, Wallum Lake, and Woonsocket, RI), would be redefined from the Narragansett Bay, RI, survey area to the Boston-Worcester-Providence, MA, area of application;

○ Providence County, RI (the portion that contains the cities and towns of Foster, Glocester, and Scituate, RI), would be redefined from the Narragansett Bay, RI, area of application to the Boston-Worcester-Providence, MA, area of application;

○ Providence County, RI, would subsequently be moved in its entirety to the Boston-Worcester-Providence, MA, survey area effective for local wage surveys beginning in August 2026.

• Washington County, RI, would be part of the Boston-Worcester-Providence, MA, wage area because the county is part of the Boston-Worcester-Providence, MA-RI-NH, CSA. To effectuate this change, the cities and towns that comprise Washington County would be redefined in the following manner:

○ Washington County, RI (the portion that contains the cities and towns of Davisville, Galilee, Lafayette, Narragansett, North Kingstown, Point Judith, Quonset Point, Saunderstown, and Slocum, RI), would be redefined from the Narragansett Bay, RI, survey area to the Boston-Worcester-Providence, MA, area of application;

○ Washington County, RI (the portion that contains the cities and towns of Charlestown, Exeter, Hopkinton, New Shoreham, Richmond, South Kingstown, and Westerly, RI), would be redefined from the Narragansett Bay, RI, area of application to the Boston-Worcester-Providence, MA, area of application;

○ Washington County, RI, would subsequently be moved in its entirety to the Boston-Worcester-Providence, MA, survey area effective for local wage surveys beginning in August 2026.

• Windham County, VT, would be redefined from the Central and Western Massachusetts area of application to the Boston-Worcester-Providence, MA, area of application. Windham County is part of the Keene-Brattleboro, NH-VT, CSA, and employment interchange measures for this CSA favor the Boston-Worcester-Providence, MA, wage area;

• Orange and Windsor Counties, VT, would be redefined from the Central and Western Massachusetts area of application to the Boston-Worcester-Providence, MA, area of application based on employment interchange measures favoring the Boston-Worcester-Providence, MA, wage area.

Central and Western Massachusetts, MA, Wage Area

With the redefinition of Hampden and Hampshire Counties, MA, to the New Haven-Hartford, CT, wage area and Worcester County, MA, to the Boston-Worcester-Providence, MA, wage area, the Central and Western Massachusetts wage area would lose the entirety of its survey area. This proposed rule would abolish the Central and Western Massachusetts wage area and redefine its remaining counties to neighboring wage areas.

Detroit, MI, Wage Area

This proposed rule would change the name of the Detroit, MI, wage area to the Detroit-Warren-Ann Arbor, MI, wage area. This proposed rule would redefine the following counties to, away from, and within the Detroit, MI, wage area based on application of the new criteria:

• Jackson County, MI, from the Southwestern Michigan area of application to the Detroit-Warren-Ann Arbor, MI, area of application based on employment interchange measures favoring the Detroit-Warren-Ann Arbor, MI, wage area;

• Ottawa County, OH, from the Detroit, MI, area of application to the Cleveland-Akron-Canton, OH, area of application because Ottawa County is part of the Cleveland-Akron-Canton, OH, CSA;

• Lucas County, OH, and Washtenaw County, MI, to the Detroit-Warren-Ann Arbor, MI, survey area effective for local wage surveys beginning in January 2027 because more than 100 FWS employees work in each county.

Northwestern Michigan Wage Area

This proposed rule would redefine the following counties to the Northwestern Michigan wage area based on application of the new criteria:

• Florence and Marinette Counties, WI, from the Southwestern Wisconsin area of application to the Northwestern Michigan area of application. Florence and Marinette Counties are part of the Marinette-Iron Mountain, WI-MI, CSA, and distance criteria for this CSA favor the Northwestern Michigan wage area over the Southwestern Wisconsin wage area.

Southwestern Michigan Wage Area

This proposed rule would define the following county away from the Southwestern Michigan wage area based on application of the new criteria:

• Jackson County, MI, from the Southwestern Michigan area of application to the Detroit-Warren-Ann Arbor, MI, area of application based on employment interchange measures favoring the Detroit-Warren-Ann Arbor, MI, wage area.

Duluth, MN, Wage Area

This proposed rule would redefine the follow county away from the Duluth, MN, wage area based on application of the new criteria:

• Pine County, MN, from the Duluth, MN, area of application to the Minneapolis-St. Paul, MN, area of application based on employment interchange measures favoring the Minneapolis-St. Paul, MN, wage area over the Duluth, MN, wage area.

Minneapolis-St. Paul, MN, Wage Area

This proposed rule would redefine the following counties to and within the Minneapolis-St. Paul, MN, wage area based on application of the new criteria:

• Pine County, MN, from the Duluth, MN, area of application to the Minneapolis-St. Paul, MN, area of application based on employment interchange measures favoring the Minneapolis-St. Paul, MN, wage area over the Duluth, MN, wage area;

• Winona County, MN, from the Southwestern Wisconsin area of application to the Minneapolis-St. Paul, MN, area of application. Winona County is part of the Rochester-Austin-Winona, MN, CSA, and employment interchange measures for this CSA favor the Minneapolis-St. Paul, MN, wage area over the Southwestern Wisconsin wage area;

• Morrison and Stearns Counties, MN, to the Minneapolis-St. Paul, MN, survey area effective for local wage surveys beginning in April 2027 because more than 100 FWS employees work in each county.

Kansas City, MO, Wage Area

This proposed rule would redefine the following counties to, away from, and within the Kansas City, MO, wage area based on application of the new criteria:

• Jefferson, Osage, and Shawnee Counties, KS, from the Topeka, KS, survey area to the Kansas City, MO, area of application. Jefferson, Osage, and Shawnee Counties are part of the Topeka, KS, MSA, and employment interchange measures for this MSA favor the Kansas City wage area. These counties would subsequently be moved to the Kansas City, MO, survey area effective for local wage surveys beginning in October 2026;

• Jackson and Wabaunsee Counties, KS, from the Topeka, KS, area of application to the Kansas City, MO, area of application. Jackson and Wabaunsee Counties are part of the Topeka, KS, MSA, and employment interchange measures for this MSA favor the Kansas City, MO, wage area;

• Cooper and Howard Counties, MO, from the Kansas City, MO, area of application to the St. Louis, MO, area of application. Cooper and Howard Counties are part of the Columbia-Jefferson City-Moberly, MO, CSA, and employment interchange measures for this CSA favor the St. Louis, MO, wage area over the Kansas City, MO, wage area;

• Johnson County, MO, to the Kansas City, MO, survey area effective for local wage surveys beginning in October 2026 because more than 100 FWS employees work in Johnson County.

St. Louis, MO, Wage Area

This proposed rule would redefine the following counties to, away from, and within the St. Louis, MO, wage area based on application of the new criteria:

• Adams County, IL, from the Davenport-Rock Island-Moline, IA, area of application to the St. Louis, MO, area of application. Adams County is part of the Quincy-Hannibal, IL-MO, CSA, and employment interchange measures for this CSA favor the St. Louis, MO, wage area over the Davenport-Moline, IA, wage area.

• Cooper and Howard Counties, MO, from the Kansas City, MO, area of application to the St. Louis, MO, area of application. Cooper and Howard Counties are part of the Columbia-Jefferson City-Moberly, MO, CSA, and employment interchange measures for this CSA favor the St. Louis, MO, wage area over the Kansas City, MO, wage area;

• Mississippi and Scott Counties, MO, from the Southern Missouri area of application to the St. Louis, MO, area of application. Mississippi and Scott Counties are part of the Cape Girardeau-Sikeston, MO-IL, CSA, and employment interchange measures for this CSA favor the St. Louis, MO, wage area over the Southern Missouri wage area;

• Iron and Madison Counties, MO, from the Southern Missouri area of application to the St. Louis, MO, area of application based on employment interchange measures favoring the St. Louis, MO, wage area over the Southern Missouri wage area;

• Morgan and Scott Counties, IL, from the St. Louis, MO, area of application to the Bloomington-Pontiac, IL, area of application. Morgan and Scott counties are part of the Springfield-Jacksonville-Lincoln, IL, CSA, and employment interchange measures for this CSA favor the Bloomington-Pontiac, IL, wage area over the St. Louis, MO, wage area;

• Massac County, IL, from the St. Louis, MO, area of application to the Nashville, TN, area of application. Massac County is part of the Paducah-Mayfield, KY-IL, CSA, and employment interchange measures for this CSA favor the Nashville, TN, wage area over the St. Louis, MO, wage area;

• Boone County, MO, to the St. Louis, MO, survey area effective for local wage surveys beginning in October 2026 because more than 100 FWS employees work in Boone County;

• Williamson County, IL, to the St. Louis, MO, survey area effective for local wage surveys beginning in October 2026 because more than 100 FWS employees work in Williamson County.

Southern Missouri Wage Area

This proposed rule would redefine the following counties away from the Southern Missouri wage area based on application of the new criteria:

• Mississippi and Scott Counties, MO, from the Southern Missouri area of application to the St. Louis, MO, area of application. Mississippi and Scott Counties are part of the Cape Girardeau-Sikeston, MO-IL, CSA, and employment interchange measures for this CSA favor the St. Louis, MO, wage area over the Southern Missouri wage area;

• Iron and Madison Counties, MO, from the Southern Missouri area of application to the St. Louis, MO, area of application based on employment interchange measures favoring the St. Louis, MO, wage area over the Southern Missouri wage area.

Reno, NV, Wage Area

This proposed rule would redefine the following counties to, away from, and within the Reno, NV, wage area based on application of the new criteria:

• Alpine County, CA, from the Sacramento, CA, area of application to the Reno, NV area of application because Alpine County is part of the Reno-Carson City-Gardnerville Ranchos, NV-CA, CSA;

• Madera County, CA (Devils Postpile National Monument portion) from the Reno, NV, area of application to the Fresno, CA, area of application because Madera County is part of the Fresno-Hanford-Corcoran, CA, CSA;

• Lassen County, CA, to the Reno, NV, survey area effective for local wage surveys beginning in March 2026 because more than 100 FWS employees work in Lassen County.

Portsmouth, NH, Wage Area

With the redefinition of Androscoggin, Cumberland, Sagadahoc, and York Counties, ME; Essex County, MA; and Rockingham and Stafford Counties, NH, to the Boston-Worcester-Providence, MA, survey area, the Portsmouth, NH, wage area would lose the entirety of its survey area. This proposed rule would abolish the Portsmouth, NH, wage area and redefine its remaining counties to neighboring wage areas.

Albuquerque, NM, Wage Area

This proposed rule would change the name from the Albuquerque, NM, wage area to the Albuquerque-Santa Fe-Los Alamos, NM, wage area. This proposed rule would also redefine the following county to the Albuquerque-Santa Fe-Los Alamos wage area based on the application of the new criteria:

• McKinley County, NM, from the Northeastern Arizona survey area to the Albuquerque-Santa Fe-Los Alamos, NM, area of application based on employment interchange measures being more favorable to the Albuquerque-Santa Fe-Los Alamos, NM, than to the Northeastern Arizona wage area. This county would subsequently be moved to the Albuquerque-Santa Fe-Los Alamos, NM, survey area effective for local wage surveys beginning in April 2027.

Albany-Schenectady-Troy, NY, Wage Area

This proposed rule would change the name of the Albany-Schenectady-Troy, NY, wage area to the Albany-Schenectady, NY, wage area. The proposed rule would redefine the following counties to and from the Albany-Schenectady-Troy, NY, wage area based on the application of the new criteria:

• Berkshire County, MA, from the Central and Western Massachusetts area of application to the Albany-Schenectady, NY, area of application based on employment interchange measures favoring the Albany-Schenectady, NY, wage area;

• Bennington and Rutland Counties, VT, from the Central and Western Massachusetts area of application to the Albany-Schenectady, NY, area of application based on employment interchange measures favoring the Albany-Schenectady, NY, wage area;

• Hamilton County, NY, from the Syracuse-Utica-Rome, NY, area of application to the Albany-Schenectady, NY, area of application based on employment interchange measures favoring the Albany-Schenectady, NY, wage area over the Syracuse-Utica-Rome, NY, wage area;

• Ulster County, NY, from the Albany-Schenectady-Troy, NY, area of application to the New York-Newark, NY, area of application because Ulster County is part of the New York-Newark, NY-NJ-CT-PA, CSA.

Buffalo, NY, Wage Area

The proposed rule would redefine the following counties to the Buffalo, NY, wage area based on application of the new criteria:

• Allegany and Wyoming Counties, NY, from the Rochester, NY, area of application to the Buffalo area of application based on employment interchange measures favoring the Buffalo wage area over the Rochester wage area.

New York, NY, Wage Area

This proposed rule would change the name of the New York, NY, wage area to the New York-Newark, NY, wage area. This proposed rule would redefine the following counties to and within the New York-Newark, NY, wage area based on application of the new criteria:

• Fairfield County, CT, from the New Haven-Hartford, CT, area of application to the New York-Newark, NY, area of application because all FWS employees who work in Fairfield County are located in the New York-Newark, NY-NJ-CT-PA, CSA;

• Mercer County, NJ, from the Philadelphia, PA, area of application to the New York-Newark, NY, area of application because Mercer County is part of the New York-Newark, NY-NJ-CT-PA, CSA;

• Warren County, NJ, from the Philadelphia, PA, area of application to the New York-Newark, NY, area of application. Warren County is part of the Allentown-Bethlehem-East Stroudsburg, PA-NJ, CSA and employment interchange measures for this CSA favor the New York-Newark, NY, wage area;

• Sullivan County, NY, from the Scranton-Wilkes-Barre, PA, area of application to the New York-Newark, NY, area of application because Sullivan County is part of the New York-Newark, NY-NJ-CT-PA, CSA;

• Ulster County, NY, from the Albany-Schenectady-Troy, NY, area of application to the New York-Newark, NY, area of application because Ulster County is part of the New York-Newark, NY-NJ-CT-PA, CSA;

• Carbon, Lehigh, and Northampton Counties, PA, from the Philadelphia, PA, area of application to the New York-Newark, NY, area of application. Carbon, Lehigh, and Northampton Counties are part of the Allentown-Bethlehem-East Stroudsburg, PA-NJ, CSA and employment interchange measures for this CSA favor the New York-Newark, NY, wage area;

• Monroe County, PA, from the Scranton-Wilkes-Barre, PA, survey area to the New York-Newark, NY, area of application. Monroe County is part of the Allentown-Bethlehem-East Stroudsburg, PA-NJ, CSA and employment interchange measures for this CSA favor the New York-Newark, NY, wage area. This county would subsequently be moved to the New York-Newark, NY, survey area effective for local wage surveys beginning in January 2028;

• Wayne County, PA, from the Scranton-Wilkes-Barre, PA, area of application to the New York-Newark, NY, area of application. Although analysis of some of the wage area criteria, such as distance, for Wayne County favors defining it to the Scranton-Wilkes-Barre, PA, wage area the United States Penitentiary Canaan, in Wayne County, is just 36 miles away from Tobyhanna Army Depot, the largest Federal employer in Northeastern Pennsylvania which will be defined to the New York-Newark, NY, wage area. GS employees at USP Canaan and Tobyhanna Army Depot are in the New York-Newark, NY-NJ-CT-PA GS locality pay area based on employment interchange measures. OPM is therefore making a decision to move Wayne County to the New York-Newark, NY, wage area's area of application based on an analysis of all of revised wage area criteria;

• Monmouth and Ocean Counties, NJ, to the New York-Newark, NY, survey area effective for local wage surveys beginning in January 2028 because more than 100 FWS employees work in each county;

• Dutchess County, NY, to the New York-Newark, NY, survey area effective for local wage surveys beginning in January 2028 because more than 100 FWS employees work in Dutchess County.

Northern New York Wage Area

This proposed rule would redefine the following counties to the Northern New York wage area based on application of the new criteria:

• Washington County, VT, from the Central and Western Massachusetts area of application to the Northern New York area of application. Washington County is part of the Burlington-South Burlington-Barre, VT, CSA, and employment interchange measures for this CSA favor the Northern New York wage area;

• Addison, Caledonia, Essex, Lamoille, and Orleans Counties, VT, from the Central and Western Massachusetts area of application to the Northern New York area of application because employment interchange measures favor the Northern New York wage area.

Rochester, NY, Wage Area

The proposed rule would redefine the following counties away from the Rochester, NY, wage area based on application of the new criteria:

• Allegany and Wyoming Counties, NY, from the Rochester, NY, area of application to the Buffalo, NY, area of application based on employment interchange measures favoring the Buffalo, NY, wage area over the Rochester, NY, wage area.

Syracuse-Utica-Rome, NY, Wage Area

The proposed rule would redefine the following county away from the Syracuse-Utica-Rome, NY, wage area based on application of the new criteria:

• Hamilton County, NY, from the Syracuse-Utica-Rome, NY, wage area to the Albany-Schenectady, NY, wage area based on employment interchange measures favoring the Albany-Schenectady, NY, wage area over the Syracuse-Utica-Rome, NY, wage area.

Asheville, NC, Wage Area

The proposed rule would redefine the following counties away from the Asheville, NC, wage area based on application of the new criteria:

• Alexander, Burke, Caldwell, Catawba, and McDowell Counties, NC, from the Asheville area of application to the Charlotte-Concord, NC, area of application because these counties are part of the Charlotte-Concord, NC-SC, CSA.

Charlotte, NC, Wage Area

This proposed rule would change the name of the Charlotte, NC, wage area to the Charlotte-Concord, NC, wage area. The proposed rule would redefine the following counties to the Charlotte-Concord, NC, wage area based on application of the new criteria:

• Alexander, Burke, Caldwell, Catawba, and McDowell Counties, NC, from the Asheville, NC, area of application to the Charlotte-Concord, NC, area of application because these counties are part of the Charlotte-Concord, NC-SC, CSA.

Southeastern North Carolina Wage Area

This proposed rule would redefine the following counties away from the Southeastern North Carolina wage area based on application of the new criteria:

• Horry County, SC from the Southeastern North Carolina area of application to the Charleston, SC, area of application. Horry County is part of the Myrtle Beach-Conway, SC, CSA, and employment interchange measures for this CSA favor the Charleston, SC, wage area over the Southeastern North Carolina wage area;

• Dare County, NC, from the Southeastern North Carolina area of application to the Virginia Beach-Chesapeake, VA, area of application because Dare County is part of the Virginia Beach-Chesapeake, VA-NC, CSA;

• Hertford and Tyrrell Counties, NC, from the Southeastern North Carolina area of application to the Virginia Beach-Chesapeake, VA, area of application based on employment interchange measures favoring the Virginia Beach-Chesapeake, VA, wage area over the Southeastern North Carolina wage area.

Cincinnati, OH, Wage Area

This proposed rule would change the name of the Cincinnati, OH, wage area to the Cincinnati-Wilmington, OH, wage area. This proposed rule would redefine the following counties to the Cincinnati-Wilmington, OH, wage area based on application of the new criteria:

• Clinton County, OH, from the Dayton, OH, area of application to the Cincinnati-Wilmington, OH, area of application because Clinton County is part of the Cincinnati-Wilmington, OH-KY-IN, CSA;

• Owen and Robertson Counties, KY, from the Lexington, KY, area of application to the Cincinnati-Wilmington, OH, area of application based on employment interchange measures favoring the Cincinnati-Wilmington, OH, wage area over the Lexington, KY, wage area;

• Lewis County, KY, from the West Virginia area of application to the Cincinnati-Wilmington, OH, area of application based on employment interchange measures favoring the Cincinnati-Wilmington, OH, wage area.

Cleveland, OH, Wage Area

This proposed rule would change the name of the Cleveland, OH, wage area to the Cleveland-Akron-Canton, OH, wage area. The proposed rule would redefine the following counties to, away from, and within the Cleveland, OH, wage area based on application of the new criteria:

• Coshocton County, OH, from the Columbus, OH, area of application to the Cleveland-Akron-Canton, OH, area of application because Coshocton County is part of the Cleveland-Akron-Canton, OH, CSA;

• Ottawa County, OH, from the Detroit, MI, area of application to the Cleveland-Akron-Canton, OH, area of application because Ottawa County is part of the Cleveland-Akron-Canton, OH, CSA;

• Tuscarawas County, OH, from the Pittsburgh, PA, area of application to the Cleveland-Akron-Canton, OH, area of application because Tuscarawas County is part of the Cleveland-Akron-Canton, OH, CSA;

• Crawford and Richland Counties, OH, from the Columbus, OH, area of application to the Cleveland-Akron-Canton, OH, area of application. Crawford and Richland Counties are part of the Mansfield-Ashland-Bucyrus, OH, CSA, and employment interchange measures for this CSA favor the Cleveland-Akron-Canton, OH, wage area over the Columbus-Marion-Zanesville wage area;

• Holmes County, OH, from the Columbus, OH, area of application to the Cleveland-Akron-Canton, OH, area of application based on employment interchange measures favoring the Cleveland-Akron-Canton, OH, wage area over the Columbus-Marion-Zanesville, OH, wage area;

• Seneca County, OH, from the Cleveland, OH, area of application to the Columbus-Marion-Zanesville, OH, area of application. Seneca County is part of the Findlay-Tiffin, OH, CSA, and employment interchange measures for this CSA favor the Columbus-Marion-Zanesville, OH, wage area over the Cleveland-Akron-Canton, OH, wage area;

• Mercer County, PA, from the Cleveland, OH, area of application to the Pittsburgh, PA, area of application because Mercer County is part of the Pittsburgh-Weirton-Steubenville, PA-OH-WV, CSA;

• Mahoning County, OH, to the Cleveland-Akron-Canton, OH, survey area effective for local wage surveys beginning in April 2027 because the county has over 100 FWS employees.

Columbus, OH, Wage Area

This proposed rule would change the name of the Columbus, OH, wage area to the Columbus-Marion-Zanesville, OH, wage area. The proposed rule would redefine the following counties to, away from, and within the Columbus, OH, wage area based on application of the new criteria:

• Athens County, OH, from the West Virginia area of application to the Columbus-Marion-Zanesville, OH, area of application because Athens County is part of the Columbus-Marion-Zanesville CSA;

• Logan County, OH, from the Dayton, OH, area of application to the Columbus-Marion-Zanesville, OH, area of application because Logan County is part of the Columbus-Marion-Zanesville, OH, CSA;

• Seneca County, OH, from the Cleveland, OH, area of application to the Columbus-Marion-Zanesville, OH, area of application. Seneca County is part of the Findlay-Tiffin, OH, CSA, and employment interchange measures for this CSA favor the Columbus-Marion-Zanesville, OH, wage area over the Cleveland-Akron-Canton, OH, wage area;

• Morgan, Noble, Pike, and Vinton Counties, OH, from the West Virginia area of application to the Columbus-Marion-Zanesville, OH, area of application based on employment interchange measures favoring the Columbus-Marion-Zanesville, OH, wage area;

• Coshocton County, OH, from the Columbus, OH, area of application to the Cleveland-Akron-Canton, OH, area of application because Coshocton County is part of the Cleveland-Akron-Canton, OH, CSA;

• Crawford and Richland Counties, OH, from the Columbus, OH, area of application to the Cleveland-Akron-Canton, OH, area of application. Crawford and Richland Counties are part of the Mansfield-Ashland-Bucyrus, OH, CSA, and employment interchange measures for this CSA favor the Cleveland-Akron-Canton, OH, wage area over the Columbus-Marion-Zanesville, OH, wage area;

• Holmes County, OH, from the Columbus, OH, area of application to the Cleveland-Akron-Canton, OH, area of application based on employment interchange measures favoring the Cleveland-Akron-Canton, OH, wage area over the Columbus-Marion-Zanesville, OH, wage area;

• Ross County, OH, to the Columbus-Marion-Zanesville OH, survey area effective for local wage surveys beginning in January 2027 because the county has over 100 FWS employees.

Dayton, OH, Wage Area

This proposed rule would redefine the following counties to and away from the Dayton, OH, wage area based on application of the new criteria:

• Allen, Mercer, and Van Wert Counties, OH, from the Ft. Wayne-Marion, IN, area of application to the Dayton, OH, area of application. Allen, Mercer, and Van Wert Counties are part of the Lima-Van Wert-Celina, OH, CSA, and employment interchange measures for this CSA favor the Dayton, OH, wage area over the Ft. Wayne-Marion, IN, wage area;

• Clinton County, OH, from the Dayton, OH, area of application to the Cincinnati-Wilmington, OH, area of application because Clinton County is part of the Cincinnati-Wilmington, OH-KY-IN, CSA;

• Logan County, OH, from the Dayton, OH, area of application to the Columbus-Marion-Zanesville, OH, area of application because Logan County is part of the Columbus-Marion-Zanesville CSA;

• Wayne County, IN, from the Dayton, OH, area of application to the Indianapolis-Carmel-Muncie, IN, area of application. Wayne County is part of the Richmond-Connersville, IN, CSA, and employment interchange measures for this CSA favor the Indianapolis-Carmel-Muncie, IN, wage area over the Dayton, OH, wage area;

• Randolph County, IN, from the Dayton, OH, area of application to the Indianapolis-Carmel-Muncie, IN, area of application based on employment interchange measures favoring the Indianapolis-Carmel-Muncie, IN, wage area over the Dayton, OH, wage area.

Oklahoma City, OK, Wage Area

This proposed rule would redefine the following counties away from the Oklahoma City, OK, wage area based on application of the new criteria:

• Bryan County, OK, from the Oklahoma City, OK, area of application to the Dallas-Fort Worth, TX, area of application because Bryan County is part of the Dallas-Fort Worth, TX-OK, CSA;

• Carter and Love Counties, OK, from the Oklahoma City, OK, area of application to the Dallas-Fort Worth, TX, area of application based on employment interchange measures favoring the Dallas-Fort Worth, TX, wage area over the Oklahoma City, OK, wage area.

Portland, OR, Wage Area

This proposed rule would change the name of the Portland, OR, wage area to the Portland-Vancouver-Salem, OR, wage area. The proposed rule would redefine the following counties to and away from the Portland, OR, wage area based on application of the new criteria:

• Linn and Benton Counties, OR, from the Southwestern Oregon area of application to the Portland-Vancouver-Salem, OR, area of application because these counties are part of the Portland-Vancouver-Salem, OR, CSA;

• Pacific County, WA, from the Portland, OR area of application to the Seattle-Tacoma, WA, area of application based on employment interchange measures favoring the Seattle-Tacoma, WA, wage area over the Portland-Vancouver-Salem, OR, wage area.

Southwestern Oregon, OR, Wage Area

This proposed rule would redefine the following counties to and away from the Southwestern Oregon wage area based on application of the new criteria:

• Del Norte County, CA, from the Sacramento, CA, area of application to the Southwestern Oregon area of application. Del Norte County is part of the Brookings-Crescent City, OR-CA, CSA, and employment interchange measures for this CSA favor the Southwestern Oregon wage area over the Sacramento-Roseville, CA, wage area;

• Linn and Benton Counties, OR, from the Southwestern Oregon area of application to the Portland-Vancouver-Salem, OR, area of application because these counties are part of the Portland-Vancouver-Salem CSA.

Harrisburg, PA, Wage Area

This proposed rule would change the name of the Harrisburg, PA, wage area to the Harrisburg-York-Lebanon, PA, wage area. Because Adams and York Counties, PA, are part of the Harrisburg-York-Lebanon, PA, CSA they would be defined to this wage area rather than to the Washington-Baltimore-Arlington, DC, wage area to avoid splitting the CSA. Adams and York Counties are defined to the Washington-Baltimore-Arlington GS locality pay area based on a Federal Salary Council recommendation and Pay Agent decision to keep the counties defined to that locality pay area after a new GS locality pay area was established for Harrisburg. The proposed rule would redefine the following counties to, away from, and within the Harrisburg, PA, wage area based on application of the new criteria:

• Northumberland, Snyder, and Union Counties, PA, from the Harrisburg, PA, area of application to the Scranton-Wilkes-Barre, PA, area of application. Northumberland, Snyder, and Union Counties are part of the Bloomsburg-Berwick-Sunbury, PA, CSA, and employment interchange measures for this CSA favor the Scranton-Wilkes-Barre, PA, wage area;

• Clinton County, PA, from the Pittsburgh, PA, area of application to the Harrisburg-York-Lebanon, PA, area of application. Clinton County is part of the Williamsport-Lock Haven, PA, CSA, and employment interchange measures for this CSA favor the Harrisburg-York-Lebanon, PA, wage area;

• Lycoming County (does not include the Allenwood Federal Prison Camp portion) from the Scranton-Wilkes-Barre, PA, area of application to the Harrisburg-York-Lebanon, PA, area of application. Lycoming County is part of the Williamsport-Lock Haven, PA, CSA, and employment interchange measures for this CSA favor the Harrisburg-York-Lebanon, PA, wage area;

• Berks County, PA, from the Harrisburg-, PA, area of application to the Philadelphia-Reading-Camden, PA, area of application because Berks County is part of the Philadelphia-Reading-Camden, PA-NJ-DE-MD, CSA;

• Schuylkill County, PA, from the Harrisburg, PA, area of application to the Philadelphia-Reading-Camden, PA, area of application based on employment interchange measures favoring the Philadelphia-Reading-Camden, PA, wage area over the Harrisburg-York-Lebanon, PA, wage area;

• Union County, PA, to the Harrisburg-Lebanon-York, PA, survey area effective for local wage surveys beginning in May 2026 because the county has over 100 FWS employees.

Philadelphia, PA, Wage Area

This proposed rule would change the name of the Philadelphia, PA, wage area to the Philadelphia-Reading-Camden, PA, wage area. This proposed rule would redefine the following counties to and away from the Philadelphia, PA, wage area based on application of the new criteria:

• Kent and New Castle Counties, DE, from the Wilmington, DE, survey area to the Philadelphia-Reading-Camden, PA, area of application because Kent and New Castle Counties are part of the Philadelphia-Reading-Camden, PA-NJ-DE-MD, CSA. These counties would subsequently be moved to the Philadelphia-Reading-Camden, PA, survey area effective for local wage surveys beginning in October 2027;

• Sussex County, DE, from the Wilmington, DE, area of application to the Philadelphia-Reading-Camden, PA, area of application because employment interchange measures favor the Philadelphia-Reading-Camden, PA, wage area;

• Cecil County, MD, from the Wilmington, DE, survey area to the Philadelphia-Camden-Reading, PA, area of application because Cecil County is part of the Philadelphia-Reading-Camden, PA-NJ-DE-MD, CSA. This county would subsequently be moved to the Philadelphia-Reading-Camden, PA, survey area effective for local wage surveys beginning in October 2027;

• Somerset, Wicomico, and Worcester (does not include the Assateague Island portion) Counties, MD, from the Wilmington, DE, area of application to the Philadelphia-Reading-Camden, PA, area of application. Somerset, Wicomico, and Worcester Counties, MD, are part of the Salisbury-Ocean Pines, MD, CSA;

• Salem County, NJ, from the Wilmington, DE, survey area to the Philadelphia-Reading-Camden, PA, area of application because Salem County is part of the Philadelphia-Reading-Camden, PA-NJ-DE-MD, CSA. This county would subsequently be moved to the Philadelphia-Reading-Camden, PA, survey area effective for local wage surveys beginning in October 2027;

• Berks County, PA, from the Harrisburg, PA, area of application to the Philadelphia-Reading-Camden, PA, area of application because Berks County is part of the Philadelphia-Reading-Camden, PA-NJ-DE-MD, CSA;

• Schuylkill County, PA, from the Harrisburg, PA, area of application to the Philadelphia-Reading-Camden, PA, area of application because employment interchange measures favor the Philadelphia-Reading-Camden, PA, wage area;

• Mercer County, NJ, from the Philadelphia, PA, area of application to the New York-Newark, NY, area of application because Mercer County is part of the New York-Newark, NY-NJ-CT-PA, CSA;

• Warren County, NJ, from the Philadelphia, PA, area of application to the New York-Newark, NY, area of application. Warren County is part of the Allentown-Bethlehem-East Stroudsburg, PA-NJ, and employment interchange measures for this CSA favor the New York-Newark, NY, wage area;

• Carbon, Lehigh, and Northampton Counties, PA, from the Philadelphia, PA, area of application to the New York-Newark, NY, area of application. Carbon, Lehigh, and Northampton Counties are part of the Allentown-Bethlehem-East Stroudsburg, PA-NJ, and employment interchange measures for this CSA favor the New York-Newark, NY, wage area.

Pittsburgh, PA, Wage Area

This proposed rule would redefine the following counties to, away from, and within the Pittsburgh, PA, wage area based on application of the new criteria:

• Mercer County, PA, from the Cleveland, OH, area of application to the Pittsburgh, PA, area of application because Mercer County is part of the Pittsburgh-Weirton-Steubenville, PA-OH-WV, CSA;

• Tuscarawas Counties, OH, from the Pittsburgh, PA, area of application to the Cleveland-Akron-Canton, OH, area of application because Tuscarawas County is part of the Cleveland-Akron-Canton, OH, CSA;

• Clinton County, PA, from the Pittsburgh, PA, area of application to the Harrisburg-York-Lebanon, PA, area of application. Clinton County is part of the Williamsport-Lock Haven, PA, CSA, and employment interchange measures for this CSA favor the Harrisburg-York-Lebanon, PA, wage area;

• Cambria County, PA, to the Pittsburgh, PA, survey area effective for local wage surveys beginning in July 2027 because more than 100 FWS employees work in Cambria County.

Scranton-Wilkes-Barre, PA, Wage Area

This proposed rule would redefine the following counties away from the Scranton-Wilkes-Barre, PA, wage area based on application of the new criteria:

• Sullivan County, NY, from the Scranton-Wilkes-Barre, PA, area of application to the New York-Newark, NY, area of application because Sullivan County is part of the New York-Newark, NY-NJ-CT-PA, CSA;

• Lycoming County (does not include the Allenwood Federal Prison Camp portion) from the Scranton-Wilkes-Barre, PA, area of application to the Harrisburg-York-Lebanon, PA, area of application. Lycoming County is part of the Williamsport-Lock Haven, PA, CSA, and employment interchange measures for this CSA favor the Harrisburg-York-Lebanon, PA, wage area;

• Monroe County, PA, from the Scranton-Wilkes-Barre, PA, survey area to the New York-Newark, NY, area of application. Monroe County is part of the Allentown-Bethlehem-East Stroudsburg, PA-NJ, CSA and employment interchange measures for this CSA favor the New York-Newark, NY, wage area. This county would subsequently be moved to the New York-Newark, NY, survey area effective for local wage surveys beginning in January 2028;

• Northumberland, Snyder, and Union Counties, PA, from the Harrisburg, PA, area of application to the Scranton-Wilkes-Barre, PA, area of application. Northumberland, Snyder, and Union Counties are part of the Bloomsburg-Berwick-Sunbury, PA, CSA, and employment interchange measures for this CSA favor the Scranton-Wilkes-Barre, PA, wage area;

• Wayne County, PA, from the Scranton-Wilkes-Barre area of application to the New York-Newark area of application as explained for the New York-Newark wage area definition above.

Narragansett Bay, RI, Wage Area

With the redefinition of Bristol, Norfolk, and Worcester Counties, MA; and Bristol, Kent, Newport, Providence and Washington Counties, RI, to the Boston-Worcester-Providence, MA, survey area, the Narragansett Bay, RI, wage area would lose the entirety of its survey area. This proposed rule would abolish the Narragansett Bay, RI, wage area and redefine its remaining counties to the Boston-Worcester-Providence, MA, wage area.

Charleston, SC, Wage Area

The proposed rule would redefine the following counties to and away from the Charleston, SC, wage area based on application of the new criteria:

• Horry County, SC from the Southeastern North Carolina area of application to the Charleston, SC, area of application. Horry County is part of the Myrtle Beach-Conway, SC, CSA, and employment interchange measures for this CSA favor the Charleston, SC, wage area over the Southeastern North Carolina wage area;

• Beaufort County, SC (the portion north of Broad River), from the Charleston, SC, area of application to the Savannah, GA, area of application. Beaufort County is part of the Hilton Head Island-Bluffton-Port Royal, SC, MSA, and employment interchange measures for this MSA favor the Savannah, GA, wage area over the Charleston, SC, wage area. Beaufort County would subsequently be moved to the Savannah, GA, survey area effective for local wage surveys beginning in May 2027 because more than 100 FWS employees work in Beaufort County.

Nashville, TN, Wage Area

This proposed rule would redefine the following counties to the Nashville, TN, wage area based on the application of the new criteria:

• Jackson County, AL, from the Huntsville, AL, area of application to the Nashville, TN, area of application. Jackson County is part of the Chattanooga-Cleveland-Dalton, TN-GA-AL, CSA. Most of this CSA is currently defined to the Nashville wage area;

• Chattooga, Murray, and Whitfield Counties, GA, from the Atlanta-, GA, area of application to the Nashville, TN, area of application;

• Massac County, IL, from the St. Louis, MO, area of application to the Nashville, TN, area of application. Massac County is part of the Paducah-Mayfield, KY-IL, CSA, and employment interchange measures for this CSA favor the Nashville, TN, wage area over the St. Louis, MO, wage area;

• Livingston County, KY, from the Bloomington-Bedford-Washington, IN, area of application to the Nashville, TN, area of application. Livingston County is part of the Paducah-Mayfield, KY-IL, CSA, and employment interchange measures for this CSA favor the Nashville, TN, wage area over the Evansville-Henderson, IN, wage area.

• Franklin, Lawrence, and Moore Counties, TN, from the Huntsville, AL, area of application to the Nashville, TN, area of application because these counties are part of the Nashville-Davidson-Murfreesboro, TN, CSA.

Corpus Christi, TX, Wage Area

This proposed rule would change the name of the Corpus Christi, TX, wage area to the Corpus Christi-Kingsville-Alice, TX, wage area. The proposed rule would redefine the following counties to and within the Corpus Christi, TX, wage area based on application of the new criteria:

• Duval County, TX, from the San Antonio, TX, area of application to the Corpus Christi-Kingsville-Alice, TX, area of application based on employment interchange measures favoring the Corpus Christi-Kingsville-Alice, TX, wage area over the San Antonio, TX, wage area;

• Hidalgo County, TX, to the Corpus Christi-Kingsville-Alice, TX, survey area effective for local wage surveys beginning in June 2026 because the county has over 100 FWS employees.

Dallas-Fort Worth, TX, Wage Area

The proposed rule would redefine the following counties to the Dallas-Fort Worth, TX, wage area based on application of the new criteria:

• Bryan County, OK, from the Oklahoma City, OK, area of application to the Dallas-Fort Worth, TX, area of application because Bryan County is part of the Dallas-Fort Worth, TX-OK, CSA;

• Carter and Love Counties, OK, from the Oklahoma City, OK, area of application to the Dallas-Fort Worth, TX, area of application based on employment interchange measures favoring the Dallas-Fort Worth wage area over the Oklahoma City, OK, wage area;

• Cherokee County, TX, from the Shreveport, LA, area of application to the Dallas-Fort Worth, TX, area of application. Cherokee County is part of the Tyler-Jacksonville, TX, CSA, and employment interchange measures for this CSA favor the Dallas-Fort Worth, TX, wage area over the Shreveport, LA, wage area;

• Hill County, TX, from the Waco, TX, area of application to the Dallas-Fort Worth, TX, area of application based on employment interchange measures favoring the Dallas-Fort Worth, TX, wage area over the Waco, TX, wage area.

San Antonio, TX, Wage Area

The proposed rule would redefine the following counties away from the San Antonio, TX, wage area based on application of the new criteria:

• Duval County, TX, from the San Antonio, TX, area of application to the Corpus Christi-Kingsville-Alice, TX, area of application based on employment interchange measures favoring the Corpus Christi-Kingsville-Alice, TX, wage area over the San Antonio, TX, wage area.

Waco, TX, Wage Area

This proposed rule would redefine the following county away from the Waco, TX, wage area based on application of the new criteria:

• Hill County, TX, from the Waco, TX, area of application to the Dallas-Fort Worth, TX, area of application based on employment interchange measures favoring the Dallas-Fort Worth, TX, wage area over the Waco, TX, wage area.

Norfolk-Portsmouth-Newport News-Hampton, VA, Wage Area

This proposed rule would change the name of the Norfolk-Portsmouth-Newport News-Hampton, VA, wage area to the Virginia Beach-Chesapeake, VA, wage area. This proposed rule would redefine the following counties to and within the Norfolk-Portsmouth-Newport News-Hampton, VA, wage area based on application of the new criteria:

• Dare County, NC, from the Southeastern North Carolina area of application to the Virginia Beach-Chesapeake, VA, area of application because Dare County is part of the Virginia Beach-Chesapeake, VA-NC, CSA;

• Hertford and Tyrrell Counties, NC, from the Southeastern North Carolina area of application to the Virginia Beach-Chesapeake, VA, area of application based on employment interchange measures favoring the Virginia Beach-Chesapeake, VA, wage area over the Southeastern North Carolina wage area;

• Middlesex County, VA, from the Richmond, VA, area of application to the Virginia Beach-Norfolk, VA, wage area because employment interchange measures favor the Virginia Beach-Norfolk, VA, wage area over the Richmond, VA, wage area;

• Pasquotank County, NC, to the Virginia Beach-Chesapeake, VA, survey area effective for local wage surveys beginning in May 2026 because more than 100 FWS employees work in Pasquotank County.

Richmond, VA, Wage Area

This proposed rule would redefine the following counties away from the Richmond, VA, wage area based on application of the new criteria:

• Orange County, VA, from the Richmond, VA, area of application to the Washington-Baltimore-Arlington area of application because Orange County is part of the Washington-Baltimore-Arlington, DC-MD-VA-WV-PA, CSA;

• Caroline and Westmoreland Counties, VA, from the Richmond, VA, area of application to the Washington-Baltimore-Arlington area of application because employment interchange measures favor the Washington-Baltimore-Arlington wage area over the Richmond, VA, wage area;

• Middlesex County, VA, from the Richmond, VA, area of application to the Virginia Beach-Chesapeake, VA, wage area because employment interchange measures favor the Virginia Beach-Chesapeake, VA, wage area over the Richmond, VA, wage area.

Roanoke, VA, Wage Area

This proposed rule would redefine the following counties away from the Roanoke, VA, wage area based on application of the new criteria:

• Staunton and Waynesboro (cities), VA, and Augusta (does not include the Shenandoah National Park portion) County, VA, from the Roanoke, VA, area of application to the Washington-Baltimore-Arlington area of application. Staunton and Waynesboro (cities) and Augusta County are in the Harrisonburg-Staunton-Stuarts Draft, VA, CSA, and employment interchange measures for this CSA favor the Washington-Baltimore-Arlington wage area.

Seattle-Everett-Tacoma, WA, Wage Area

This proposed rule would change the name of the Seattle-Everett-Tacoma, WA, wage area to the Seattle-Tacoma, WA, wage area. This proposed rule would redefine the following counties to and within the Seattle-Everett-Tacoma, WA, wage area based on application of the new criteria:

• Pacific County, WA, from the Portland, OR, area of application to the Seattle-Tacoma, WA, area of application based on employment interchange measures favoring the Seattle-Tacoma, WA, wage area over the Portland-Vancouver-Salem, OR, wage area;

• Island County, WA, to the Seattle-Tacoma, WA, survey area effective for local wage surveys beginning in September 2026 because more than 100 FWS employees work in Island County.

West Virginia, WV, Wage Area

This proposed rule would redefine the following counties away from the West Virginia, WV, wage area based on application of the new criteria:

• Lewis County, KY, from the West Virginia area of application to the Cincinnati-Wilmington, OH, area of application based on employment interchange measures favoring the Cincinnati-Wilmington, OH, wage area;

• Athens County, OH, from the West Virginia area of application to the Columbus-Marion-Zanesville, OH, area of application because Athens County is part of the Columbus-Marion-Zanesville CSA;

• Morgan, Noble, Pike, and Vinton Counties, OH, from the West Virginia area of application to the Columbus-Marion-Zanesville, OH, area of application based on employment interchange measures favoring the Columbus-Marion-Zanesville, OH, wage area.

Madison, WI, Wage Area

This proposed rule would redefine the following counties away from the Madison, WI, wage area based on application of the new criteria:

• Dodge and Jefferson Counties, WI, from the Madison, WI, area of application to the Milwaukee-Racine-Waukesha, WI, area of application because Dodge and Jefferson Counties are part of the Milwaukee-Racine-Waukesha, WI, CSA.

Milwaukee, WI, Wage Area

This proposed rule would change the name of the Milwaukee, WI, wage area to the Milwaukee-Racine-Waukesha, WI, wage area. This proposed rule would redefine the following counties to the Milwaukee-Racine-Waukesha, WI, wage area based on application of the new criteria:

• Dodge and Jefferson Counties, WI, from the Madison, WI, area of application to the Milwaukee-Racine-Waukesha area of application because Dodge and Jefferson Counties are part of the Milwaukee-Racine-Waukesha, WI, CSA;

• Menominee and Shawano Counties, WI, from the Southwestern Wisconsin area of application to the Milwaukee-Racine-Waukesha, WI, area of application. Menominee and Shawano Counties are part of the Green Bay-Shawano, WI, CSA, and employment interchange measures for this CSA favor the Milwaukee-Racine-Waukesha, WI, wage area over the Southwestern Wisconsin wage area.

Southwestern Wisconsin Wage Area

This proposed rule would redefine the following counties away from the Southwestern Wisconsin wage area based on application of the new criteria:

• Menominee and Shawano Counties, WI, from the Southwestern Wisconsin area of application to the Milwaukee-Racine-Waukesha, WI, area of application. Menominee and Shawano Counties are part of the Green Bay-Shawano, WI, CSA, and employment interchange measures for this CSA favor the Milwaukee-Racine-Waukesha, WI, wage area over the Southwestern Wisconsin wage area;

• Winona County, MN, from the Southwestern Wisconsin area of application to the Minneapolis-St. Paul, MN, area of application. Winona County is part of the Rochester-Austin-Winona, MN, CSA, and employment interchange measures for this CSA favor the Minneapolis-St. Paul, MN, wage area over the Southwestern Wisconsin wage area;

• Florence and Marinette Counties, WI, from the Southwestern Wisconsin area of application to the Northwestern Michigan area of application. Florence and Marinette Counties are part of the Marinette-Iron Mountain, WI-MI, CSA, and distance criteria for this CSA favor the Northwestern Michigan wage area over the Southwestern Wisconsin wage area.

Miscellaneous Corrections

In addition, this proposed rule would make the following minor corrections to the spellings of certain names in current wage area listings:

• Revise the name of “Case” County, IN, in the Fort-Wayne-Marion, IN, wage area to read “Cass.”

• Revise the name of “Lagrange” County, IN, in the Fort-Wayne-Marion, IN, wage area to read “LaGrange.”

• Revise the name of “Holly Spring” National Forest portion of the Pontotoc County, MS, in the Northern Mississippi wage area to read “Holly Springs.”

• Revise the name of “La Moure” County, ND, in the North Dakota wage area to read “LaMoure.”

• Revise the name of “Leflore” County, OK, in the Tulsa, OK, wage area to read “Le Flore.”

• Revise the name of “De Witt” County, TX, in the San Antonio, TX, wage area to read “DeWitt.”

• Revise the name of “Lunenberg” County, VA, in the Richmond, VA, wage area to read “Lunenburg.”

• Delete the name of “South Boston”, VA, from the list of area of application cities in the Roanoke, VA, FWS wage area. In 1995, South Boston, VA, changed from city status to town status and was incorporated into Halifax County, VA.

• Delete the name of “Clifton Forge,” VA, from the list of area of application cities in the Roanoke, VA, FWS wage area. In 2001, Clifton Forge, VA, changed from city status to town status and was incorporated into Halifax County, VA.

• Delete the name of “Bedford,” VA, from the list of area of application cities in the Roanoke, VA, FWS wage area. In 2013, Bedford, VA, reverted from city status to town status and was incorporated into Bedford County, VA.

• Delete the entry “Assateague Island Part of Worcester County” from the list of area of application counties in the Virginia Beach-Chesapeake, VA, wage area and replace it with “Worchester (Only includes the Assateague Island portion)” to be consistent with how we list other counties.

• Revise the name of “Shannon County”, SD, in the Wyoming, WY, FWS wage area because the name of Shannon County is now Oglala Lakota County.

Expected Impact of This Rulemaking

1. Statement of Need

OPM is issuing this proposed rule pursuant to its authority to issue regulations governing the FWS in 5 U.S.C. 5343. The purpose of these proposed changes is to address longstanding inequities between the Federal government's two main pay systems. While the pay systems are different in some ways, the concept of geographic pay differentials based on local labor market conditions is a key feature of both systems. In limited circumstances, such as with Adams and York Counties, PA, “this proposed rule would not result in all non-RUS locality pay areas no longer including more than one FWS wage area. The Harrisburg, PA, wage area, would continue to coincide with the Washington-Baltimore-Arlington, DC-MD-VA-WV-PA and the Harrisburg-Lebanon, PA GS locality pay areas. As stated previously, Adams and York Counties, PA, are currently part of the Washington-Baltimore-Arlington GS locality pay area, based on a Federal Salary Council recommendation and Pay Agent decision to keep these counties defined to that locality pay area after a new GS locality pay area was later established for Harrisburg. Adams and York Counties would continue to be defined to the Harrisburg, PA, wage area because they are part of the Harrisburg-York-Lebanon, PA CSA and to avoid splitting this CSA as would be required by the proposed regulatory criteria.

2. Impact

Per available data, OPM expects such a change would impact approximately 17,000 FWS employees nationwide or about 10 percent of the appropriated fund FWS workforce. The proposed amendments to current regulatory criteria used to define and maintain FWS wage areas would result in numerous changes in the composition of many of these wage areas. As a result, several FWS wage areas would no longer be viable separately, and the counties in those abolished wage areas would have to be defined to another wage area.

Most employees affected by this approach would receive increases in pay, but some would be placed on pay retention if moved to a lower wage schedule. As such, about 85 percent of the affected employees (roughly 14,500 employees) would receive pay increases, about 11 percent (roughly 1,800 employees) would be placed on pay retention, around 3 percent (about 500 employees) would be placed at a lower wage level, and around 1 (less than 200 employees) percent would see no change in their wage level.

This proposed rule would primarily affect FWS employees of DOD and its components, although employees of many other agencies, including the VA, would be impacted. For example, the Anniston-Gadsden, AL, wage area would be abolished and most of its counties would be added to the Birmingham-Cullman-Talladega, AL wage area. FWS employees working in these counties would see their pay increased at most grades. For example, at grades WG-01 through WG-04 there would be no change in pay while at grades WG-05 through WG-15, pay increases would vary from $.72 per hour to $5.99 per hour. Likewise, based on these proposed changes, Monroe County, PA, would be moved to the New York, NY wage area. As such, pay increases for FWS employees in Monroe County would vary from $.49 per hour at grade WG-01 to $7.85 per hour at grade WG-15. However, the Washington, DC, Baltimore, MD, and parts of the Hagerstown-Martinsburg-Chambersburg, MD, wage areas would be combined into a revised Washington, DC, based wage area. If this proposed rule is finalized, FWS employees would be moved to the existing Washington, DC, wage schedule, which would result in placement on a wage schedule with lower rates than in the current Baltimore and Hagerstown wage areas at lower grade levels, principally at the VA Medical Centers in these areas. For example, WG-2, step 2, for the Washington, DC, wage schedule is currently $18.47 per hour whereas it is $24.51 per hour for Baltimore, which would be around a $6 an hour decrease once a final rule would go into effect. Nonetheless, most employees would retain their current wage rates if they are not under temporary or term appointments. There are around 35 employees at the Baltimore VA Medical Center under temporary appointments who would see an actual reduction in pay if their appointments were not changed to be permanent. At higher wage grades, employees would receive higher rates under a Washington, DC, based wage schedule.

The Department of the Army, the only FPRAC member voting against the majority recommendation, filed a minority report (Attachment 1 ⁸), as permitted by the Committee rules. According to the minority report, the FPRAC recommendation would cause “profound changes to the FWS pays system.” In fact, as previously stated, the proposed change affects about 10 percent of FWS appropriated fund workers, and there would still be 118 separate appropriated fund wage areas versus 130 today. The changes are limited in scope with most FWS employees seeing no impact at all on their wage levels.

⁸ Attachment 1 is available in the online docket for this rulemaking at [insert link].

According to the minority report, no “business case” for implementing the recommendation has been presented. FPRAC heard testimony from local Federal managers, local union representatives, and employees from across the country who made a strong case over the course of several years for implementation based on perceived disparate treatment impacting business operations at Federal installations. In addition, numerous Members of Congress have expressed their views in support of addressing the different pay treatment between their constituents under the FWS and GS pay systems. A majority of the committee members argued more than a decade ago that the perceived disparate treatment of employees between the GS and FWS was corrosive to morale and presented a strong business-based reason to address the inequities. OPM has also continued recently to receive bipartisan letters of support for implementing these changes.

According to the minority report, the proposed changes would have major budgetary impacts, and therefore would reduce training funds and lead to the potential loss of approximately 300 civilian employees. OPM acknowledges that this proposed rule has potential budgetary impacts affecting three major Army Depots, in particular, that would need to be managed appropriately and effectively by employing agencies. It is noteworthy, however, that the overall budget impact of revising wage area boundaries under this proposed rule equates to about $141 million per year—only around 1 percent of the current base payroll for the FWS appropriated fund workforce as a whole.

According to the minority report, the proposed changes to the criteria used to define and maintain wage areas “would create inequitable pay situations and the perception of loss of future earnings for employees placed on pay retention, which could result in recruitment and retention issues.” As mentioned above, 14 percent of the affected employees would be placed on retained pay status but this is not a strong argument against implementation of this proposed rule, intended to equalize geographic pay area treatment across the Federal government's two main pay systems, since a vast majority—about 85 percent—would receive a pay increase. The pay retention law exists to alleviate potential decreases in wage rates caused by management actions such as changes in wage area boundaries. We note that Federal agencies have considerable discretionary authority to provide pay and leave flexibilities to address significant recruitment and retention problems. Pay and leave flexibilities are always an option to address recruitment or retention challenges at any time. Agency headquarters staff may contact OPM for assistance with understanding and implementing pay and leave flexibilities when appropriate. Information on those flexibilities is available on the OPM website at http://www.opm.gov/policy-data-oversight/pay-leave/pay-and-leave-flexibilities-for-recruitment-and-retention.

Considering that a fairly small number of employees is affected, OPM does not anticipate this rule will have a substantial impact on the local economies or a large impact in the local labor markets. However, OPM is requesting comment in this rule regarding the impact. OPM will continue to study the implications of such impacts in this or future rules as needed, as this and future changes in wage area definitions may impact higher volumes of employees in geographical areas and could rise to the level of impacting local labor markets.

3. Baseline

The geographic boundaries of FWS wage areas and of GS locality pay areas are not the same. Around 1.5 million GS employees are in 58 locality pay areas and around 170,000 appropriated fund FWS employees are in 130 wage areas. However, since 2004, appropriations legislation has required that FWS employees receive the same percentage adjustment amount that GS employees receive where they work.⁹ This provision is known as the floor increase provision. Consequently, the floor increase provision requires pay adjustments each FY that result in certain FWS wage areas having more than one wage schedule in effect where there are multiple wage areas within the boundaries of a single non-RUS GS locality pay area. Although a majority of FWS wage areas coincide only with part of the RUS GS locality pay area, many FWS wage areas coincide with parts of more than one GS locality pay area. In each situation where the boundary of a prevailing rate wage area coincides with the boundary of a single GS locality pay area boundary, DOD must establish one wage schedule applicable in the wage area. For example, the New Orleans, LA, FWS wage area coincides with part of the RUS GS locality pay area. In this case, the minimum prevailing rate adjustment for the New Orleans wage area in FY 2024 was the same as the RUS GS locality pay area adjustment, 4.99 percent.

⁹ For FY 2024, the floor increase and pay cap provisions may be found in Section 737 of Division B of the Further Consolidated Appropriations Act, 2024 (the FY 2024 Act), Pub. L. 118-47.

In each situation where a prevailing rate wage area coincides with part of more than one GS locality pay area, DOD must establish more than one prevailing rate wage schedule for that wage area, and therefore, FWS employees within the same wage area may receive substantially different rates of pay. For example, the boundaries of the Philadelphia, PA, FWS wage area coincide with parts of two different GS locality pay areas—New York-Newark, NY-NJ-CT-PA and Philadelphia-Reading-Camden, PA-NJ-DE-MD. In this case, DOD established two separate wage schedules for use during FY 2024 in the Philadelphia FWS wage area. In the part of the Philadelphia wage area that coincides with the New York-Newark, NY-NJ-CT GS locality pay area, the minimum prevailing rate adjustment was 5.53 percent and in the part coinciding with the Philadelphia-Reading-Camden, PA-NJ-DE-MD GS locality pay area, the minimum prevailing rate adjustment was 5.28 percent. OPM's guidance to agencies regarding FY 2024 FWS pay adjustments can be found at https://www.chcoc.gov/content/fiscal-year-2024-prevailing-rate-pay-adjustments.

Furthermore, at Tobyhanna Army Depot, the largest employer in Monroe County, PA, more than 1,000 Federal employees paid under the GS work in close proximity to more than 1,500 Federal employees paid under the FWS. Prior to 2005, Monroe County was part of the RUS GS locality pay area, while the county was (and is) part of the Scranton-Wilkes-Barre FWS wage area. In January 2005, Monroe County was reassigned from RUS to the New York GS locality pay area. As a result, all GS employees at Tobyhanna got an immediate 12 percent pay increase, of which 8 percent was attributable to the reassignment of Monroe County to the New York locality pay area. This led to a deep sense of unfairness on the part of FWS employees at Tobyhanna which continues to this day.

This rulemaking would address most of the differences in pay among FWS employees within the same wage area and between FWS employees and GS employees working at the same location. It would align FWS wage areas and GS locality pay areas and address observable geographic pay disparities between FWS and GS employees that are caused by using different sets of rules to define FWS wage areas and GS locality pay areas.

4. Costs

OPM employs four full-time staff, at grades GS-12 through GS-15, to discharge its responsibilities under the FWS. The cost is annualized at $753,215 based on an average salary of $188,304 and includes wages, benefits, and overhead. This estimate is based on the 2024 GS salary pay rate for the Washington-Baltimore-Arlington, DC-MD-VA-WV-PA locality pay area. We do not anticipate an increase in administrative costs for OPM if the proposed changes are implemented.

During FPRAC discussions on methods to address the House Report language, it became apparent that DOD might need to hire additional staff members to conduct surveys in the expanded wage areas. However, there would also be fewer wage surveys to conduct each year because 12 wage areas would be abolished, and their survey counties moved to neighboring wage areas. Currently, DOD's operating costs for conducting FWS wage surveys and issuing wage schedules are estimated at $12 million, but it is reasonable to expect that additional specialist wage survey staff members may be needed to complete local wage survey work in the wage areas that would become larger in the time allotted ¹⁰ by statute for local wage surveys to be completed. OPM estimates that an average wage specialist at around the GS-9 level with a $70,000 a year salary in the Washington, DC, area could have a fully burdened cost of $140,000 to carry out the additional wage survey work with six new employees potentially increasing government costs by around $840,000 per year. OPM invites comments on this aspect of the costs of wage survey administration.

¹⁰ Local wage surveys are scheduled in advance, with surveys scheduled by regulation to begin in a certain month in each wage area. The beginning month of appropriated fund wage surveys and the fiscal year during which full-scale surveys are conducted are set out as Appendix A to subpart B of part 532. Under 5 U.S.C. 5344(a), any increase in rates of basic pay is effective not later than the first day of the first pay period on or after the 45th day, excluding Saturdays and Sundays, after a survey was ordered to begin in a wage area. For example, the January wage schedule is ordered in January and becomes effective in March of each year.

FWS wage surveys are conducted under the information collection titled “Establishment Information Form,” “Wage Data Collection Form,” and “Wage Data Collection Continuation Form” OMB Control number 3260-0036. DOD wage specialist data collectors survey about 21,760 businesses annually. Based on past experience with local wage surveys, DOD estimates that each survey collection requires 1.5 hours of respondent burden for collection forms, resulting in a total yearly burden of 32,640 hours. (See the Paperwork Reduction Act section below.) The changes in wage area boundaries in this proposed rule are not expected to affect the public reporting burden of the current information collection. This is because the number of counties included in future survey areas would remain very similar to those included in current survey areas. OPM invites public comment on this matter.

This proposed rule would affect the FWS employees of up to 30 Federal agencies—ranging from cabinet-level departments to small independent agencies—affecting around 17,000 FWS employees. The estimated first-year base payroll cost of this proposal, including 36.70 percent fringe benefits,¹¹ would be annualized at around $141 million and its cumulative 10-year cost would be around $1.5 billion for geographic areas being moved from one wage area to another as a result of amending the criteria used to define FWS wage area boundaries. The total first year base payroll cost represents around 1 percent of the $10 billion overall annual base FWS payroll. About half the overall cost would be incurred by the Department of the Army, primarily at Tobyhanna, Letterkenny, and Anniston Army Depots because a substantial number of the FWS employees who would be affected by the proposed changes is concentrated at these large federal installations.

¹¹ DOD provides annual costs for civilian personnel fringe benefits at https://comptroller.defense.gov/Portals/45/documents/rates/fy2024/2024_d.pdf.

Attachment 1 provides OPM's estimate of the payroll costs for the first 10 years of implementation of this rule. This document was developed by OPM staff who provide technical support to FPRAC. The cost estimate lists the wage areas that will have counties added as a result of the proposed rule and identifies the counties being added.

To calculate the estimated first year cost of around $141 million, we used Wage Grade, Wage Leader, and Wage Supervisor employment numbers in each impacted county and compared the difference in pay between the grade's step-2 rate under the county's current wage schedule, the prevailing wage grade level, and the wage schedule the county would be defined under by this proposed rule. The overall costs were further adjusted based on the average step rate for FWS employees being above step 2.¹² The ten cells to the right of each county provide the costs for the first ten years of implementation. The “Totals” column provides the estimated total cost for the increased payroll for the first 10 years after implementation. The “Emps” column provides the sum of Wage Grade, Wage Leader, and Wage Supervisor employees in the county. The bottom row of each wage area section of Attachment 1 provides the total payroll costs associated with the proposed rule for all counties being moved to the wage area listed. Estimated costs for the second through tenth years were calculated using a 2 percent adjustment factor, in line with the President's budget plan for FY 2025 and an estimated 36.7 percent fringe benefit factor. As these are only estimates, actual future costs will vary.

¹² The step 2 rate is the prevailing wage level, or 100 percent of market, that DOD bases all the other step rates on. The average step for employees changes over time and is different from area to area and grade to grade within a wage area. Currently, the average rate is just above step 3, which is 4 percent above step 2. FPRAC has used this methodology for calculating costs for many years and has found it to be a fairly accurate predictor of cost.

Future wage schedules would be based on local wage surveys that would include survey counties that were previously survey counties in wage areas with different prevailing wage levels. As such, the measurable prevailing wage levels within a wage area are likely to be different than those measured in the most recent local wage surveys. For instance, starting with new full-scale wage surveys beginning in October 2027, the proposed San Jose-San Francisco-Oakland wage area will include Monterey and San Joaquin Counties, CA, in its wage surveys. It is possible that inclusion of these counties in an enlarged San Jose-San Francisco-Oakland survey area might result in prevailing wage levels being measured at a lower level than if they were not included. However, as a result of statistical sampling methods and natural changes in wage growth across the mix of private industrial establishments that would be surveyed, it is not certain what, if any, impact would occur on wage survey results until a full-scale wage survey would be completed in the expanded wage area. It is reasonable to anticipate that adding counties with lower prevailing wage levels to a survey area with higher prevailing wage levels would result in somewhat lower wage survey findings overall and lower wage schedules absent the existence of the floor increase provision that has been included in appropriations law each year since FY 2004. As long as a floor increase provision provides for a minimum annual adjustment amount for a wage schedule, the combining of counties with lower prevailing wage levels into a wage area with higher prevailing wage levels will have no impact on the payable wage rates in that wage area should the floor increase amount continue to be higher than the pay cap amount. In this case, the additional payroll costs that agencies would incur in Monterey and San Joaquin counties would be because employees there would be paid wage rates from the San Jose-San Francisco-Oakland wage schedule that are higher than wage rates applicable in their current wage areas.

If this rulemaking is finalized, agency payroll providers would need to properly assign official duty station codes within their systems for impacted employees by reassigning the codes from one FWS wage schedule to another. Although around 17,000 FWS employees would be affected by the proposed changes in wage area boundaries, there are far fewer official duty station codes that would need to be updated by the four major payroll providers in their payroll systems. OPM estimates this number of impacted official duty station codes to be around 254. This is not anticipated to be a significant additional cost burden or to require additional funding as agency payroll systems are often updated as a routine business matter as pay area boundaries change and as wage schedules are updated every year. For example, the payroll providers implemented changes in GS locality pay area affecting around 34,000 employees in January 2024. However, OPM estimates that implementing payroll changes in terms of the time required for the 254 official duty station codes across the four payroll providers at a cost of around $7,800. OPM calculated this estimate by allowing for ten minutes to manually update each duty station change in each of the four payroll systems by a mid-range payroll processing staff member with an average salary and benefits cost of around $96,000 per year, which equates to a cost of around $7.66 per change per provider. OPM invites public comment on this estimate.

5. Benefits

This proposed rule has important benefits. Employees have expressed understandable equity concerns since the mid-1990s about why there are different geographic boundaries defined for the Federal government's two main pay systems. Over the years, Members of Congress have expressed interest in this issue and written letters in support of aligning FWS wage areas and GS locality pay areas. FPRAC heard testimony from Congressional staff, local union and management representatives, and employees in support of better aligning the geographic boundaries of FWS wage areas and GS locality pay areas, including testimony that a high rate of commuting interchange—which, for example, triggered Monroe County's reassignment from the Rest of U.S. GS locality pay area to the New York-Newark GS locality pay area in 2005—should also be reflected in the FWS wage areas. These proposed changes would address most of the internal equity and fairness concerns found across the country that are unnecessarily damaging to employee morale when an alternative and defensible approach is possible. This can also be accomplished at a relatively low cost of an increase in base payroll of only around 1 percent. FPRAC acknowledged that, although around 2,000 FWS employees would be placed on lower wage schedules as a result of these actions, around 1,870 of these employees would be entitled to pay retention. Accordingly, FPRAC found that the benefits to FWS employees overall outweighed the concerns regarding the limited number of positions negatively impacted.

Further, FPRAC members, agency and union representatives, and employees expressed concerns that the FWS no longer reflects modern compensation practices for prevailing rate tradespeople and laborers and that updating the wage area definition criteria to be more similar to the GS locality pay area criteria will be a step in the right direction to begin modernizing the prevailing rate system. Despite the projection of continuing application of the floor and pay cap provisions to the FWS wage schedules, implementation of the proposed changes to the criteria used to define and maintain FWS wage areas, in particular adopting the use of employment interchange measures and CSA definitions, would better position the FWS to align with regional prevailing wage practices because they better reflect current commuting, employment, and recruitment patterns.

6. Alternatives

Over the course of 15 working group meetings, at which there was extensive discussion, FPRAC considered various options to address the FWS and GS pay equity concerns expressed in the House Report language. These discussions had been taking place for many years previously without consensus. One alternative to the present proposal was to make no changes to the current FWS wage areas and encourage agencies to use pay flexibilities when challenged with recruitment issues. However, maintaining the status quo would not resolve employee equity concerns or address the interests expressed by Congress.

Another option considered was conducting piecemeal reviews of wage areas using the existing wage area definition criteria (distance, commuting, demographic), only when employees or other stakeholders raise concerns. This has been FPRAC's approach since 2012, but it has not addressed the fundamental inequities resulting from managing the FWS and GS with different sets of rules for defining pay area boundaries. The current regulatory criteria were not designed to allow for changing wage area definitions absent factors such as military base closures or changes in MSAs.

FPRAC also considered adding CSA definitions alone as a criterion to the existing regulatory criteria in 5 CFR 532.211. OMB published new CSA and MSA definitions on July 21, 2023, in OMB Bulletin 23-01, and FPRAC has a practice of using new MSA definitions when they become available. The new OMB definitions and an analysis of the current FWS regulatory criteria to define wage areas did not appear to result in automatically moving some of the most contentious counties under FPRAC discussion to match the definitions of GS locality pay areas. For example, the 2023 OMB definitions moved Monroe County, PA, from the New York-Newark, NY-NJ-CT-PA CSA to the Allentown-Bethlehem-East Stroudsburg, PA-NJ CSA. OMB Bulletin No. 20-01 (which FPRAC previously used) included the East Stroudsburg, PA MSA, comprised only of Monroe County, PA, in the New York CSA. OMB Bulletin No. 23-01 supersedes the previous ones and lists Monroe County as the sole county of the East Stroudsburg, PA micropolitan statistical area, and part of the Allentown-Bethlehem-East Stroudsburg, PA-NJ CSA. Both Monroe County and the Allentown CSA are part of the New York locality pay area for GS employees. Based on the updated OMB Bulletin and applying the proposed criteria, Monroe County is to be defined to a wage area consistent with the rest of the Allentown-Bethlehem-East Stroudsburg, PA-NJ CSA. Applying employment interchange analysis to better recognize regional commuting patterns helps to clarify where best to define the Allentown-Bethlehem-East Stroudsburg, PA-NJ CSA and results in the Allentown-Bethlehem-East Stroudsburg, PA-NJ CSA, including Monroe County, being defined as part of the New York, Newark wage area.

The committee also considered and decided against merely adopting and applying GS locality pay area definitions to FWS wage areas. For GS locality pay purposes, pay disparities with the non-Federal sector for GS employees stationed in a locality pay area are based on data for the entire locality pay area. The FWS continues the concept of using survey areas and areas of application because FWS employees tend to be employed in greater numbers at military installations and VA Medical Centers and not throughout an entire wage area. GS employees have different employment distributions as the FWS workforce is primarily found at DOD and VA while the GS workforce is found widely distributed geographically at all agencies.

FPRAC's members had disparate views on how future wage schedules based on these geographic changes in wage area definitions could best reflect prevailing wage levels. One view held that combining the survey areas of two wage areas together should result in an entirely new wage schedule being applied to FWS employees in the expanded wage area. This method would not be appropriate given that the floor increase provision in appropriations law each year requires that wage schedules be adjusted upwards by the same percentage adjustment amount received by GS employees in the area. It would also be contrary to longstanding precedent to ignore statutory pay cap and floor increase provisions when wage survey areas change. Consequently, in this proposed rule OPM first adds counties moving between wage areas to the area of application of the gaining wage area and subsequently adds counties to survey areas for the next full-scale wage survey in the wage area.

The proposed regulations would not immediately expand survey areas for continuing but enlarged wage areas. Instead, abolished wage areas would first be merged into the areas of application of continuing wage areas and subsequently added to the survey areas for the next full wage surveys beginning in FY 2026, FY 2027, and FY 2028. This would provide DOD time to allocate and train appropriate additional staff, if needed. OPM invites comment on any additional alternative approaches that could be considered that are in accordance with the permanent and appropriations laws governing the development of FWS wage schedules.

Request for Comments

OPM requests public comments from local businesses on the implementation and impacts of moving the small number of FWS employees affected by this proposed rule to different wage schedules and whether these changes would be likely to affect them. Such information will be useful for better understanding the effect of FWS pay-setting on private businesses in local wage areas.

Regulatory Review

OPM has examined the impact of this rule as required by Executive Orders 12866, 13563, and 14094, which direct agencies to assess all costs and benefits of available regulatory alternatives and, if regulation is necessary, to select regulatory approaches that maximize net benefits (including potential economic, environmental, public, health, and safety effects, distributive impacts, and equity). OMB has designated this rule a “significant regulatory action” under section 3(f) of Executive Order 12866, as amended by Executive Order 14094.

Regulatory Flexibility Act

The Director of OPM certifies that this rule will not have a significant economic impact on a substantial number of small entities because the rule will apply only to Federal agencies and employees.

Federalism

OPM has examined this rule in accordance with Executive Order 13132, Federalism, and has determined that this rule will not have any negative impact on the rights, roles and responsibilities of State, local, or tribal governments.

Civil Justice Reform

This regulation meets the applicable standard set forth in Executive Order 12988.

Unfunded Mandates Act of 1995

This rule will not result in the expenditure by State, local, and tribal governments, in the aggregate, or by the private sector, of $100 million or more in any year and it will not significantly or uniquely affect small governments. Therefore, no actions were deemed necessary under the provisions of the Unfunded Mandates Reform Act of 1995.

Paperwork Reduction Act

Notwithstanding any other provision of law, no person is required to respond to, nor shall any person be subject to a penalty for failure to comply with a collection of information subject to the requirements of the Paperwork Reduction Act of 1995 (44 U.S.C. 3501 et seq.) (PRA), unless that collection of information displays a currently valid OMB Control Number.

This proposed rule involves, but does not make any changes to, an OMB approved collection of information subject to the PRA for the FWS Program, OMB No. 3206-0036, Establishment Information Form, Wage Data Collection Form, and Wage Data Collection Continuation Form. The public reporting burden for this collection is estimated to average 1.5 hours per response, including time for reviewing instructions, searching existing data sources, gathering and maintaining the data needed, and completing and reviewing the collection of information. The total burden hour estimate for this collection is 32,640 hours. Additional information regarding this collection—including all current background materials—can be found at Information Collection Review (reginfo.gov) by using the search function to enter either the title of the collection or the OMB Control Number.

List of Subjects in 5 CFR Part 532

Administrative practice and procedure, Freedom of information, Government employees, Reporting and recordkeeping requirements, Wages.

Office of Personnel Management.
Kayyonne Marston,
Federal Register Liaison.

Accordingly, OPM is proposing to amend 5 CFR part 532 as follows:

PART 532—PREVAILING RATE SYSTEMS

1. The authority citation for part 532 continues to read as follows:

Authority: 5 U.S.C. 5343, 5346; § 532.707 also issued under 5 U.S.C. 552.

2. Revise § 532.211 to read as follows:

§ 532.211 Criteria for appropriated fund wage areas.

(a) Each wage area shall consist of one or more survey areas along with nonsurvey areas, if any.

(1) Survey area: A survey area is composed of the counties, parishes, cities, townships, or similar geographic entities in which survey data are collected. Survey areas are established and maintained where there are a minimum of 100 or more wage employees subject to a regular wage schedule and those employees are located close to concentrations of private sector employment such as found in a Combined Statistical Area or Metropolitan Statistical Area.

(2) Nonsurvey area: Nonsurvey counties, parishes, cities, townships, or similar geographic entities may be combined with the survey area(s) to form the wage area through consideration of criteria including local commuting patterns such as employment interchange measures, distance, transportation facilities, geographic features; similarities in overall population, employment, and the kinds and sizes of private industrial establishments; and other factors relevant to the process of determining and establishing rates of pay for wage employees at prevailing wage levels.

(b) Wage areas shall include wherever possible a recognized economic community such as a Combined Statistical Area, a Metropolitan Statistical Area, or a political unit such as a county. Two or more economic communities or political units, or both, may be combined to constitute a single wage area; however, except in unusual circumstances and as an exception to the criteria, an individually defined Combined Statistical Area, Metropolitan Statistical Area, county or similar geographic entity shall not be subdivided for the purpose of defining a wage area.

(c) Except as provided in paragraph (a) of this section, wage areas shall be established and maintained when:

(1) There is a minimum of 100 wage employees subject to the regular schedule and the lead agency indicates that a local installation has the capacity to do the survey; and

(2) There is, within a reasonable commuting distance of the concentration of Federal employment,

(i) A minimum of either 20 establishments within survey specifications having at least 50 employees each; or 10 establishments having at least 50 employees each, with a combined total of 1,500 employees; and

(ii) The total private enterprise employment in the industries surveyed in the survey area is at least twice the Federal wage employment in the survey area.

(d)(1) Adjacent economic communities or political units meeting the separate wage area criteria in paragraphs (b) and (c) of this section may be combined through consideration of local commuting patterns such as employment interchange measures, distance, transportation facilities, geographic features; similarities in overall population, employment, and the kinds and sizes of private industrial establishments; and other factors relevant to the process of determining and establishing rates of pay for wage employees at prevailing wage levels.

(2) When two wage areas are combined, the survey area of either or both may be used, depending on the concentrations of Federal and private employment and locations of establishments, the proximity of the survey areas to each other, and the extent of economic similarities or differences as indicated by relative levels of wage rates in each of the potential survey areas.

(e) Appropriated fund wage and survey area definitions are set out as appendix C to this subpart and are incorporated in and made part of this section.

(f) A single contiguous military installation defined as a Joint Base that would otherwise overlap two separate wage areas shall be included in only a single wage area. The wage area of such a Joint Base shall be defined to be the wage area with the most favorable payline based on an analysis of the simple average of the 15 nonsupervisory second step rates on each one of the regular wage schedules applicable in the otherwise overlapped wage areas.

3. Revise and republish Appendix A to subpart B as follows:

Appendix A to Subpart B of Part 532—Nationwide Schedule of Appropriated Fund Regular Wage Surveys

This appendix shows the annual schedule of wage surveys. It lists all States alphabetically, each State being followed by an alphabetical listing of all wage areas in the State. Information given for each wage area includes—

(1) The lead agency responsible for conducting the survey;

(2) The month in which the survey will begin; and

(3) Whether full-scale surveys will be done in odd or even numbered fiscal years.

State | Wage area | Lead agency | Beginning month of survey | Fiscal year of full-scale survey odd or even
Alabama | Birmingham-Cullman-Talladega | DoD | January | Even.
| Dothan | DoD | July | Odd.
| Huntsville | DoD | April | Even.
| Montgomery-Selma | DoD | August | Odd.
Alaska | Alaska | DoD | July | Even.
Arizona | Northeastern Arizona | DoD | March | Odd.
| Phoenix | DoD | March | Odd.
| Tucson | DoD | March | Odd.
Arkansas | Little Rock | DoD | July | Even.
California | Fresno | DoD | February | Odd.
| Los Angeles | DoD | November | Odd.
| Sacramento-Roseville | DoD | February | Odd.
| San Diego | DoD | September | Odd.
| San Jose-San Francisco-Oakland | DoD | October | Even.
Colorado | Denver | DoD | January | Odd.
| Southern Colorado | DoD | January | Even.
District of Columbia | Washington-Baltimore-Arlington | DoD | July | Odd.
Florida | Cocoa Beach | DoD | October | Even.
| Jacksonville | DoD | January | Odd.
| Miami-Port St. Lucie-Fort Lauderdale | DoD | May | Odd.
| Panama City | DoD | September | Even.
| Pensacola | DoD | September | Odd.
| Tampa-St. Petersburg | DoD | April | Even.
Georgia | Albany | DoD | August | Odd.
| Atlanta | DoD | May | Odd.
| Augusta | DoD | June | Odd.
| Macon | DoD | June | Odd.
| Savannah | DoD | May | Odd.
Hawaii | Hawaii | DoD | June | Even.
Idaho | Boise | DoD | July | Odd.
Illinois | Bloomington-Pontiac | DoD | September | Odd.
| Chicago-Naperville, IL | DoD | September | Even.
Indiana | Evansville-Henderson | DoD | October | Odd.
| Fort Wayne-Marion | DoD | October | Odd.
| Indianapolis-Carmel-Muncie | DoD | October | Odd.
Iowa | Cedar Rapids-Iowa City | DoD | July | Even.
| Davenport-Moline | DoD | October | Even.
| Des Moines | DoD | September | Odd.
Kansas | Manhattan | DoD | November | Even.
| Wichita | DoD | November | Even.
Kentucky | Lexington | DoD | February | Even.
| Louisville | DoD | February | Odd.
Louisiana | Lake Charles-Alexandria | DoD | April | Even.
| New Orleans | DoD | June | Even.
| Shreveport | DoD | May | Even.
Maine | Augusta | DoD | May | Even.
| Central and Northern Maine | DoD | June | Even.
Massachusetts | Boston-Worcester-Providence | DoD | August | Even.
Michigan | Detroit-Warren-Ann Arbor | DoD | January | Odd.
| Northwestern Michigan | DoD | August | Odd.
| Southwestern Michigan | DoD | October | Even.
Minnesota | Duluth | DoD | June | Odd.
| Minneapolis-St. Paul | DoD | April | Odd.
Mississippi | Biloxi | DoD | November | Even.
| Jackson | DoD | February | Odd.
| Meridian | DoD | February | Odd.
| Northern Mississippi | DoD | February | Even.
Missouri | Kansas City | DoD | October | Odd.
| St. Louis | DoD | October | Odd.
| Southern Missouri | DoD | October | Odd.
Montana | Montana | DoD | July | Even.
Nebraska | Omaha | DoD | October | Odd.
Nevada | Las Vegas | DoD | September | Even.
| Reno | DoD | March | Even.
New Hampshire | Portsmouth | DoD | September | Even.
New Mexico | Albuquerque-Santa Fe-Los Alamos | DoD | April | Odd.
New York | Albany-Schenectady | DoD | March | Odd.
| Buffalo | DoD | September | Odd.
| New York-Newark | DoD | January | Even.
| Northern New York | DoD | March | Odd.
| Rochester | DoD | April | Even.
| Syracuse-Utica-Rome | DoD | March | Even.
North Carolina | Asheville | DoD | June | Even.
| Central North Carolina | DoD | May | Even.
| Charlotte-Concord | DoD | August | Odd.
| Southeastern North Carolina | DoD | January | Odd.
North Dakota | North Dakota | DoD | March | Even.
Ohio | Cincinnati | DoD | January | Odd.
| Cleveland-Akron-Canton | DoD | April | Odd.
| Columbus-Marion-Zanesville | DoD | January | Odd.
| Dayton | DoD | January | Even.
Oklahoma | Oklahoma City | DoD | August | Odd.
| Tulsa | DoD | August | Odd.
Oregon | Portland-Vancouver-Salem | DoD | July | Even.
| Southwestern Oregon | DoD | June | Even.
Pennsylvania | Harrisburg-York-Lebanon | DoD | May | Even.
| Philadelphia-Reading-Camden | DoD | October | Even.
| Pittsburgh | DoD | July | Odd.
| Scranton-Wilkes-Barre | DoD | August | Odd.
Puerto Rico | Puerto Rico | DoD | July | Odd.
South Carolina | Charleston | DoD | July | Even.
| Columbia | DoD | May | Even.
South Dakota | Eastern South Dakota | DoD | October | Even.
Tennessee | Eastern Tennessee | DoD | February | Odd.
| Memphis | DoD | February | Even.
| Nashville | DoD | February | Even.
Texas | Austin | DoD | June | Even.
| Corpus Christi-Kingsville-Alice | DoD | June | Even.
| Dallas-Fort Worth | DoD | October | Odd.
| El Paso | DoD | April | Even.
| Houston-Galveston-Texas City | DoD | March | Even.
| San Antonio | DoD | June | Odd.
| Texarkana | DoD | April | Odd.
| Waco | DoD | May | Odd.
| Western Texas | DoD | May | Odd.
| Wichita Falls, Texas-Southwestern Oklahoma | DoD | July | Even.
Utah | Utah | DoD | July | Odd.
Virginia | Richmond | DoD | November | Odd.
| Roanoke | DoD | November | Even.
| Virginia Beach-Chesapeake | DoD | May | Even.
Washington | Seattle-Everett | DoD | September | Even.
| Southeastern Washington-Eastern Oregon | DoD | June | Odd.
| Spokane | DoD | July | Odd.
West Virginia | West Virginia | DoD | March | Odd.
Wisconsin | Madison | DoD | July | Even.
| Milwaukee-Racine-Waukesha | DoD | June | Odd.
| Southwestern Wisconsin | DoD | June | Even.
Wyoming | Wyoming | DoD | January | Even.

4. Revise and republish Appendix C to subpart B of Part 532 to read as follows:

Appendix C to Subpart B of Part 532—Appropriated Fund Wage and Survey Areas

This appendix lists the wage area definitions for appropriated fund employees. With a few exceptions, each area is defined in terms of county units, independent cities, or a similar geographic entity. Each wage area definition consists of:

(1) Wage area title. Wage areas usually carry the title of the principal city in the area. Sometimes, however, the area title reflects a broader geographic area, such as Combined Statistical Area or Metropolitan Statistical Area.

(2) Survey area definition. Lists each county, independent city, or a similar geographic entity in the survey area.

(3) Area of application definition. Lists each county, independent city, or a similar geographic entity which, in addition to the survey area, is in the area of application.

Definitions of Wage Areas and Wage Area Survey Areas

ALABAMA

Birmingham-Cullman-Talladega

Survey Area

Alabama:

Calhoun (effective for wage surveys beginning in January 2028)

Etowah (effective for wage surveys beginning in January 2028)

Jefferson

St. Clair

Shelby

Talladega (effective for wage surveys beginning in January 2028)

Tuscaloosa

Walker

Area of Application. Survey area plus:

Alabama:

Bibb

Blount

Calhoun (effective until January 2028)

Chilton

Clay

Coosa

Cullman

Etowah (effective until January 2028)

Fayette

Greene

Hale

Lamar

Marengo

Perry

Pickens

Talladega (effective January 2028)

Winston

Dothan

Survey Area

Alabama:

Dale

Houston

Georgia:

Early

Area of Application. Survey area plus:

Alabama:

Barbour

Coffee

Geneva

Henry

Georgia:

Clay

Miller

Seminole

Huntsville

Survey Area

Alabama:

Limestone

Madison

Marshall

Morgan

Area of Application. Survey area plus:

Alabama:

Colbert

DeKalb

Franklin

Lauderdale

Lawrence

Marion

Tennessee:

Giles

Lincoln

Wayne

Montgomery-Selma

Survey Area

Alabama:

Autauga

Elmore

Montgomery

Area of Application. Survey area plus:

Alabama:

Bullock

Butler

Crenshaw

Dallas

Lowndes

Pike

Wilcox

ALASKA

Anchorage

Survey Area

Alaska: (boroughs and the areas within a 24-kilometer (15-mile) radius of their corporate city limits)

Anchorage

Fairbanks

Juneau

Area of Application. Survey area plus:

Alaska:

State of Alaska (except special area schedules)

ARIZONA

Northeastern Arizona

Survey Area

Arizona:

Apache

Coconino

Navajo

New Mexico:

San Juan

Area of Application. Survey area plus:

Colorado:

Dolores

Gunnison (Only includes the Curecanti National Recreation Area portion)

La Plata

Montezuma

Montrose

Ouray

San Juan

San Miguel

Utah:

Garfield (Only includes the Bryce Canyon, Capitol Reef, and Canyonlands National Parks portions)

Grand (Only includes the Arches and Canyonlands National Parks portions)

Iron (Only includes the Cedar Breaks National Monument and Zion National Park portions)

Kane

San Juan

Washington

Wayne (Only includes the Capitol Reef and Canyonlands National Parks portions)

Phoenix

Survey Area

Arizona:

Gila

Maricopa

Area of Application. Survey area plus:

Arizona:

Pinal

Yavapai

Tucson

Survey Area

Arizona:

Pima

Area of Application. Survey area plus:

Arizona:

Cochise

Graham

Greenlee

Santa Cruz

ARKANSAS

Little Rock

Survey Area

Arkansas:

Jefferson

Pulaski

Saline

Area of Application. Survey area plus:

Arkansas:

Arkansas

Ashley

Baxter

Boone

Bradley

Calhoun

Chicot

Clark

Clay

Cleburne

Cleveland

Conway

Dallas

Desha

Drew

Faulkner

Franklin (Does not include the Fort Chaffee portion)

Fulton

Garland

Grant

Greene

Hot Spring

Independence

Izard

Jackson

Johnson

Lawrence

Lincoln

Logan

Lonoke

Marion

Monroe

Montgomery

Newton

Ouachita

Perry

Phillips

Pike

Polk

Pope

Prairie

Randolph

Scott

Searcy

Sharp

Stone

Union

Van Buren

White

Woodruff

Yell

CALIFORNIA

Fresno

Survey Area

California:

Fresno

Kings

Tulare

Area of Application. Survey area plus:

California:

Madera

Mariposa

Tuolumne (Only includes the Yosemite National Park portion)

Los Angeles

Survey Area

California:

Kern (effective for wage surveys beginning in November 2026)

Los Angeles

Orange (effective for wage surveys beginning in November 2026)

Riverside (effective for wage surveys beginning in November 2026)

San Bernardino (effective for wage surveys beginning in November 2026)

Santa Barbara (effective for wage surveys beginning in November 2026)

Ventura (effective for wage surveys beginning in November 2026)

Area of Application. Survey area plus:

California:

Inyo (Only includes the China Lake Naval Weapons Center portion)

Kern (effective until November 2026)

Orange (effective until November 2026)

Riverside (effective until November 2026)

San Bernardino (effective until November 2026)

Santa Barbara (effective until November 2026)

San Luis Obispo

Ventura (effective until November 2026)

Sacramento-Roseville

Survey Area

California:

Placer

Sacramento

Sutter

Yolo

Yuba

Area of Application. Survey area plus:

California:

Amador

Butte

Colusa

El Dorado

Glenn

Humboldt

Lake

Modoc

Nevada

Plumas

Shasta

Sierra

Siskiyou

Tehama

Trinity

San Diego

Survey Area

California:

San Diego

Arizona:

Yuma (effective for wage surveys beginning in September 2027)

Area of Application. Survey area plus:

Arizona:

La Paz

Yuma (effective until September 2027)

California:

Imperial

San Jose-San Francisco-Oakland

Survey Area

California:

Alameda

Contra Costa

Marin

Monterey (effective for wage surveys beginning in October 2027)

Napa

San Joaquin (effective for wage surveys beginning in October 2027)

San Francisco

San Mateo

Santa Clara

Solano

Area of Application. Survey area plus:

California:

Calaveras

Mendocino

Merced

Monterey (effective until October 2027)

San Benito

San Joaquin (effective until October 2027)

Santa Cruz

Sonoma

Stanislaus

Tuolumne (Does not include the Yosemite National Park portion)

COLORADO

Denver

Survey Area

Colorado:

Adams

Arapahoe

Boulder

Broomfield

Denver

Douglas

Gilpin

Jefferson

Area of Application. Survey area plus:

Colorado:

Clear Creek

Eagle

Elbert

Garfield

Grand

Jackson

Lake

Larimer

Lincoln

Logan

Morgan

Park

Phillips

Pitkin

Rio Blanco

Routt

Sedgwick

Summit

Washington

Weld

Yuma

Southern Colorado

Survey Area

Colorado:

El Paso

Pueblo

Teller

Area of Application. Survey area plus:

Colorado:

Alamosa

Archuleta

Baca

Bent

Chaffee

Cheyenne

Conejos

Costilla

Crowley

Custer

Delta

Fremont

Gunnison (does not includes the Curecanti National Recreation Area portion)

Hinsdale

Huerfano

Kiowa

Kit Carson

Las Animas

Mineral

Otero

Prowers

Rio Grande

Saguache

CONNECTICUT

New Haven-Hartford

Survey Area

Connecticut:

Hartford

New Haven

New London (effective for wage surveys beginning in April 2027)

Massachusetts:

Hampden (effective for wage surveys beginning in April 2027)

Hampshire (effective for wage surveys beginning in April 2027)

Area of Application. Survey area plus:

Connecticut:

Litchfield

Middlesex

New London (effective until April 2027)

Tolland

Windham

Massachusetts:

Franklin

Hampden (effective until April 2027)

Hampshire (effective until April 2027)

DISTRICT OF COLUMBIA

Washington-Baltimore-Arlington

Survey Area

District of Columbia:

Washington, DC

Maryland (city):

Baltimore (effective for wage surveys beginning in July 2027)

Maryland (counties):

Anne Arundel (effective for wage surveys beginning in July 2027)

Baltimore (effective for wage surveys beginning in July 2027)

Carroll (effective for wage surveys beginning in July 2027)

Charles

Frederick

Harford (effective for wage surveys beginning in July 2027)

Howard (effective for wage surveys beginning in July 2027)

Montgomery

Prince George's

Washington (effective for wage surveys beginning in July 2027)

Pennsylvania:

Franklin (effective for wage surveys beginning in July 2027)

Virginia (cities):

Alexandria

Fairfax

Falls Church

Manassas

Manassas Park

Virginia (counties):

Arlington

Fairfax

King George (effective for wage surveys beginning in July 2027)

Loudoun

Prince William

West Virginia:

Berkley (effective for wage surveys beginning in July 2027)

Area of Application. Survey area plus:

Maryland (city):

Baltimore (effective until July 2027)

Maryland (counties):

Allegany

Anne Arundel (effective until July 2027)

Baltimore (effective until July 2027)

Calvert

Caroline

Carroll (effective until July 2027)

Dorchester

Garrett

Harford (effective until July 2027)

Howard (effective until July 2027)

Kent

Queen Anne's

St. Mary's

Talbot

Washington (effective until July 2027)

Pennsylvania:

Franklin (effective until July 2027)

Fulton

Virginia (cities):

Fredericksburg

Harrisonburg

Staunton

Waynesboro

Winchester

Virginia (counties):

Albemarle (Only includes the Shenandoah National Park portion)

Augusta

Caroline

Clarke

Culpeper

Fauquier

Frederick

Greene (Only includes the Shenandoah National Park portion)

King George (effective until July 2027)

Madison

Orange

Page

Rappahannock

Rockingham

Shenandoah

Spotsylvania

Stafford

Warren

Westmoreland

West Virginia:

Berkeley (effective until July 2027)

Hampshire

Hardy

Jefferson

Mineral

Morgan

FLORIDA

Cocoa-Beach

Survey Area

Florida:

Brevard

Area of Application. Survey area.

Jacksonville

Survey Area

Florida:

Alachua

Baker

Clay

Columbia (effective for wage surveys beginning in January 2027)

Duval

Nassau

Orange (effective for wage surveys beginning in January 2027)

St. Johns

Sumter (effective for wage surveys beginning in January 2027)

Georgia:

Camden

Area of Application. Survey area plus:

Florida:

Bradford

Citrus

Columbia (effective until January 2027)

Dixie

Flagler

Gilchrist

Hamilton

Lafayette

Lake

Levy

Madison

Marion

Orange (effective until January 2027)

Osceola

Polk

Putnam

Seminole

Sumter (effective until January 2027)

Suwannee

Taylor

Union

Volusia

Georgia:

Charlton

Miami-Port St. Lucie-Fort Lauderdale

Survey Area

Florida:

Miami-Dade

Palm Beach (effective for wage surveys beginning in May 2027)

Area of Application. Survey area plus:

Florida:

Broward

Collier

Glades

Hendry

Highlands

Indian River

Lee

Martin

Monroe

Okeechobee

Palm Beach (effective until January 2027)

St. Lucie

Area of Application. Survey area.

Panama City

Survey Area

Florida:

Bay

Gulf

Area of Application. Survey area plus:

Florida:

Calhoun

Franklin

Gadsden

Holmes

Jackson

Jefferson

Leon

Liberty

Wakulla

Washington

Georgia:

Decatur

Pensacola

Survey Area

Florida:

Escambia

Santa Rosa

Area of Application. Survey area plus:

Alabama:

Baldwin

Clarke

Conecuh

Covington

Escambia

Mobile

Monroe

Washington

Florida:

Okaloosa

Walton

Tampa-St. Petersburg

Survey Area

Florida:

Hillsborough

Pasco

Pinellas

Area of Application. Survey area plus:

Florida:

Charlotte

De Soto

Hardee

Hernando

Manatee

Sarasota

GEORGIA

Albany

Survey Area

Georgia:

Colquitt

Dougherty

Lee

Mitchell

Worth

Area of Application. Survey area plus:

Georgia:

Atkinson

Baker

Ben Hill

Berrien

Brooks

Calhoun

Clinch

Coffee

Cook

Echols

Grady

Irwin

Lanier

Lowndes

Quitman

Randolph

Schley

Sumter

Terrell

Thomas

Tift

Turner

Ware

Webster

Atlanta

Survey Area

Alabama:

Lee (effective for wage surveys beginning in May 2027)

Macon (effective for wage surveys beginning in May 2027)

Russell (effective for wage surveys beginning in May 2027)

Georgia:

Butts

Chattahoochee (effective for wage surveys beginning in May 2027)

Cherokee

Clayton

Cobb

De Kalb

Douglas

Fayette

Forsyth

Fulton

Gwinnett

Henry

Muscogee (effective for wage surveys beginning in May 2027)

Newton

Paulding

Rockdale

Walton

Area of Application. Survey area plus:

Alabama:

Chambers

Cherokee

Cleburne

Lee (effective until May 2027)

Macon (effective until May 2027)

Randolph

Russell (effective until May 2027)

Tallapoosa

Georgia:

Banks

Barrow

Bartow

Carroll

Chattahoochee (effective until May 2027)

Clarke

Coweta

Dawson

Elbert

Fannin

Floyd

Franklin

Gilmer

Gordon

Greene

Habersham

Hall

Haralson

Harris

Hart

Heard

Jackson

Jasper

Lamar

Lumpkin

Madison

Marion

Meriwether

Morgan

Muscogee (effective until May 2027)

Oconee

Oglethorpe

Pickens

Pike

Polk

Putnam

Rabun

Spalding

Stephens

Stewart

Talbot

Taliaferro

Towns

Troup

Union

Upson

White

Augusta

Survey Area

Georgia:

Columbia

McDuffie

Richmond

South Carolina:

Aiken

Area of Application. Survey area plus:

Georgia:

Burke

Emanuel

Glascock

Jefferson

Jenkins

Lincoln

Warren

Wilkes

South Carolina:

Allendale

Bamberg

Barnwell

Edgefield

McCormick

Macon

Survey Area

Georgia:

Bibb

Houston

Jones

Laurens

Twiggs

Wilkinson

Area of Application. Survey area plus:

Georgia:

Baldwin

Bleckley

Crawford

Crisp

Dodge

Dooly

Hancock

Johnson

Macon

Monroe

Montgomery

Peach

Pulaski

Taylor

Telfair

Treutlen

Washington

Wheeler

Wilcox

Savannah

Survey Area

Georgia:

Bryan

Chatham

Effingham

Liberty

South Carolina:

Beaufort (effective for wage surveys beginning in May 2027)

Area of Application. Survey area plus:

Georgia:

Appling

Bacon

Brantley

Bulloch

Candler

Evans

Glynn

Jeff Davis

Long

McIntosh

Pierce

Screven

Tattnall

Toombs

Wayne

South Carolina:

Beaufort (effective until May 2027)

Hampton

Jasper

HAWAII

Hawaii

Survey Area

Hawaii:

Honolulu

Area of Application. Survey area plus:

Hawaii:

Hawaii

Kauai (includes the islands of Kauai and Niihau)

Maui (includes the islands of Maui, Molokai, Lanai, and Kahoolawe)

IDAHO

Boise

Survey Area

Idaho:

Ada

Boise

Canyon

Elmore

Gem

Area of Application. Survey area plus:

Idaho:

Adams

Bannock

Bear Lake

Bingham

Blaine

Bonneville

Butte

Camas

Caribou

Cassia

Clark

Custer

Fremont

Gooding

Jefferson

Jerome

Lemhi

Lincoln

Madison

Minidoka

Oneida

Owyhee

Payette

Power

Teton

Twin Falls

Valley

Washington

ILLINOIS

Bloomington-Pontiac

Survey Area

Illinois:

Champaign

Menard

Sangamon

Vermilion

Area of Application. Survey area plus:

Illinois:

Christian

Clark

Coles

Crawford

Cumberland

De Witt

Douglas

Edgar

Ford

Jasper

Livingston

Logan

McLean

Macon

Morgan

Moultrie

Piatt

Scott

Shelby

Chicago-Naperville, IL

Survey Area

Illinois:

Cook

Du Page

Kane

Lake

McHenry

Will

Area of Application. Survey area plus:

Illinois:

Boone

Bureau

De Kalb

Grundy

Iroquois

Kankakee

Kendall

La Salle

Ogle

Putnam

Stephenson

Winnebago

Indiana:

Jasper

Lake

La Porte

Newton

Porter

Pulaski

Starke

Wisconsin:

Kenosha

INDIANA

Evansville-Henderson

Survey Area

Indiana:

Daviess

Greene

Knox

Martin

Orange

Area of Application. Survey area plus:

Illinois:

Edwards

Gallatin

Hardin

Lawrence

Richland

Wabash

White

Indiana:

Crawford

Dubois

Gibson

Perry

Pike

Posey

Spencer

Vanderburgh

Warrick

Kentucky:

Crittenden

Daviess

Hancock

Henderson

McLean

Ohio

Union

Webster

Fort Wayne-Marion

Survey Area

Indiana:

Adams

Allen

DeKalb

Huntington

Wells

Area of Application. Survey area plus:

Indiana:

Cass

Elkhart

Fulton

Jay

Kosciusko

LaGrange

Marshall

Noble

St. Joseph

Steuben

Wabash

Whitley

Ohio:

Defiance

Henry

Paulding

Putnam

Williams

Indianapolis-Carmel-Muncie

Survey Area

Indiana:

Boone

Grant (effective for wage surveys beginning in October 2026)

Hamilton

Hancock

Hendricks

Johnson

Lawrence (effective for wage surveys beginning in October 2026)

Marion

Miami (effective for wage surveys beginning in October 2026)

Monroe (effective for wage surveys beginning in October 2026)

Morgan

Shelby

Vigo (effective for wage surveys beginning in October 2026)

Area of Application. Survey area plus:

Indiana:

Bartholomew

Benton

Blackford

Brown

Carroll

Clay

Clinton

Decatur

Delaware

Fayette

Fountain

Grant (effective until October 2026)

Henry

Howard

Jackson

Jennings

Lawrence (effective until October 2026)

Madison

Miami (effective until October 2026)

Monroe (effective until October 2026)

Montgomery

Owen

Parke

Putnam

Randolph

Rush

Sullivan

Tippecanoe

Tipton

Vermillion

Vigo (effective until October 2026)

Warren

Wayne

White

IOWA

Cedar Rapids-Iowa City

Survey Area

Iowa:

Benton

Black Hawk

Johnson

Linn

Area of Application. Survey area plus:

Iowa:

Allamakee

Bremer

Buchanan

Butler

Cedar

Chickasaw

Clayton

Davis

Delaware

Fayette

Floyd

Grundy

Henry

Howard

Iowa

Jefferson

Jones

Keokuk

Mitchell

Tama

Van Buren

Wapello

Washington

Winneshiek

Davenport-Moline

Survey Area

Illinois:

Henry

Rock Island

Iowa:

Scott

Area of Application. Survey area plus:

Illinois:

Brown

Carroll

Cass

Fulton

Hancock

Henderson

Jo Daviess

Knox

Lee

McDonough

Marshall

Mason

Mercer

Peoria

Schuyler

Stark

Tazewell

Warren

Whiteside

Woodford

Iowa:

Clinton

Des Moines

Dubuque

Jackson

Lee

Louisa

Muscatine

Des Moines

Survey Area

Iowa:

Polk

Story

Warren

Area of Application. Survey area plus:

Iowa:

Adair

Appanoose

Boone

Calhoun

Carroll

Cerro Gordo

Clarke

Dallas

Decatur

Franklin

Greene

Guthrie

Hamilton

Hancock

Hardin

Humboldt

Jasper

Kossuth

Lucas

Madison

Mahaska

Marion

Marshall

Monroe

Poweshiek

Ringgold

Union

Wayne

Webster

Winnebago

Worth

Wright

KANSAS

Manhattan

Survey Area

Kansas:

Geary

Riley (effective for wage surveys beginning in November 2027)

Area of Application. Survey area plus:

Kansas:

Brown

Clay

Cloud

Coffey

Dickinson

Lyon

Marshall

Morris

Nemaha

Ottawa

Pottawatomie

Republic

Riley (effective until November 2027)

Saline

Washington

Wichita

Survey Area

Kansas:

Butler

Sedgwick

Area of Application. Survey area plus:

Kansas:

Barber

Barton

Chase

Chautauqua

Cheyenne

Clark

Comanche

Cowley

Decatur

Edwards

Elk

Ellis

Ellsworth

Finney

Ford

Gove

Graham

Grant

Gray

Greeley

Greenwood

Hamilton

Harper

Harvey

Haskell

Hodgeman

Jewell

Kearny

Kingman

Kiowa

Labette

Lane

Lincoln

Logan

McPherson

Marion

Meade

Mitchell

Montgomery

Morton

Neosho

Ness

Norton

Osborne

Pawnee

Phillips

Pratt

Rawlins

Reno

Rice

Rooks

Rush

Russell

Scott

Seward

Sheridan

Sherman

Smith

Stafford

Stanton

Stevens

Sumner

Thomas

Trego

Wallace

Wichita

Wilson

Woodson

KENTUCKY

Lexington

Survey Area

Kentucky:

Bourbon

Clark

Fayette

Jessamine

Madison

Scott

Woodford

Area of Application. Survey area plus:

Kentucky:

Anderson

Bath

Bell

Boyle

Breathitt

Casey

Clay

Estill

Fleming

Franklin

Garrard

Green

Harrison

Jackson

Knott

Knox

Laurel

Lee

Leslie

Lincoln

McCreary

Marion

Menifee

Mercer

Montgomery

Morgan

Nicholas

Owsley

Perry

Powell

Pulaski

Rockcastle

Rowan

Taylor

Washington

Wayne

Whitley

Wolfe

Louisville

Survey Area

Indiana:

Clark

Floyd

Jefferson

Kentucky:

Bullitt

Hardin

Jefferson

Oldham

Area of Application. Survey area plus:

Indiana:

Harrison

Scott

Washington

Kentucky:

Breckinridge

Grayson

Hart

Henry

Larue

Meade

Nelson

Shelby

Spencer

Trimble

LOUISIANA

Lake Charles-Alexandria

Survey Area

Louisiana:

Allen

Beauregard

Calcasieu

Grant

Rapides

Sabine

Vernon

Area of Application. Survey area plus:

Louisiana:

Acadia

Avoyelles

Caldwell

Cameron

Catahoula

Concordia

Evangeline

Franklin

Iberia

Jefferson Davis

Lafayette

La Salle

Madison

Natchitoches

St. Landry

St. Martin

Tensas

Vermilion

Winn

New Orleans

Survey Area

Louisiana:

Jefferson

Orleans

Plaquemines

St. Bernard

St. Charles

St. John the Baptist

St. Tammany

Area of Application. Survey area plus:

Louisiana:

Ascension

Assumption

East Baton Rouge

East Feliciana

Iberville

Lafourche

Livingston

Pointe Coupee

St. Helena

St. James

St. Mary

Tangipahoa

Terrebonne

Washington

West Baton Rouge

West Feliciana

Shreveport

Survey Area

Louisiana:

Bossier

Caddo

Webster

Area of Application. Survey area plus:

Louisiana:

Bienville

Claiborne

De Soto

East Carroll

Jackson

Lincoln

Morehouse

Ouachita

Red River

Richland

Union

West Carroll

Texas:

Gregg

Harrison

Panola

Rusk

Upshur

MAINE

Augusta

Survey Area

Maine:

Kennebec

Knox

Lincoln

Area of Application. Survey area.

Central And Northern Maine

Survey Area

Maine:

Aroostook

Penobscot

Area of Application. Survey area plus:

Maine:

Hancock

Piscataquis

Somerset

Waldo

Washington

MASSACHUSETTS

Boston-Worcester-Providence

Survey Area

Maine:

Androscoggin (effective for wage surveys beginning in August 2026)

Cumberland (effective for wage surveys beginning in August 2026)

Sagadahoc (effective for wage surveys beginning in August 2026)

York (effective for wage surveys beginning in August 2026)

Massachusetts:

Barnstable

Bristol (effective for wage surveys beginning in August 2026)

Essex

Middlesex

Norfolk

Plymouth

Suffolk

Worcester (effective for wage surveys beginning in August 2026)

New Hampshire:

Rockingham (effective for wage surveys beginning in August 2026)

Strafford (effective for wage surveys beginning in August 2026)

Rhode Island:

Bristol (effective for wage surveys beginning in August 2026)

Kent (effective for wage surveys beginning in August 2026)

Newport (effective for wage surveys beginning in August 2026)

Providence (effective for wage surveys beginning in August 2026)

Washington (effective for wage surveys beginning in August 2026)

Area of Application. Survey area plus:

Maine:

Androscoggin (effective until August 2026)

Cumberland (effective until August 2026)

Franklin

Oxford

Sagadahoc (effective until August 2026)

York (effective until August 2026)

Massachusetts:

Bristol (effective until August 2026)

Dukes

Nantucket

Worcester (effective until August 2026)

New Hampshire:

Belknap

Carroll

Cheshire

Coos

Grafton

Hillsborough

Merrimack

Rockingham (effective until August 2026)

Strafford (effective until August 2026)

Sullivan

Rhode Island:

Bristol (effective until August 2026)

Kent (effective until August 2026)

Newport (effective until August 2026)

Providence (effective until August 2026)

Washington (effective until August 2026)

Vermont:

Orange

Windham

Windsor

MICHIGAN

Detroit-Warren-Ann Arbor

Survey Area

Michigan:

Lapeer

Livingston

Macomb

Oakland

St. Clair

Washtenaw (effective for wage surveys beginning in January 2027)

Wayne

Ohio:

Lucas (effective for wage surveys beginning in January 2027)

Area of Application. Survey area plus:

Michigan:

Arenac

Bay

Clare

Clinton

Eaton

Genesee

Gladwin

Gratiot

Huron

Ingham

Isabella

Jackson

Lenawee

Midland

Monroe

Saginaw

Sanilac

Shiawassee

Tuscola

Washtenaw (effective until January 2027)

Ohio:

Fulton

Lucas (effective until January 2027)

Wood

Northwestern Michigan

Survey Area

Michigan:

Delta

Dickinson

Marquette

Area of Application. Survey area plus:

Michigan:

Alcona

Alger

Alpena

Antrim

Baraga

Benzie

Charlevoix

Cheboygan

Chippewa

Crawford

Emmet

Gogebic

Grand Traverse

Houghton

Iosco

Iron

Kalkaska

Keweenaw

Leelanau

Luce

Mackinac

Manistee

Menominee

Missaukee

Montmorency

Ogemaw

Ontonagon

Oscoda

Otsego

Presque Isle

Roscommon

Schoolcraft

Wexford

Wisconsin:

Florence

Marinette

Southwestern Michigan

Survey Area

Michigan:

Barry

Calhoun

Kalamazoo

Van Buren

Area of Application. Survey area plus:

Michigan:

Allegan

Berrien

Branch

Cass

Hillsdale

Ionia

Kent

Lake

Mason

Mecosta

Montcalm

Muskegon

Newaygo

Oceana

Osceola

Ottawa

St. Joseph

MINNESOTA

Duluth

Survey Area

Minnesota:

Carlton

St. Louis

Wisconsin:

Douglas

Area of Application. Survey area plus:

Minnesota:

Aitkin

Becker (only includes the White Earth Indian Reservation portion)

Beltrami

Cass

Clearwater

Cook

Crow Wing

Hubbard

Itasca

Koochiching

Lake

Lake of the Woods

Mahnomen

Wisconsin:

Ashland

Bayfield

Burnett

Iron

Sawyer

Washburn

Minneapolis-St. Paul

Survey Area

Minnesota:

Anoka

Carver

Chisago

Dakota

Hennepin

Morrison (effective for wage surveys beginning in April 2027)

Ramsey

Scott

Stearns (effective for wage surveys beginning in April 2027)

Washington

Wright

Wisconsin:

St. Croix

Area of Application. Survey area plus:

Minnesota:

Benton

Big Stone

Blue Earth

Brown

Chippewa

Cottonwood

Dodge

Douglas

Faribault

Fillmore

Freeborn

Goodhue

Grant

Isanti

Kanabec

Kandiyohi

Lac Qui Parle

Le Sueur

McLeod

Martin

Meeker

Mille Lacs

Morrison (effective until April 2027)

Mower

Nicollet

Olmsted

Pine

Pope

Redwood

Renville

Rice

Sherburne

Sibley

Stearns (effective until April 2027)

Steele

Stevens

Swift

Todd

Traverse

Wabasha

Wadena

Waseca

Watonwan

Winona

Yellow Medicine

Wisconsin:

Pierce

Polk

MISSISSIPPI

Biloxi

Survey Area

Mississippi:

Hancock

Harrison

Jackson

Area of Application. Survey area plus:

Mississippi:

George

Pearl River

Stone

Jackson

Survey Area

Mississippi:

Hinds

Rankin

Warren

Area of Application. Survey area plus:

Mississippi:

Adams

Amite

Attala

Claiborne

Copiah

Franklin

Holmes

Humphreys

Issaquena

Jefferson

Jefferson Davis

Lawrence

Lincoln

Madison

Marion

Pike

Scott

Sharkey

Simpson

Smith

Walthall

Wilkinson

Yazoo

Meridian

Survey Area

Alabama:

Choctaw

Mississippi:

Forrest

Lamar

Lauderdale

Area of Application. Survey area plus:

Alabama:

Sumter

Mississippi:

Clarke

Covington

Greene

Jasper

Jones

Kemper

Leake

Neshoba

Newton

Perry

Wayne

Northern Mississippi

Survey Area

Mississippi:

Clay

Grenada

Lee

Leflore

Lowndes

Monroe

Oktibbeha

Area of Application. Survey area plus:

Mississippi:

Alcorn

Bolivar

Calhoun

Carroll

Chickasaw

Choctaw

Coahoma

Itawamba

Lafayette (Does not include the Holly Springs National Forest portion)

Montgomery

Noxubee

Pontotoc (Does not include the Holly Springs National Forest portion)

Prentiss

Quitman

Sunflower

Tallahatchie

Tishomingo

Union (Does not include the Holly Springs National Forest portion)

Washington

Webster

Winston

Yalobusha

MISSOURI

Kansas City

Survey Area

Kansas:

Jefferson (effective for wage surveys beginning in October 2026)

Johnson

Leavenworth

Osage (effective for wage surveys beginning in October 2026)

Shawnee (effective for wage surveys beginning in October 2026)

Wyandotte

Missouri:

Cass

Clay

Jackson

Johnson (effective for wage surveys beginning in October 2026)

Platte

Ray

Area of Application. Survey area plus:

Kansas:

Allen

Anderson

Atchison

Bourbon

Doniphan

Douglas

Franklin

Jackson

Jefferson (effective until October 2026)

Linn

Miami

Osage (effective until October 2026)

Shawnee (effective until October 2026)

Wabaunsee

Missouri:

Adair

Andrew

Atchison

Bates

Buchanan

Caldwell

Carroll

Chariton

Clinton

Daviess

DeKalb

Gentry

Grundy

Harrison

Henry

Holt

Johnson (effective until October 2026)

Lafayette

Linn

Livingston

Macon

Mercer

Nodaway

Pettis

Putnam

Saline

Schuyler

Sullivan

Worth

St. Louis

Survey Area

Illinois:

Clinton

Madison

Monroe

St. Clair

Williamson (effective for wage surveys beginning in October 2026)

Missouri (city):

St. Louis

Missouri (counties):

Boone (effective for wage surveys beginning in October 2026)

Franklin

Jefferson

St. Charles

St. Louis

Area of Application. Survey area plus:

Illinois:

Adams

Alexander

Bond

Calhoun

Clay

Effingham

Fayette

Franklin

Greene

Hamilton

Jackson

Jefferson

Jersey

Johnson

Macoupin

Marion

Montgomery

Perry

Pike

Pope

Pulaski

Randolph

Saline

Union

Washington

Wayne

Williamson (effective until October 2026)

Missouri:

Audrain

Bollinger

Boone (effective until October 2026)

Callaway

Cape Girardeau

Clark

Cole

Cooper

Crawford

Gasconade

Howard

Iron

Knox

Lewis

Lincoln

Madison

Marion

Mississippi

Moniteau

Monroe

Montgomery

Osage

Perry

Pike

Ralls

Randolph

St. Francois

Ste. Genevieve

Scotland

Scott

Shelby

Warren

Washington

Southern Missouri

Survey Area

Missouri:

Christian

Greene

Laclede

Phelps

Pulaski

Webster

Area of Application. Survey area plus:

Kansas:

Cherokee

Crawford

Missouri:

Barry

Barton

Benton

Butler

Camden

Carter

Cedar

Dade

Dallas

Dent

Douglas

Hickory

Howell

Jasper

Lawrence

Maries

Miller

Morgan

New Madrid

Newton

Oregon

Ozark

Polk

Reynolds

Ripley

St. Clair

Shannon

Stoddard

Stone

Taney

Texas

Vernon

Wayne

Wright

MONTANA

Montana

Survey Area

Montana:

Cascade

Lewis and Clark

Yellowstone

Area of Application. Survey area plus:

Montana:

Beaverhead

Big Horn

Blaine

Broadwater

Carbon

Carter

Chouteau

Custer

Daniels

Dawson

Deer Lodge

Fallon

Fergus

Flathead

Gallatin

Garfield

Glacier

Golden Valley

Granite

Hill

Jefferson

Judith Basin

Lake

Liberty

Lincoln

McCone

Madison

Meagher

Mineral

Missoula

Musselshell

Park

Petroleum

Phillips

Pondera

Powder River

Powell

Prairie

Ravalli

Richland

Roosevelt

Rosebud

Sanders

Sheridan

Silver Bow

Stillwater

Sweet Grass

Teton

Toole

Treasure

Valley

Wheatland

Wibaux

Wyoming:

Big Horn

Park

Teton

NEBRASKA

Omaha

Survey Area

Iowa:

Pottawattamie

Nebraska:

Douglas

Lancaster

Sarpy

Area of Application. Survey area plus:

Iowa:

Adams

Audubon

Buena Vista

Cass

Cherokee

Clay

Crawford

Fremont

Harrison

Ida

Mills

Monona

Montgomery

O'Brien

Page

Palo Alto

Plymouth

Pocahontas

Sac

Shelby

Sioux

Taylor

Woodbury

Nebraska:

Adams

Antelope

Arthur

Blaine

Boone

Boyd

Brown

Buffalo

Burt

Butler

Cass

Cedar

Chase

Cherry

Clay

Colfax

Cuming

Custer

Dakota

Dawson

Dixon

Dodge

Dundy

Fillmore

Franklin

Frontier

Furnas

Gage

Garfield

Gosper

Grant

Greeley

Hall

Hamilton

Harlan

Hayes

Hitchcock

Holt

Hooker

Howard

Jefferson

Johnson

Kearney

Keith

Keya Paha

Knox

Lincoln

Logan

Loup

McPherson

Madison

Merrick

Nance

Nemaha

Nuckolls

Otoe

Pawnee

Perkins

Phelps

Pierce

Platte

Polk

Red Willow

Richardson

Rock

Saline

Saunders

Seward

Sherman

Stanton

Thayer

Thomas

Thurston

Valley

Washington

Wayne

Webster

Wheeler

York

South Dakota:

Union

NEVADA

Las Vegas

Survey Area

Nevada:

Clark

Nye

Area of Application. Survey area plus:

Arizona:

Mohave

California:

Inyo (Does not include the China Lake Naval Weapons Center portion)

Nevada:

Esmeralda

Lincoln

Reno

Survey Area

California:

Lassen (effective for wage surveys beginning in March 2026)

Nevada:

Lyon

Mineral

Storey

Washoe

Area of Application. Survey area plus:

California:

Alpine

Lassen (effective until March 2026)

Mono (Does not cover locations where the Bridgeport, CA, special schedule applies)

Nevada (city):

Carson City

Nevada (county):

Churchill

Douglas

Elko

Eureka

Humboldt

Lander

Pershing

White Pine

NEW MEXICO

Albuquerque-Santa Fe-Los Alamos

Survey Area

New Mexico:

Bernalillo

McKinley (effective for wage surveys beginning in April 2027)

Sandoval

Area of Application. Survey area plus:

New Mexico:

Catron

Cibola

Colfax

Curry

De Baca

Guadalupe

Harding

Lincoln (Does not include the White Sands Missile Range portion)

Los Alamos

McKinley (effective until April 2027)

Mora

Quay

Rio Arriba

Roosevelt

San Miguel

Santa Fe

Socorro (Does not include the White Sands Missile Range portion)

Taos

Torrance

Union

Valencia

NEW YORK

Albany-Schenectady

Survey Area

New York:

Albany

Montgomery

Rensselaer

Saratoga

Schenectady

Area of Application. Survey area plus:

Massachusetts:

Berkshire

New York:

Columbia

Delaware

Fulton

Greene

Hamilton

Schoharie

Warren

Washington

Vermont:

Bennington

Rutland

Buffalo

Survey Area

New York:

Erie

Niagara

Area of Application. Survey area plus:

New York:

Allegany

Cattaraugus

Chautauqua

Wyoming

Pennsylvania:

Elk (Only includes the Allegheny National Forest portion)

Forest (Only includes the Allegheny National Forest portion)

McKean

Warren

New York-Newark

Survey Area

New Jersey:

Bergen

Burlington (Only includes the Joint Base McGuire-Dix-Lakehurst portion)

Essex

Hudson

Middlesex

Monmouth (effective for wage surveys beginning in January 2028)

Morris

Ocean (effective for wage surveys beginning in January 2028)

Passaic

Somerset

Union

New York:

Bronx

Dutchess (effective for wage surveys beginning in January 2028)

Kings

Nassau

New York

Orange

Queens

Suffolk

Westchester

Pennsylvania:

Monroe (effective for wage surveys beginning in January 2028)

Area of Application. Survey area plus:

Connecticut:

Fairfield

New Jersey:

Hunterdon

Mercer

Monmouth (effective until January 2028)

Ocean (effective until January 2028)

Sussex

Warren

New York:

Dutchess (effective until January 2028)

Putnam

Richmond

Rockland

Sullivan

Ulster

Pennsylvania:

Carbon

Lehigh

Monroe (effective until January 2028)

Northampton

Pike

Wayne

Northern New York

Survey Area

New York:

Clinton

Franklin

Jefferson

St. Lawrence

Vermont:

Chittenden

Franklin

Grand Isle

Area of Application. Survey area plus:

New York:

Essex

Lewis

Vermont:

Addison

Caledonia

Essex

Lamoille

Orleans

Washington

Rochester

Survey Area

New York:

Livingston

Monroe

Ontario

Orleans

Steuben

Wayne

Area of Application. Survey area plus:

New York:

Chemung

Genesee

Schuyler

Seneca

Yates

Pennsylvania:

Tioga

Syracuse-Utica-Rome

Survey Area

New York:

Herkimer

Madison

Oneida

Onondaga

Oswego

Area of Application. Survey area plus:

New York:

Broome

Cayuga

Chenango

Cortland

Otsego

Tioga

Tompkins

NORTH CAROLINA

Asheville

Survey Area

North Carolina:

Buncombe

Haywood

Henderson

Madison

Transylvania

Area of Application. Survey area plus:

North Carolina:

Avery

Cherokee

Clay

Graham

Jackson

Macon

Mitchell

Polk

Rutherford

Swain

Yancey

Central North Carolina

Survey Area

North Carolina:

Cumberland

Durham

Harnett

Hoke

Johnston

Orange

Wake

Wayne

Area of Application. Survey area plus:

North Carolina:

Alamance

Bladen

Caswell

Chatham

Davidson

Davie

Edgecombe

Forsyth

Franklin

Granville

Guilford

Halifax

Lee

Montgomery

Moore

Nash

Northampton

Person

Randolph

Richmond

Robeson

Rockingham

Sampson

Scotland

Stokes

Surry

Vance

Warren

Wilson

Yadkin

South Carolina:

Dillon

Marion

Marlboro

Charlotte-Concord

Survey Area

North Carolina:

Cabarrus

Gaston

Mecklenburg

Rowan

Union

Area of Application. Survey area plus:

North Carolina:

Alexander

Anson

Burke

Caldwell

Catawba

Cleveland

Iredell

Lincoln

McDowell

Stanly

Wilkes

South Carolina:

Chester

Chesterfield

Lancaster

York

Southeastern North Carolina

Survey Area

North Carolina:

Brunswick

Carteret

Columbus

Craven

Jones

Lenoir

New Hanover

Onslow

Pamlico

Pender

Area of Application. Survey area plus:

North Carolina:

Beaufort

Bertie

Duplin

Greene

Hyde

Martin

Pitt

Washington

NORTH DAKOTA

North Dakota

Survey Area

Minnesota:

Clay

Polk

North Dakota:

Burleigh

Cass

Grand Forks

McLean

Mercer

Morton

Oliver

Traill

Ward

Area of Application. Survey area plus:

Minnesota:

Becker (does not include the White Earth Indian Reservation portion)

Kittson

Marshall

Norman

Otter Tail

Pennington

Red Lake

Roseau

Wilkin

North Dakota:

Adams

Barnes

Benson

Billings

Bottineau

Bowman

Burke

Cavalier

Dickey

Divide

Dunn

Eddy

Emmons

Foster

Golden Valley

Grant

Griggs

Hettinger

Kidder

LaMoure

Logan

McHenry

McIntosh

McKenzie

Mountrail

Nelson

Pembina

Pierce

Ramsey

Ransom

Renville

Richland

Rolette

Sargent

Sheridan

Sioux

Slope

Stark

Steele

Stutsman

Towner

Walsh

Wells

Williams

OHIO

Cincinnati

Survey Area

Indiana:

Dearborn

Kentucky:

Boone

Campbell

Kenton

Ohio:

Clermont

Hamilton

Warren

Area of Application. Survey area plus:

Indiana:

Franklin

Ohio

Ripley

Switzerland

Union

Kentucky:

Bracken

Carroll

Gallatin

Grant

Lewis

Mason

Owen

Pendleton

Robertson

Ohio:

Adams

Brown

Butler

Clinton

Highland

Cleveland-Akron-Canton

Survey Area

Ohio:

Cuyahoga

Geauga

Lake

Mahoning (effective for wage surveys beginning in April 2027)

Medina

Area of Application. Survey area plus:

Ohio:

Ashland

Ashtabula

Carroll

Columbiana

Coshocton

Crawford

Erie

Holmes

Huron

Lorain

Mahoning (effective until April 2027)

Ottawa

Portage

Richland

Sandusky

Stark

Summit

Trumbull

Tuscarawas

Wayne

Columbus-Marion-Zanesville

Survey Area

Ohio:

Delaware

Fairfield

Franklin

Licking

Madison

Pickaway

Ross (effective for wage surveys beginning in January 2027)

Area of Application. Survey area plus:

Ohio:

Athens

Fayette

Guernsey

Hancock

Hardin

Hocking

Knox

Logan

Marion

Morgan

Morrow

Muskingum

Noble

Perry

Pike

Ross (effective until January 2027)

Seneca

Union

Vinton

Wyandot

Dayton

Survey Area

Ohio:

Champaign

Clark

Greene

Miami

Montgomery

Preble

Area of Application. Survey area plus:

Ohio:

Allen

Auglaize

Darke

Mercer

Shelby

Van Wert

OKLAHOMA

Oklahoma City

Survey Area

Oklahoma:

Canadian

Cleveland

McClain

Oklahoma

Pottawatomie

Area of Application. Survey area plus:

Oklahoma:

Alfalfa

Atoka

Beckham

Blaine

Caddo

Coal

Custer

Dewey

Ellis

Garfield

Garvin

Grady

Grant

Harper

Hughes

Johnston

Kingfisher

Lincoln

Logan

Major

Marshall

Murray

Noble

Payne

Pontotoc

Roger Mills

Seminole

Washita

Woods

Woodward

Tulsa

Survey Area

Oklahoma:

Creek

Mayes

Muskogee

Osage

Pittsburg

Rogers

Tulsa

Wagoner

Area of Application. Survey area plus:

Arkansas:

Benton

Carroll

Crawford

Franklin (Only includes the Fort Chaffee portion)

Madison

Sebastian

Washington

Missouri:

McDonald

Oklahoma:

Adair

Cherokee

Choctaw

Craig

Delaware

Haskell

Kay

Latimer

Le Flore

McCurtain

McIntosh

Nowata

Okfuskee

Okmulgee

Ottawa

Pawnee

Pushmataha

Sequoyah

Washington

OREGON

Portland-Vancouver-Salem

Survey Area

Oregon:

Clackamas

Marion

Multnomah

Polk

Washington

Washington:

Clark

Area of Application. Survey area plus:

Oregon:

Benton

Clatsop

Columbia

Gilliam

Hood River

Linn

Sherman

Tillamook

Wasco

Yamhill

Washington:

Cowlitz

Klickitat

Skamania

Wahkiakum

Southwestern Oregon

Survey Area

Oregon:

Douglas

Jackson

Lane

Area of Application. Survey area plus:

California:

Del Norte

Oregon:

Coos

Crook

Curry

Deschutes

Jefferson

Josephine

Klamath

Lake

Lincoln

PENNSYLVANIA

Harrisburg-York-Lebanon

Survey Area

Pennsylvania:

Cumberland

Dauphin

Lebanon

Union (effective for wage surveys beginning in May 2026)

York

Area of Application. Survey area plus:

Pennsylvania:

Adams

Clinton

Juniata

Lancaster

Lycoming

Mifflin

Perry

Union (effective until May 2026)

Philadelphia-Reading-Camden

Survey Area

Delaware:

Kent (effective for wage surveys beginning in October 2027)

New Castle (effective for wage surveys beginning in October 2027)

Maryland:

Cecil (effective for wage surveys beginning in October 2027)

New Jersey:

Burlington (Excluding the Joint Base McGuire-Dix-Lakehurst portion)

Camden

Gloucester

Salem (effective for wage surveys beginning in October 2027)

Pennsylvania:

Bucks

Chester

Delaware

Montgomery

Philadelphia

Area of Application. Survey area plus:

Delaware:

Kent (effective until October 2027)

New Castle (effective until October 2027)

Sussex

Maryland:

Cecil (effective until October 2027)

Somerset

Wicomico

Worcester (Does not include the Assateague Island portion)

New Jersey:

Atlantic

Cape May

Cumberland

Salem (effective until October 2027)

Pennsylvania:

Berks

Schuylkill

Pittsburgh

Survey Area

Pennsylvania:

Allegheny

Beaver

Butler

Cambria (effective for wage surveys beginning in July 2027)

Washington

Westmoreland

Area of Application. Survey area plus:

Ohio:

Belmont

Harrison

Jefferson

Pennsylvania:

Armstrong

Bedford

Blair

Cambria (effective until July 2027)

Cameron

Centre

Clarion

Clearfield

Crawford

Elk (Does not include the Allegheny National Forest portion)

Erie

Fayette

Forest (Does not include the Allegheny National Forest portion)

Greene

Huntingdon

Indiana

Jefferson

Lawrence

Mercer

Potter

Somerset

Venango

West Virginia:

Brooke

Hancock

Marshall

Ohio

Scranton-Wilkes-Barre

Survey Area

Pennsylvania:

Lackawanna

Luzerne

Area of Application. Survey area plus:

Pennsylvania:

Bradford

Columbia

Montour

Northumberland

Snyder

Sullivan

Susquehanna

Union

Wayne

Wyoming

PUERTO RICO

Puerto Rico

Survey Area

Puerto Rico (Municipios):

Bayamón

Canóvanas

Carolina

Cataño

Guaynabo

Humacao

Loíza

San Juan

Toa Baja

Trujillo Alto

Area of Application.

Puerto Rico

SOUTH CAROLINA

Charleston

Survey Area

South Carolina:

Berkeley

Charleston

Dorchester

Area of Application. Survey area plus:

South Carolina:

Colleton

Georgetown

Horry

Williamsburg

Columbia

Survey Area

South Carolina:

Darlington

Florence

Kershaw

Lee

Lexington

Richland

Sumter

Area of Application. Survey area plus:

South Carolina:

Abbeville

Anderson

Calhoun

Cherokee

Clarendon

Fairfield

Greenville

Greenwood

Laurens

Newberry

Oconee

Orangeburg

Pickens

Saluda

Spartanburg

Union

SOUTH DAKOTA

Eastern South Dakota

Survey Area

South Dakota:

Minnehaha

Area of Application. Survey area plus:

Iowa:

Dickinson

Emmet

Lyon

Osceola

Minnesota:

Jackson

Lincoln

Lyon

Murray

Nobles

Pipestone

Rock

South Dakota:

Aurora

Beadle

Bennett

Bon Homme

Brookings

Brown

Brule

Buffalo

Campbell

Charles Mix

Clark

Clay

Codington

Corson

Davison

Day

Deuel

Dewey

Douglas

Edmunds

Faulk

Grant

Gregory

Haakon

Hamlin

Hand

Hanson

Hughes

Hutchinson

Hyde

Jerauld

Jones

Kingsbury

Lake

Lincoln

Lyman

McCook

McPherson

Marshall

Mellette

Miner

Moody

Potter

Roberts

Sanborn

Spink

Stanley

Sully

Todd

Tripp

Turner

Walworth

Yankton

Ziebach

TENNESSEE

Eastern Tennessee

Survey Area

Tennessee:

Carter

Hawkins

Sullivan

Unicoi

Washington

Virginia (city):

Bristol

Virginia (counties):

Scott

Washington

Area of Application. Survey area plus:

Kentucky:

Harlan

Letcher

North Carolina:

Alleghany

Ashe

Watauga

Tennessee:

Cocke

Greene

Hancock

Johnson

Virginia:

Buchanan

Grayson

Lee

Russell

Smyth

Tazewell

Memphis

Survey Area

Arkansas:

Crittenden

Mississippi

Mississippi:

De Soto

Tennessee:

Shelby

Tipton

Area of Application. Survey area plus:

Arkansas:

Craighead

Cross

Lee

Poinsett

St. Francis

Mississippi:

Benton

Lafayette (Only includes the Holly Springs National Forest portion)

Marshall

Panola

Pontotoc (Only includes the Holly Springs National Forest portion)

Tate

Tippah

Tunica

Union (Only includes the Holly Springs National Forest portion)

Missouri:

Dunklin

Pemiscot

Tennessee:

Carroll

Chester

Crockett

Dyer

Fayette

Gibson

Hardeman

Hardin

Haywood

Lake

Lauderdale

Madison

McNairy

Obion

Nashville

Survey Area

Kentucky:

Christian

Tennessee:

Cheatham

Davidson

Dickson

Montgomery

Robertson

Rutherford

Sumner

Williamson

Wilson

Area of Application. Survey area plus:

Alabama:

Jackson

Georgia:

Catossa

Chattooga

Dade

Murray

Walker

Whitfield

Illinois:

Massac

Kentucky:

Adair

Allen

Ballard

Barren

Butler

Caldwell

Calloway

Carlisle

Clinton

Cumberland

Edmonson

Fulton

Graves

Hickman

Hopkins

Livingston

Logan

Lyon

McCracken

Marshall

Metcalfe

Monroe

Muhlenberg

Russell

Simpson

Todd

Trigg

Warren

Tennessee:

Anderson

Bedford

Benton

Bledsoe

Blount

Bradley

Campbell

Cannon

Claiborne

Clay

Coffee

Cumberland

Decatur

DeKalb

Fentress

Franklin

Grainger

Grundy

Hamblen

Hamilton

Henderson

Henry

Hickman

Houston

Humphreys

Jackson

Jefferson

Knox

Lawrence

Lewis

Loudon

McMinn

Macon

Marion

Marshall

Maury

Meigs

Monroe

Moore

Morgan

Overton

Perry

Pickett

Polk

Putnam

Rhea

Roane

Scott

Sequatchie

Sevier

Smith

Stewart

Trousdale

Union

Van Buren

Warren

Weakley

White

TEXAS

Austin

Survey Area

Texas:

Hays

Milam

Travis

Williamson

Area of Application. Survey area plus:

Texas:

Bastrop

Blanco

Burnet

Caldwell

Fayette

Lee

Llano

Mason

San Saba

Corpus Christi-Kingsville-Alice

Survey Area

Texas:

Hidalgo (effective for wage surveys beginning in June 2026)

Nueces

San Patricio

Area of Application. Survey area plus:

Texas:

Aransas

Bee

Brooks

Calhoun

Cameron

Duval

Goliad

Hidalgo (effective until June 2026)

Jim Wells

Kenedy

Kleberg

Live Oak

Refugio

Starr

Victoria

Willacy

Dallas-Fort Worth

Survey Area

Texas:

Collin

Dallas

Denton

Ellis

Grayson

Hood

Johnson

Kaufman

Parker

Rockwall

Tarrant

Wise

Area of Application. Survey area plus:

Oklahoma:

Bryan

Carter

Love

Texas:

Cherokee

Cooke

Delta

Erath

Fannin

Henderson

Hill

Hopkins

Hunt

Jack

Lamar

Montague

Navarro

Palo Pinto

Rains

Smith

Somervell

Van Zandt

Wood

El Paso

Survey Area

New Mexico:

Dona Ana

Otero

Texas:

El Paso

Area of Application. Survey area plus:

New Mexico:

Chaves

Eddy

Grant

Hidalgo

Lincoln (Only includes the White Sands Missile Range portion)

Luna

Sierra

Socorro (Only includes the White Sands Missile Range portion)

Texas:

Culberson

Hudspeth

Houston-Galveston-Texas City

Survey Area

Texas:

Brazoria

Fort Bend

Galveston

Harris

Liberty

Montgomery

Waller

Area of Application. Survey area plus:

Texas:

Angelina

Austin

Chambers

Colorado

Grimes

Hardin

Houston

Jackson

Jasper

Jefferson

Lavaca

Madison

Matagorda

Nacogdoches

Newton

Orange

Polk

Sabine

San Augustine

San Jacinto

Shelby

Trinity

Tyler

Walker

Washington

Wharton

San Antonio

Survey Area

Texas:

Bexar

Comal

Guadalupe

Area of Application. Survey area plus:

Texas:

Atascosa

Bandera

DeWitt

Dimmit

Edwards

Frio

Gillespie

Gonzales

Jim Hogg

Karnes

Kendall

Kerr

Kinney

La Salle

McMullen

Maverick

Medina

Real

Uvalde

Val Verde

Webb

Wilson

Zapata

Zavala

Texarkana

Survey Area

Arkansas:

Little River

Miller

Texas:

Bowie

Area of Application. Survey area plus:

Arkansas:

Columbia

Hempstead

Howard

Lafayette

Nevada

Sevier

Texas:

Camp

Cass

Franklin

Marion

Morris

Red River

Titus

Waco

Survey Area

Texas:

Bell

Coryell

McLennan

Area of Application. Survey area plus:

Texas:

Anderson

Bosque

Brazos

Burleson

Falls

Freestone

Hamilton

Lampasas

Leon

Limestone

Mills

Robertson

Western Texas

Survey Area

Texas:

Callahan

Ector

Howard

Jones

Lubbock

Midland

Nolan

Taylor

Tom Green

Area of Application. Survey area plus:

New Mexico:

Lea

Oklahoma:

Beaver

Cimarron

Texas

Texas:

Andrews

Armstrong

Bailey

Borden

Brewster

Briscoe

Brown

Carson

Castro

Childress

Cochran

Coke

Coleman

Collingsworth

Comanche

Concho

Cottle

Crane

Crockett

Crosby

Dallam

Dawson

Deaf Smith

Dickens

Donley

Eastland

Fisher

Floyd

Gaines

Garza

Glasscock

Gray

Hale

Hall

Hansford

Hartley

Haskell

Hemphill

Hockley

Hutchinson

Irion

Jeff Davis

Kent

Kimble

King

Lamb

Lipscomb

Loving

Lynn

McCulloch

Martin

Menard

Mitchell

Moore

Motley

Ochiltree

Oldham

Parmer

Pecos

Potter

Presidio

Randall

Reagan

Reeves

Roberts

Runnels

Schleicher

Scurry

Shackelford

Sherman

Stephens

Sterling

Stonewall

Sutton

Swisher

Terrell

Terry

Throckmorton

Upton

Ward

Wheeler

Winkler

Yoakum

Wichita Falls, Texas-Southwestern Oklahoma

Survey Area

Oklahoma:

Comanche

Cotton

Stephens

Tillman

Texas:

Archer

Clay

Wichita

Area of Application. Survey area plus:

Oklahoma:

Greer

Harmon

Jackson

Jefferson

Kiowa

Texas:

Baylor

Foard

Hardeman

Knox

Wilbarger

Young

UTAH

Utah

Survey Area

Utah:

Box Elder

Davis

Salt Lake

Tooele

Utah

Weber

Area of Application. Survey area plus:

Colorado:

Mesa

Moffat

Idaho:

Franklin

Utah:

Beaver

Cache

Carbon

Daggett

Duchesne

Emery

Garfield (Does not include the Bryce Canyon, Capitol Reef, and Canyonlands National Parks portions)

Grand (Does not include the Arches and Canyonlands National Parks portions)

Iron (Does not include the Cedar Breaks National Monument and Zion National Park portions)

Juab

Millard

Morgan

Piute

Rich

Sanpete

Sevier

Summit

Uintah

Wasatch

Wayne (Does not include the Capitol Reef and Canyonlands National Parks portions)

VIRGINIA

Richmond

Survey Area

Virginia (cities):

Colonial Heights

Hopewell

Petersburg

Richmond

Virginia (counties):

Charles City

Chesterfield

Dinwiddie

Goochland

Hanover

Henrico

New Kent

Powhatan

Prince George

Area of Application. Survey area plus:

Virginia (cities):

Charlottesville

Emporia

Virginia (counties):

Albemarle (Does not include the Shenandoah National Park portion)

Amelia

Brunswick

Buckingham

Charlotte

Cumberland

Essex

Fluvanna

Greene (Does not include the Shenandoah National Park portion)

Greensville

King and Queen

King William

Lancaster

Louisa

Lunenburg

Mecklenburg

Nelson

Northumberland

Nottoway

Prince Edward

Richmond

Sussex

Roanoke

Survey Area

Virginia (cities):

Radford

Roanoke

Salem

Virginia (counties):

Botetourt

Craig

Montgomery

Roanoke

Area of Application. Survey area plus:

Virginia (cities):

Buena Vista

Covington

Danville

Galax

Lexington

Lynchburg

Martinsville

Staunton

Waynesboro

Virginia (counties):

Alleghany

Amherst

Appomattox

Augusta (Does not include the Shenandoah National Park portion)

Bath

Bedford

Bland

Campbell

Carroll

Floyd

Franklin

Giles

Halifax

Henry

Highland

Patrick

Pittsylvania

Pulaski

Rockbridge

Wythe

Virginia Beach-Chesapeake

Survey Area

North Carolina:

Currituck

Pasquotank (effective for wage surveys beginning in May 2026)

Virginia (cities):

Chesapeake

Hampton

Newport News

Norfolk

Poquoson

Portsmouth

Suffolk

Virginia Beach

Williamsburg

Virginia (counties):

Gloucester

James City

York

Area of Application. Survey area plus:

Maryland:

Worcester (Only includes the Assateague Island portion)

North Carolina:

Camden

Chowan

Dare

Gates

Hertford

Pasquotank (effective until May 2026)

Perquimans

Tyrrell

Virginia (city):

Franklin

Virginia (counties):

Accomack

Isle of Wight

Mathews

Middlesex

Northampton

Southampton

Surry

WASHINGTON

Seattle-Tacoma

Survey Area

Washington:

Island (effective for wage surveys beginning in September 2026)

King

Kitsap

Pierce

Snohomish

Area of Application. Survey area plus:

Washington:

Chelan (Only includes the North Cascades National Park section)

Clallam

Grays Harbor

Island (effective until September 2026)

Jefferson

Lewis

Mason

Pacific

San Juan

Skagit

Thurston

Whatcom

Southeastern Washington-Eastern Oregon

Survey Area

Oregon:

Umatilla

Washington:

Benton

Franklin

Walla Walla

Yakima

Area of Application. Survey area plus:

Oregon:

Baker

Grant

Harney

Malheur

Morrow

Union

Wallowa

Wheeler

Washington:

Columbia

Kittitas (Only includes the Yakima Firing Range portion)

Spokane

Survey Area

Washington:

Spokane

Area of Application. Survey area plus:

Idaho:

Benewah

Bonner

Boundary

Clearwater

Idaho

Kootenai

Latah

Lewis

Nez Perce

Shoshone

Washington:

Adams

Asotin

Chelan (Does not include the North Cascades National Park portion)

Douglas

Ferry

Garfield

Grant

Kittitas (Does not include the Yakima Firing Range portion)

Lincoln

Okanogan

Pend Oreille

Stevens

Whitman

WEST VIRGINIA

West Virginia

Survey Area

Kentucky:

Boyd

Greenup

Ohio:

Lawrence

West Virginia:

Cabell

Harrison

Kanawha

Marion

Monongalia

Putnam

Wayne

Area of Application. Survey area plus:

Kentucky:

Carter

Elliott

Floyd

Johnson

Lawrence

Magoffin

Martin

Pike

Ohio:

Gallia

Jackson

Meigs

Monroe

Scioto

Washington

Virginia (city):

Norton

Virginia (counties):

Dickenson

Wise

West Virginia:

Barbour

Boone

Braxton

Calhoun

Clay

Doddridge

Fayette

Gilmer

Grant

Greenbrier

Jackson

Lewis

Lincoln

Logan

McDowell

Mason

Mercer

Mingo

Monroe

Nicholas

Pendleton

Pleasants

Pocahontas

Preston

Raleigh

Randolph

Ritchie

Roane

Summers

Taylor

Tucker

Tyler

Upshur

Webster

Wetzel

Wirt

Wood

Wyoming

WISCONSIN

Madison

Survey Area

Wisconsin:

Dane

Area of Application. Survey area plus:

Wisconsin:

Adams

Columbia

Grant

Green

Green Lake

Iowa

Lafayette

Marquette

Rock

Sauk

Waushara

Milwaukee-Racine-Waukesha

Survey Area

Wisconsin:

Milwaukee

Ozaukee

Washington

Waukesha

Area of Application. Survey area plus:

Wisconsin:

Brown

Calumet

Dodge

Door

Fond du Lac

Jefferson

Kewaunee

Manitowoc

Menominee

Oconto

Outagamie

Racine

Shawano

Sheboygan

Walworth

Winnebago

Southwestern Wisconsin

Survey Area

Wisconsin:

Chippewa

Eau Claire

La Crosse

Monroe

Trempealeau

Area of Application. Survey area plus:

Minnesota:

Houston

Wisconsin:

Barron

Buffalo

Clark

Crawford

Dunn

Forest

Jackson

Juneau

Langlade

Lincoln

Marathon

Oneida

Pepin

Portage

Price

Richland

Rusk

Taylor

Vernon

Vilas

Waupaca

Wood

WYOMING

Wyoming

Survey Area

South Dakota:

Pennington

Wyoming:

Albany

Laramie

Natrona

Area of Application. Survey area plus:

Nebraska:

Banner

Box Butte

Cheyenne

Dawes

Deuel

Garden

Kimball

Morrill

Scotts Bluff

Sheridan

Sioux

South Dakota:

Butte

Custer

Fall River

Harding

Jackson

Lawrence

Meade

Oglala Lakota

Perkins

Wyoming:

Campbell

Carbon

Converse

Crook

Fremont

Goshen

Hot Springs

Johnson

Lincoln

Niobrara

Platte

Sheridan

Sublette

Sweetwater

Uinta

Washakie

Weston

[FR Doc. 2024-22933 Filed 10-7-24; 8:45 a.m.]

BILLING CODE 6325-39-P